Postal Service

Changes in Domestic Rates, Fees, and Mail Classifications

AGENCY: Postal Service.

ACTION: Notice of implementation of changes to domestic rates, fees, and the Domestic Mail Classification Schedule.

SUMMARY: This notice sets forth the changes to domestic rates, fees, and the Domestic Mail Classification Schedule to be implemented as a result of the Decision of the Governors of the United States Postal Service on the Recommended Decision of the Postal Rate Commission on Postal Rate and Fee Changes, Docket No. R2000-1 (December 4, 2000).

EFFECTIVE DATE: January 7, 2001.

FOR FURTHER INFORMATION CONTACT: Daniel J. Foucheaux, Jr., (202) 268-2989.

SUPPLEMENTARY INFORMATION: On January 12, 2000, pursuant to its authority under 39 U.S.C. 3621, et seq., the Postal Service filed with the Postal Rate Commission (PRC) a Request for a Recommended Decision on Proposed Changes in Rates of Postage and Fees for Postal Services (Request). The PRC designated the filing as Docket No. R2000-1. On November 13, 2000, pursuant to its authority under 39 U.S.C. 3624, the PRC issued its Recommended Decision on the Postal Service's Request to the Governors of the Postal Service.

Pursuant to 39 U.S.C. 3625, the Governors of the United States Postal Service acted on the PRC's recommendations on December 4, 2000. In one decision, the Governors rejected the PRC's recommendations regarding Courtesy Envelope Mail, Information-Based Inidicia Program Mail, a flat-rate envelope for Priority Mail, and maximum weight figures for Standard Mail letters and breakpoint figures for Standard Mail. Decision of the Governors of the United States Postal Service on the Recommended Decision of the Postal Rate Commission on Selected Mail Classification Matters, Docket No. R2000-1 (December 4, 2000). In the second decision, the Governors acted on the remainder of the PRC's recommendations. Decision of the Governors of the United States Postal Service on the Recommended Decision of the Postal Rate Commission on Postal Rate and Fee Changes, Docket No. R2000-1 (December 4, 2000). The Governors allowed under protest all of the remaining classification, fee, and rate changes. The Governors requested reconsideration of a number of issues, including revenue requirement, First-Class Mail costs, Bound Printed Matter rates, and nonprofit Standard Mail rates. The attachments to the Governors' Decision, setting forth the classification, fee, and rate changes ordered into effect by the Governors, are set forth below.

In accordance with the Decision of the Governors and Resolution No. 00-16 of the Baord of Governors, the Postal Service hereby gives notice that the classification, fee, and rate changes set forth below will become effective at 12:01 a.m. on January 7, 2001. Implementing regulations also become effective at that time, as noted in a separate notice in the Federal Register.

Attachment A to the Decision of the Governors of the United States Postal Service on the Recommended Decision of the Postal Rate Commission on Postal Rate and Fee Changes, Docket No. R20001-1

(December 4, 2000).

Express Mail Schedules 121, 122 and 123
[Dollars]
Weight not exceeding (pounds) | Schedule 121 same day airport service | Schedule 122 custom designed | Schedule 123 next day and second day PO to PO | Schedule 123 next day and schedule day PO to addressee
½ |  | 9.25 | 9.40 | 12.25
1 |  | 13.75 | 13.90 | 16.00
2 |  | 13.75 | 13.90 | 16.00
3 |  | 16.65 | 16.80 | 18.85
4 |  | 19.45 | 19.60 | 21.70
5 |  | 22.25 | 22.40 | 24.50
6 |  | 25.05 | 25.20 | 27.30
7 |  | 27.75 | 27.90 | 30.00
8 |  | 28.95 | 29.10 | 31.20
9 |  | 30.20 | 30.35 | 32.45
10 |  | 31.40 | 31.55 | 33.65
11 |  | 32.90 | 33.05 | 35.15
12 |  | 35.30 | 35.45 | 37.55
13 |  | 36.55 | 36.70 | 39.25
14 |  | 37.95 | 38.10 | 40.20
15 |  | 39.15 | 39.30 | 41.40
16 |  | 40.50 | 40.65 | 42.75
17 |  | 41.85 | 42.00 | 44.10
18 |  | 43.10 | 43.25 | 45.35
19 |  | 44.40 | 44.55 | 46.65
20 |  | 45.75 | 45.90 | 48.00
21 |  | 47.00 | 47.20 | 49.25
22 |  | 48.30 | 48.45 | 50.55
23 |  | 49.65 | 49.85 | 51.90
24 |  | 50.90 | 51.05 | 53.15
25 |  | 52.20 | 52.40 | 54.45
26 |  | 53.50 | 53.65 | 55.75
27 |  | 54.85 | 55.00 | 57.05
28 |  | 56.10 | 56.25 | 58.35
29 |  | 57.45 | 57.60 | 59.65
30 |  | 58.75 | 58.90 | 61.00
31 |  | 60.05 | 60.20 | 62.25
32 |  | 61.35 | 61.50 | 63.60
33 |  | 62.65 | 62.80 | 64.85
34 |  | 63.95 | 64.10 | 66.20
35 |  | 65.25 | 65.40 | 67.45
36 |  | 66.55 | 66.70 | 68.80
37 |  | 67.80 | 67.95 | 70.30
38 |  | 69.35 | 69.30 | 71.90
39 |  | 70.95 | 70.60 | 73.50
40 |  | 72.55 | 72.00 | 75.10
41 |  | 74.15 | 73.60 | 76.70
42 |  | 75.75 | 75.20 | 78.35
43 |  | 77.35 | 76.80 | 79.90
44 |  | 78.95 | 78.40 | 81.50
45 |  | 80.55 | 80.00 | 82.90
46 |  | 81.85 | 81.55 | 84.15
47 |  | 83.25 | 83.20 | 85.60
48 |  | 84.60 | 84.75 | 86.90
49 |  | 85.90 | 86.05 | 88.20
50 |  | 87.20 | 87.35 | 89.50
51 |  | 88.60 | 88.80 | 90.95
52 |  | 89.90 | 90.05 | 92.20
53 |  | 91.30 | 91.45 | 93.60
54 |  | 92.60 | 92.75 | 94.90
55 |  | 93.90 | 94.10 | 96.25
56 |  | 95.35 | 95.50 | 97.65
57 |  | 96.60 | 96.75 | 98.90
58 |  | 97.95 | 98.10 | 100.30
59 |  | 99.45 | 99.60 | 101.75
60 |  | 101.00 | 101.15 | 103.30
61 |  | 102.70 | 102.85 | 105.00
62 |  | 104.25 | 104.40 | 106.60
63 |  | 105.85 | 106.00 | 108.15
64 |  | 107.50 | 107.70 | 109.85
65 |  | 109.10 | 109.25 | 111.40
66 |  | 110.80 | 110.95 | 113.10
67 |  | 112.35 | 112.50 | 114.65
68 |  | 114.05 | 114.20 | 116.35
69 |  | 115.60 | 115.75 | 117.90
70 |  | 117.20 | 117.35 | 119.50
Schedules 121, 122 and 123 Notes:
¹ The applicable 2-pound rate is charged for matter sent in a ‘flat rate’ envelope provided by the Postal Service.
² Add $10.25 for each pickup stop.
³ Add $10.25 for each Custom Designed delivery stop.

First-Class Mail Rate Schedule 221—Letters and Sealed Parcels
| Rate (cents)
Regular:
Single Piece: First Ounce | 34.0
Presort ¹ | 32.0
Qualified Business Reply Mail | 31.0
Additional Ounce² | 21.0
Nonstandard Surcharge:
Single Piece | 11.0
Presort | 5.0
Automation-Presort: ¹
Letters³
Basic Presort ⁴ | 27.8
3-Digit Presort ⁵ | 26.7
5-Digit Presort ⁶ | 25.3
Carrier Route Presort ⁷ | 24.3
Flats: ⁸
Basic Presort ⁹ | 31.0
3-Digit Presort \10\ | 29.5
5-Digit Presort \11\ | 27.5
Additional Ounce² | 21.0
Nonstandard Surcharge | 5.0
Schedule 221 Notes:
¹ A mailing fee of $125.00 must be paid once each year at each office of mailing by any person who mails other than Single Piece First-Class Mail. Payment of the fee allows the mailer to mail at any First-Class rate. For presorted mailings weighing more than 2 ounces, subtract 4.6 cents per piece.
² Rate applies through 13 ounces. Heavier pieces are subject to Priority Mail rates.
³ Rates apply to bulk-entered mailings of at least 500 letter-size pieces, which must be delivery point barcoded and meet other preparation requirements specified by the Postal Service and, for the Basic Presort rate, documents provided for entry as mail using Mailing Online or a functionally equivalent service, pursuant to section 981.
⁴ Rate applies to letter-size Automation-Presort category mail not mailed at 3-Digit, 5-Digit, or Carrier Route rates.
⁵ Rate applies to letter-size Automation-Presort category mail presorted to single or multiple three-digit ZIP Code destinations specified by the Postal Service.
⁶ Rate applies to letter-size Automation-Presort category mail presorted to single or multiple five-digit ZIP Code destinations specified by the Postal Service.
⁷ Rate applies to letter-size Automation-Presort category mail presorted to carrier routes specified by the Postal Service.
⁸ Rates apply to bulk-entered mailings of at least 500 flat-size pieces, each of which must be delivery point barcoded or bear a ZIP+4 barcode, and must meet other preparation requirements specified by the Postal Service, and, for the Basic Presort rate, to documents provided for entry as mail using Mailing Online or a functionally equivalent service, pursuant to section 981.
⁹ Rate applies to flat-size Automation-Presort category mail not mailed at the 3-Digit or 5-Digit rate.
¹⁰ Rate applies to flat-size Automation-Presort category mail presorted to single or multiple three-digit ZIP Code destinations specified by the Postal Service.
¹¹ Rate applies to flat-size Automation-Presort category mail presorted to single or multiple five-digit ZIP Code destinations specified by the Postal Service.

First-Class Mail Rate Schedule 222—Cards
| Rate (cents)
Regular:
Single Piece | 20.0
Presort ¹ | 18.0
Qualified Business Reply Mail | 17.0
Automation-Presort ¹, ²
Basic Presort ³ | 16.4
3-Digit Presort ⁴ | 15.8
5-Digit Presort ⁵ | 15.1
Carrier Route Presort ⁶ | 14.0
Schedule 222 Notes:
¹ A mailing fee of $125.00 must be paid once each year at each office of mailing by any person who mails other than Single Piece First-Class Mail. Payment of the fee allows the mailer to mail at any First-Class rate.
² Rates apply to bulk-entered mailings of at least 500 pieces, which must be barcoded and meet other preparation requirements specified by the Postal Service and, for the Basic Presort rate, to documents provided for entry as mail using Mailing Online or a functionally equivalent service, pursuant to section 981.
³ Rate applies to Automation-Presort category mail not mailed at 3-Digit, 5-Digit, or Carrier Route rates.
⁴ Rate applies to Automation-Presort category mail presorted to single or multiple three-digit ZIP Code destinations as specified by the Postal Service.
⁵ Rate applies to Automation-Presort category mail presorted to single or multiple five-digit ZIP Code destinations as specified by the Postal Service.
⁶ Rate applies to Automation-Presort category mail presorted to carrier routes specified by the Postal Service.

First-Class Mail Schedule 223—Priority Mail Subclass
[Dollars]
Weight not exceeding (pounds) | Zones L,1,2,3 | Zone 4 | Zone 5 | Zone 6 | Zone 7 | Zone 8
1 | 3.50 | 3.50 | 3.50 | 3.50 | 3.50 | 3.50
2 | 3.95 | 3.95 | 3.95 | 3.95 | 3.95 | 3.95
3 | 5.15 | 5.15 | 5.15 | 5.15 | 5.15 | 5.15
4 | 6.35 | 6.35 | 6.35 | 6.35 | 6.35 | 6.35
5 | 7.55 | 7.55 | 7.55 | 7.55 | 7.55 | 7.55
6 | 7.90 | 8.10 | 8.15 | 8.25 | 9.50 | 10.35
7 | 8.25 | 8.65 | 8.75 | 8.95 | 10.45 | 11.65
8 | 8.50 | 9.20 | 9.35 | 9.65 | 11.40 | 12.95
9 | 8.65 | 9.75 | 9.95 | 10.35 | 12.35 | 14.25
10 | 8.75 | 10.30 | 10.55 | 11.05 | 13.30 | 15.55
11 | 9.00 | 10.85 | 11.15 | 11.75 | 14.25 | 16.85
12 | 9.25 | 11.40 | 11.75 | 12.45 | 15.20 | 18.15
13 | 9.60 | 11.95 | 12.35 | 13.15 | 16.15 | 19.45
14 | 9.95 | 12.50 | 12.95 | 13.85 | 17.10 | 20.75
15 | 10.30 | 13.05 | 13.55 | 14.55 | 18.05 | 22.05
16 | 10.65 | 13.60 | 14.15 | 15.25 | 19.00 | 23.35
17 | 11.00 | 14.15 | 14.75 | 15.95 | 19.95 | 24.65
18 | 11.35 | 14.70 | 15.35 | 16.65 | 20.90 | 25.95
19 | 11.70 | 15.25 | 15.95 | 17.35 | 21.85 | 27.25
20 | 12.05 | 15.80 | 16.55 | 18.05 | 22.80 | 28.55
21 | 12.40 | 16.35 | 17.15 | 18.75 | 23.75 | 29.85
22 | 12.75 | 16.90 | 17.75 | 19.45 | 24.70 | 31.15
23 | 13.10 | 17.45 | 18.35 | 20.15 | 25.65 | 32.45
24 | 13.45 | 18.00 | 18.95 | 20.85 | 26.60 | 33.75
25 | 13.80 | 18.55 | 19.55 | 21.55 | 27.55 | 35.05
26 | 14.15 | 19.10 | 20.15 | 22.25 | 28.50 | 36.35
27 | 14.50 | 19.65 | 20.75 | 22.95 | 29.45 | 37.65
28 | 14.85 | 20.20 | 21.35 | 23.65 | 30.40 | 38.95
29 | 15.20 | 20.75 | 21.95 | 24.35 | 31.35 | 40.25
30 | 15.55 | 21.30 | 22.55 | 25.05 | 32.30 | 41.55
31 | 15.90 | 21.85 | 23.15 | 25.75 | 33.25 | 42.85
32 | 16.25 | 22.40 | 23.75 | 26.45 | 34.20 | 44.15
33 | 16.60 | 22.95 | 24.35 | 27.15 | 35.15 | 45.45
34 | 16.95 | 23.50 | 24.95 | 27.85 | 36.10 | 46.75
35 | 17.30 | 24.05 | 25.55 | 28.55 | 37.05 | 48.05
36 | 17.65 | 24.60 | 26.15 | 29.25 | 38.00 | 49.35
37 | 18.00 | 25.15 | 26.75 | 29.95 | 38.95 | 50.65
38 | 18.35 | 25.70 | 27.35 | 30.65 | 39.90 | 51.95
39 | 18.70 | 26.25 | 27.95 | 31.35 | 40.85 | 53.25
40 | 19.05 | 26.80 | 28.55 | 32.05 | 41.80 | 54.55
41 | 19.40 | 27.35 | 29.15 | 32.75 | 42.75 | 55.85
42 | 19.75 | 27.90 | 29.75 | 33.45 | 43.70 | 57.15
43 | 20.10 | 28.45 | 30.35 | 34.15 | 44.65 | 58.45
44 | 20.45 | 29.00 | 30.95 | 34.85 | 45.60 | 59.75
45 | 20.80 | 29.55 | 31.55 | 35.55 | 46.55 | 61.05
46 | 21.15 | 30.10 | 32.15 | 36.25 | 47.50 | 62.35
47 | 21.50 | 30.65 | 32.75 | 36.95 | 48.45 | 63.65
48 | 21.85 | 31.20 | 33.35 | 37.65 | 49.40 | 64.95
49 | 22.20 | 31.75 | 33.95 | 38.35 | 50.35 | 66.25
50 | 22.55 | 32.30 | 34.55 | 39.05 | 51.30 | 67.55
51 | 22.90 | 32.85 | 35.15 | 39.75 | 52.25 | 68.85
52 | 23.25 | 33.40 | 35.75 | 40.45 | 53.20 | 70.15
53 | 23.60 | 33.95 | 36.35 | 41.15 | 54.15 | 71.45
54 | 23.95 | 34.50 | 36.95 | 41.85 | 55.10 | 72.75
55 | 24.30 | 35.05 | 37.55 | 42.55 | 56.05 | 74.05
56 | 24.65 | 35.60 | 38.15 | 43.25 | 57.00 | 75.35
57 | 25.00 | 36.15 | 38.75 | 43.95 | 57.95 | 76.65
58 | 25.35 | 36.70 | 39.35 | 44.65 | 58.90 | 77.95
59 | 25.70 | 37.25 | 39.95 | 45.35 | 59.85 | 79.25
60 | 26.05 | 37.80 | 40.55 | 46.05 | 60.80 | 80.55
61 | 26.40 | 38.35 | 41.15 | 46.75 | 61.75 | 81.85
62 | 26.75 | 38.90 | 41.75 | 47.45 | 62.70 | 83.15
63 | 27.10 | 39.45 | 42.35 | 48.15 | 63.65 | 84.45
64 | 27.45 | 40.00 | 42.95 | 48.85 | 64.60 | 85.75
65 | 27.80 | 40.55 | 43.55 | 49.55 | 65.55 | 87.05
66 | 28.15 | 41.10 | 44.15 | 50.25 | 66.50 | 88.35
67 | 28.50 | 41.65 | 44.75 | 50.95 | 67.45 | 89.65
68 | 28.85 | 42.20 | 45.35 | 51.65 | 68.40 | 90.95
69 | 29.20 | 42.75 | 45.95 | 52.35 | 69.35 | 92.25
70 | 29.55 | 43.30 | 46.55 | 53.05 | 70.30 | 93.55
Schedule 223 Notes:
¹ The 2-pound rate is charged for matter sent in a “flat rate” envelope provided by the Postal Service.
² Add $10.25 for each pickup stop.
³ Exception: Parcels weighing less than 15 pounds, measuring over 84 inches in length and girth combined, are chargeable with a minimum rate equal to that for a 15-pound parcel for the zone to which addressed.

Standard Mail Rate Schedule 321A—Regular Subclass Presort Categories ¹
| Rate (cents)
Letter Size
Piece Rate
Basic | 25.0
3/5-Digit | 23.0
Destination Entry Discount per Piece
BMC | 1.9
SCF | 2.4
Non-Letter Size ²
Piece Rate:
Minimum per Piece:³
Basic | 31.9
3/5-Digit | 26.3
Destination Entry Discount per Piece:
BMC | 1.9
SCF | 2.4
Pound Rate ³ | 66.8
Plus per Piece Rate:
Basic | 18.1
3/5-Digit | 12.5
Destination Entry Discount per Pound:
BMC | 9.3
SCF | 11.4
Schedule 321A Notes:
1 A fee of $125.00 must be paid each 12-month period for each bulk mailing permit.
2 Residual shape pieces are subject to a surcharge of $0.18 per piece. For parcel barcode discount, deduct $0.03 per piece.
3 Mailer pays either the minimum piece rate or the pound rate, whichever is higher.

Standard Mail Rate Schedule 321B—Regular Subclass Presort Categories ¹
| Rate (cents)
Letter Size:²
Piece Rate:
Basic Letter ³ | 19.7
3-Digit Letter ⁴ | 18.7
5-Digit Letter ⁵ | 17.4
Destination Entry Discount per Piece:
BMC | 1.9
SCF | 2.4
Flat Size:⁶
Piece Rate:
Minimum per Piece:⁷
Basic Flat ⁸ | 27.5
3/5-Digit Flat ⁹ | 23.6
Destination Entry Discount per Piece
BMC | 1.9
SCF | 2.4
Pound Rate ⁷ | 66.8
Plus per piece Rate:
Basic Flat ⁸ | 13.7
3/5-Digit Flat ⁹ | 9.8
Destination Entry Discount per Pound
BMC | 9.3
SCF | 11.4
Schedule 321B Notes:
¹ A fee of $125.00 must be paid once each 12-month period for each bulk mailing permit.
² For letter-size automation pieces meeting applicable Postal Service regulations.
³ Rate applies to letter-size automation mail not mailed at 3-digit, 5-digit or carrier route rates.
⁴ Rate applies to letter-size automation mail presorted to single or multiple three-digit ZIP Code destinations as specified by the Postal Service.
⁵ Rate applies to letter-size automation mail presorted to single or multiple five-digit ZIP Code destinations as specified by the Postal Service.
⁶ For flat-size automation mail meeting applicable Postal Service regulations.
⁷ Mailer pays either the minimum piece rate or the pound rate, whichever is higher.
⁸ Rate applies to flat-size automation mail not mailed at 3/5-digit rate.
⁹ Rate applies to flat-size automation mail presorted to single or multiple three-and five-digit ZIP Code destinations as specified by the Postal Service.

Standard Mail Rate Schedule 322—Enhanced Carrier Route Subclass ¹
| Rate (cents)
Letter Size:
Piece Rate:
Basic | 17.6
Basic Automated Letter ² | 15.5
High Density | 15.1
Saturation | 14.3
Destination Entry Discount per Piece:
BMC | 1.9
SCF | 2.4
DDU | 2.9
Non-Letter Size: ³
Piece Rate:
Minimum per Piece: ⁴
Basic | 17.6
High Density | 15.4
Saturation | 14.7
Destination Entry Discount per Piece:
BMC | 1.9
SCF | 2.4
DDU | 2.9
Pound Rate⁴ | 63.8
Plus per Piece Rate:
Basic | 4.4
High Density | 2.2
Saturation | 1.5
Destination Entry Discount per Pound:
BMC | 9.3
SCF | 11.4
DDU | 14.0
Schedule 322 Notes:
¹ A fee of $125.00 must be paid each 12-month period for each bulk mailing permit.
² Rate applies to letter-size automation mail presorted to routes specified by the Postal Service.
³ Residual shape pieces are subject to a surcharge of $0.15 per piece.
⁴ Mailer pays either the minimum piece rate or the pound rate, whichever is higher.

Standard Mail Rate Schedule 323A—Nonprofit Subclass Presort Categories¹
| Rate (cents)
Letter Size:
Piece Rate:
Basic | 15.5
3/5-Digit | 14.3
Destination Entry Discount per Piece:
BMC | 1.9
SCF | 2.4
Non-Letter Size: ²
Piece Rate:
Minimum per Piece: ³
Basic | 21.7
3/5-Digit | 16.8
Destination Entry Discount per Piece:
BMC | 1.9
SCF | 2.4
Pound Rate ³ | 55.0
Plus per Piece Rate:
Basic | 10.4
3/5-Digit | 5.5
Destination Entry Discount per Pound:
BMC | 9.3
SCF | 11.4
Schedule 323A Notes:
¹ A fee of $125.00 must be paid once each 12-month period for each bulk mailing permit.
² Residual shape pieces are subject to a surcharge of $0.18 per piece. For parcel barcode discount, deduct $0.03 per piece.
³ Mailer pays either the minimum piece rate or the pound rate, whichever is higher.

Standard Mail Rate Schedule 323B—Nonprofit Subclass Automation Categories ¹
| Rate (cents)
Letter Size: ²
Piece Rate:
Basic Letter ³ | 13.0
3-Digit Letter ⁴ | 12.0
5-Digit Letter ⁵ | 10.5
Destination Entry Discount per Piece:
BMC | 1.9
SCF | 2.4
Flat Size: ⁶
Piece Rate:
Minimum per Piece: ⁷
Basic Flat ⁸ | 17.6
3/5-Digit Flat ⁹ | 15.1
Destination Entry Discount per Piece:
BMC | 1.9
SCF | 2.4
Pound Rate ⁷ | 55.0
Plus per Piece Rate:
Basic Flat ⁸ | 6.3
3/5-Digit Flat ⁹ | 3.8
Destination Entry Discount per Pound:
BMC | 9.3
SCF | 11.4
Schedule 323B Notes:
¹ A fee of $125.00 must be paid once each 12-month period for each bulk mailing permit.
² For letter-size automation pieces meeting applicable Postal Service regulations.
³ Rate applies to letter-size automation mail not mailed at 3-digit, 5-digit or carrier route rates.
⁴ Rate applies to letter-size automation mail presorted to single or multiple three-digit ZIP Code destinations as specified by the Postal Service.
⁵ Rate applies to letter-size automation mail presorted to single or multiple five-digit ZIP Code destinations as specified by the Postal Service.
⁶ For flat-size automation mail meeting applicable Postal Service regulations.
⁷ Mailer pays either the minimum piece rate or the pound rate, whichever is higher.
⁸ Rate applies to flat-size automation mail not mailed at 3/5-digit rate.
⁹ Rate applies to flat-size automation mail presorted to single or multiple three- and five-digit ZIP Code destinations as specified by the Postal Service.

Standard Mail Rate Schedule 324—Nonprofit Enhanced Carrier Route Subclass ¹
| Rate (cents)
Letter Size:
Piece Rate:
Basic | 11.6
Basic Automated Letter ² | 10.3
High Density | 9.3
Saturation | 8.7
Destination Entry Discount per Piece:
BMC | 1.9
SCF | 2.4
DDU | 2.9
Non-Letter Size: ³
Piece Rate:
Minimum per Piece: ⁴
Basic | 11.6
High Density | 10.0
Saturation | 9.5
Destination Entry Discount per Piece:
BMC | 1.9
SCF | 2.4
DDU | 2.9
Pound Rate ⁴ | 37.0
Plus per Piece Rate:
Basic | 4.0
High Density | 2.4
Saturation | 1.9
Destination Entry Discount per Pound:
BMC | 9.3
SCF | 11.4
DDU | 14.0
Schedule 324 Notes:
¹ A fee of $125.00 must be paid each 12-month period for each bulk mailing permit.
² Rate applies to letter-size automation mail presorted to routes specified by the Postal Service.
³ Residual shape pieces are subject to a surcharge of $0.15 per piece.
⁴ Mailer pays either the minimum piece rate or the pound rate, whichever is higher.

Periodicals Rate Schedule 421—Outside County Subclass ¹ ², ¹²
| Postage rate unit | Rate ³ cents
Per Pound:
Nonadvertising Portion | Pound | 17.3
Advertising Portion: ¹¹ |  |
Delivery Office ⁴ | Pound | 14.8
SCF5 | Pound | 18.8
1&2 | Pound | 23.0
3 | Pound | 24.5
4 | Pound | 28.3
5 | Pound | 34.1
6 | Pound | 40.1
7 | Pound | 47.4
8 | Pound | 53.7
Science of Agriculture: |  |
Delivery Office | Pound | 11.1
SCF | Pound | 14.1
Zones 1&2 | Pound | 17.3
Per Piece:
Less Nonadvertising Factor ⁶ |  | 6.5
Required Preparation ⁷ | Piece | 32.5
Presorted to 3-digit | Piece | 27.6
Presorted to 5-digit | Piece | 21.4
Presorted to Carrier Route | Piece | 13.6
Discounts: |  |
Prepared to Delivery Office ⁴ | Piece | 1.7
Prepared to SCF ⁵ | Piece | 0.8
High Density ⁸ | Piece | 2.5
Saturation ⁹ | Piece | 4.3
Automation Discounts for Automation Compatible Mail: ¹⁰ |  |
From Required: |  |
Prebarcoded letter size | Piece | 6.5
Prebarcoded flats | Piece | 4.1
From 3-Digit: |  |
Prebarcoded letter size | Piece | 5.1
Prebarcoded flats | Piece | 3.4
From 5-Digit: |  |
Prebarcoded letter size | Piece | 4.0
Prebarcoded flats | Piece | 2.4
Schedule 421 Notes:
¹ The rates in this schedule also apply to Nonprofit (DMCS Section 422.2) and Classroom rate categories. These categories receive a 5 percent discount on all components of postage except advertising pounds. Moreover, the 5 percent discount does not apply to commingled nonsubscriber, nonrequestor, complimentary, and sample copies in excess of the 10 percent allowance under DMCS sections 412.34 and 413.42, or to Science of Agriculture mail.
² Rates do not apply to otherwise Outside County mail that qualifies for the Within County rates in Schedule 423.
³ Charges are computed by adding the appropriate per-piece charge to the sum of the nonadvertising portion and the advertising portion, as applicable.
⁴ Applies to carrier route (including high density and saturation) mail delivered within the delivery area of the originating post office.
⁵ Applies to mail delivered within the SCF area of the originating SCF office.
⁶ For postage calculations, multiply the proportion of nonadvertising content by this factor and subtract from the applicable piece rate.
⁷ Mail not eligible for carrier-route, 5-digit or 3-digit rates.
⁸ Applicable to high density mail, deducted from carrier route presort rate.
⁹ Applicable to saturation mail, deducted from carrier route presort rate.
¹⁰ For automation compatible mail meeting applicable Postal Service regulations.
¹¹ Not applicable to qualifying Nonprofit and Classroom publications containing 10 percent or less advertising content.
¹² For a “Ride-Along” item enclosed with or attached to a periodical, add $0.10 per copy (experimental).

Periodicals Rate Schedule 423 ⁵—Within County
| Rate (cents)
Per Pound:
General | 14.4
Delivery Office ¹ | 11.3
Per Piece:
Required Presort | 10.0
Presorted to 3-digit | 9.2
Presorted to 5-digit | 8.3
Carrier Route Presort | 4.7
Per Piece Discount:
Delivery Office ² | 0.5
High Density (formerly 125 piece) ³ | 1.5
Saturation | 2.1
Automation Discounts for Automation Compatible Mail: ⁴
From Required: |
Prebarcoded Letter size | 5.1
Prebarcoded Flat size | 2.7
From 3-digit: |
Prebarcoded Letter size | 4.5
Prebarcoded Flat size | 2.4
From 5-digit:
Prebarcoded Letter size | 3.9
Prebarcoded Flat size | 2.1
Schedule 432 Notes:
¹ Applicable only to carrier route (including high density and saturation) presorted pieces to be delivered within the delivery area of the originating post office.
² Applicable only to carrier presorted pieces to be delivered within the delivery area of the originating post office.
³ Applicable to high density mail, deducted from carrier route presort rate. Mailers also may qualify for this discount on an alternative basis as provided in DMCS section 423.83.
⁴ For automation compatible pieces meeting applicable Postal Service regulations.
⁵ For a “Ride-Along” item enclosed with or attached to a periodical, add $0.10 per copy (experimental).

Package Services Rate Schedule 521.2A—Parcel Post SubClass Inter-BMC Rates
[Dollars]
Weight not exceeding (pounds) | Zones 1 and 2 | Zone 3 | Zone 4 | Zone 5 | Zone 6 | Zone 7 | Zone 8
1 | 3.34 | 3.39 | 3.44 | 3.45 | 3.45 | 3.45 | 3.45
2 | 3.34 | 3.39 | 3.44 | 3.45 | 3.45 | 3.45 | 3.45
3 | 3.81 | 4.13 | 4.56 | 4.61 | 4.66 | 4.71 | 4.76
4 | 3.95 | 4.41 | 5.20 | 5.67 | 5.82 | 5.87 | 5.92
5 | 4.09 | 4.65 | 5.65 | 6.84 | 6.99 | 7.04 | 7.09
6 | 4.23 | 4.90 | 6.05 | 7.53 | 7.84 | 8.06 | 8.64
7 | 4.36 | 5.11 | 6.43 | 8.18 | 8.85 | 9.28 | 10.44
8 | 4.49 | 5.31 | 6.76 | 8.76 | 9.60 | 10.49 | 12.24
9 | 4.59 | 5.50 | 7.11 | 9.29 | 10.30 | 11.71 | 14.05
10 | 4.72 | 5.68 | 7.41 | 9.78 | 11.00 | 12.93 | 15.19
11 | 4.81 | 5.86 | 7.71 | 10.24 | 11.70 | 14.10 | 16.07
12 | 4.92 | 6.02 | 7.98 | 10.66 | 12.40 | 15.15 | 16.91
13 | 5.01 | 6.16 | 8.24 | 11.07 | 13.10 | 16.08 | 17.72
14 | 5.11 | 6.33 | 8.49 | 11.45 | 13.66 | 16.68 | 18.49
15 | 5.19 | 6.47 | 8.73 | 11.80 | 14.11 | 17.26 | 19.24
16 | 5.28 | 6.60 | 8.96 | 12.14 | 14.52 | 17.78 | 19.97
17 | 5.37 | 6.72 | 9.18 | 12.44 | 14.92 | 18.29 | 20.67
18 | 5.45 | 6.85 | 9.38 | 12.74 | 15.29 | 18.75 | 21.34
19 | 5.54 | 6.97 | 9.58 | 13.03 | 15.65 | 19.21 | 22.00
20 | 5.61 | 7.08 | 9.75 | 13.29 | 15.97 | 19.63 | 22.64
21 | 5.68 | 7.21 | 9.93 | 13.56 | 16.30 | 20.03 | 23.26
22 | 5.76 | 7.30 | 10.11 | 13.80 | 16.60 | 20.42 | 23.87
23 | 5.83 | 7.43 | 10.29 | 14.02 | 16.89 | 20.78 | 24.46
24 | 5.88 | 7.53 | 10.44 | 14.26 | 17.16 | 21.14 | 25.03
25 | 5.96 | 7.62 | 10.61 | 14.46 | 17.43 | 21.45 | 25.59
26 | 6.02 | 7.72 | 10.76 | 14.67 | 17.68 | 21.77 | 26.14
27 | 6.10 | 7.81 | 10.90 | 14.86 | 17.91 | 22.07 | 26.68
28 | 6.15 | 7.91 | 11.06 | 15.05 | 18.15 | 22.36 | 27.20
29 | 6.21 | 8.00 | 11.19 | 15.22 | 18.37 | 22.63 | 27.71
30 | 6.28 | 8.09 | 11.31 | 15.39 | 18.57 | 22.90 | 28.21
31 | 6.34 | 8.16 | 11.45 | 15.55 | 18.78 | 23.16 | 28.70
32 | 6.39 | 8.26 | 11.58 | 15.71 | 18.97 | 23.40 | 29.18
33 | 6.44 | 8.34 | 11.70 | 15.87 | 19.15 | 23.64 | 29.65
34 | 6.51 | 8.41 | 11.81 | 16.02 | 19.33 | 23.86 | 30.11
35 | 6.56 | 8.49 | 11.94 | 16.15 | 19.50 | 24.07 | 30.57
36 | 6.61 | 8.55 | 12.06 | 16.29 | 19.67 | 24.27 | 31.01
37 | 6.67 | 8.63 | 12.16 | 16.43 | 19.83 | 24.49 | 31.45
38 | 6.72 | 8.71 | 12.27 | 16.55 | 19.98 | 24.67 | 31.88
39 | 6.78 | 8.78 | 12.37 | 16.66 | 20.13 | 24.85 | 32.30
40 | 6.83 | 8.85 | 12.48 | 16.79 | 20.28 | 25.04 | 32.71
41 | 6.89 | 8.93 | 12.57 | 16.91 | 20.42 | 25.21 | 33.11
42 | 6.93 | 8.99 | 12.67 | 17.01 | 20.54 | 25.37 | 33.34
43 | 6.97 | 9.05 | 12.77 | 17.12 | 20.68 | 25.52 | 33.54
44 | 7.03 | 9.11 | 12.86 | 17.21 | 20.80 | 25.67 | 33.75
45 | 7.07 | 9.18 | 12.95 | 17.32 | 20.92 | 25.82 | 33.94
46 | 7.12 | 9.24 | 13.04 | 17.43 | 21.04 | 25.97 | 34.12
47 | 7.18 | 9.31 | 13.12 | 17.51 | 21.16 | 26.11 | 34.31
48 | 7.22 | 9.37 | 13.22 | 17.61 | 21.25 | 26.24 | 34.48
49 | 7.26 | 9.42 | 13.30 | 17.69 | 21.37 | 26.37 | 34.64
50 | 7.30 | 9.48 | 13.37 | 17.78 | 21.48 | 26.50 | 34.81
51 | 7.36 | 9.54 | 13.46 | 17.86 | 21.57 | 26.62 | 34.96
52 | 7.40 | 9.60 | 13.54 | 17.95 | 21.67 | 26.73 | 35.11
53 | 7.44 | 9.66 | 13.60 | 18.02 | 21.76 | 26.85 | 35.27
54 | 7.48 | 9.72 | 13.68 | 18.10 | 21.86 | 26.97 | 35.40
55 | 7.53 | 9.75 | 13.77 | 18.17 | 21.93 | 27.06 | 35.54
56 | 7.58 | 9.83 | 13.83 | 18.25 | 22.03 | 27.17 | 35.68
57 | 7.62 | 9.88 | 13.91 | 18.32 | 22.11 | 27.27 | 35.80
58 | 7.66 | 9.92 | 13.97 | 18.39 | 22.19 | 27.37 | 35.92
59 | 7.71 | 9.97 | 14.05 | 18.45 | 22.27 | 27.45 | 36.04
60 | 7.75 | 10.03 | 14.13 | 18.52 | 22.33 | 27.55 | 36.17
61 | 7.80 | 10.09 | 14.18 | 18.58 | 22.42 | 27.64 | 36.33
62 | 7.84 | 10.13 | 14.25 | 18.65 | 22.48 | 27.72 | 36.47
63 | 7.87 | 10.19 | 14.32 | 18.70 | 22.56 | 27.80 | 36.62
64 | 7.91 | 10.23 | 14.38 | 18.75 | 22.62 | 27.88 | 36.76
65 | 7.95 | 10.28 | 14.44 | 18.82 | 22.69 | 27.96 | 36.90
66 | 8.00 | 10.34 | 14.50 | 18.87 | 22.75 | 28.04 | 37.03
67 | 8.05 | 10.38 | 14.56 | 18.93 | 22.82 | 28.11 | 37.16
68 | 8.08 | 10.42 | 14.64 | 18.98 | 22.87 | 28.19 | 37.30
69 | 8.12 | 10.46 | 14.69 | 19.03 | 22.94 | 28.26 | 37.41
70 | 8.16 | 10.53 | 14.76 | 19.09 | 22.99 | 28.32 | 37.55
Oversize parcels ⁵ | 34.75 | 38.94 | 45.10 | 54.87 | 66.41 | 82.14 | 106.00
Schedule 521.2A Notes:
¹ For Origin Bulk Mail Center Discount, deduct $0.90 per piece.
² For BMC Presort, deduct $0.23 per piece.
³ For barcode discount, deduct $0.03 per piece.
⁴ For nonmachinable Inter-BMC parcels, add $2.00 per piece.
⁵ See DMCS section 521.61 for oversize Parcel Post.
⁶ Parcel Post pieces exceeding 84 inches in length and girth combined and weighing less than 15 pounds are subject to a rate equal to that for a 15 pound parcel for the zone to which the parcel is addressed.
⁷ For each pickup stop, add $10.25.

Package Services Rate Schedule 521.2B—Parcel Post Subclass Intra-BMC Rates
Weight not exceeding (pounds) | Local | Zones 1 and 2 | Zone 3 | Zone 4 | Zone 5
1 | 2.72 | 2.97 | 2.97 | 2.97 | 2.97
2 | 2.72 | 2.97 | 2.97 | 2.97 | 2.97
3 | 2.96 | 3.36 | 3.46 | 3.46 | 3.46
4 | 3.18 | 3.52 | 3.78 | 3.79 | 3.93
5 | 3.38 | 3.66 | 4.08 | 4.11 | 4.40
6 | 3.48 | 3.79 | 4.38 | 4.40 | 4.83
7 | 3.55 | 3.91 | 4.63 | 4.66 | 5.23
8 | 3.64 | 4.05 | 4.87 | 4.91 | 5.61
9 | 3.71 | 4.14 | 5.06 | 5.15 | 5.96
10 | 3.79 | 4.27 | 5.31 | 5.38 | 6.29
11 | 3.86 | 4.37 | 5.49 | 5.59 | 6.59
12 | 3.93 | 4.48 | 5.65 | 5.80 | 6.90
13 | 4.01 | 4.58 | 5.79 | 5.99 | 7.16
14 | 4.07 | 4.67 | 5.88 | 6.18 | 7.43
15 | 4.13 | 4.76 | 6.02 | 6.35 | 7.68
16 | 4.21 | 4.83 | 6.16 | 6.52 | 7.91
17 | 4.26 | 4.93 | 6.29 | 6.69 | 8.13
18 | 4.31 | 5.00 | 6.41 | 6.84 | 8.36
19 | 4.37 | 5.10 | 6.53 | 6.99 | 8.56
20 | 4.44 | 5.17 | 6.65 | 7.14 | 8.75
21 | 4.48 | 5.24 | 6.76 | 7.28 | 8.94
22 | 4.54 | 5.32 | 6.86 | 7.42 | 9.12
23 | 4.59 | 5.38 | 6.99 | 7.56 | 9.30
24 | 4.64 | 5.45 | 7.08 | 7.67 | 9.46
25 | 4.70 | 5.51 | 7.18 | 7.79 | 9.62
26 | 4.74 | 5.59 | 7.27 | 7.89 | 9.78
27 | 4.79 | 5.65 | 7.38 | 7.98 | 9.92
28 | 4.83 | 5.70 | 7.47 | 8.07 | 10.06
29 | 4.90 | 5.78 | 7.57 | 8.15 | 10.20
30 | 4.95 | 5.83 | 7.65 | 8.23 | 10.35
31 | 4.99 | 5.89 | 7.72 | 8.30 | 10.47
32 | 5.04 | 5.96 | 7.81 | 8.38 | 10.59
33 | 5.09 | 6.01 | 7.90 | 8.45 | 10.73
34 | 5.13 | 6.06 | 7.96 | 8.51 | 10.83
35 | 5.17 | 6.12 | 8.05 | 8.58 | 10.94
36 | 5.20 | 6.17 | 8.12 | 8.64 | 11.07
37 | 5.25 | 6.23 | 8.18 | 8.70 | 11.17
38 | 5.29 | 6.29 | 8.27 | 8.76 | 11.28
39 | 5.34 | 6.34 | 8.34 | 8.81 | 11.37
40 | 5.38 | 6.38 | 8.41 | 8.86 | 11.48
41 | 5.43 | 6.44 | 8.49 | 8.91 | 11.57
42 | 5.47 | 6.49 | 8.54 | 8.96 | 11.66
43 | 5.51 | 6.53 | 8.62 | 9.10 | 11.76
44 | 5.57 | 6.58 | 8.67 | 9.14 | 11.84
45 | 5.60 | 6.63 | 8.73 | 9.19 | 11.93
46 | 5.64 | 6.69 | 8.81 | 9.23 | 12.01
47 | 5.68 | 6.74 | 8.86 | 9.27 | 12.09
48 | 5.72 | 6.78 | 8.93 | 9.31 | 12.19
49 | 5.76 | 6.83 | 8.99 | 9.35 | 12.26
50 | 5.80 | 6.86 | 9.04 | 9.38 | 12.34
51 | 5.84 | 6.92 | 9.09 | 9.42 | 12.41
52 | 5.87 | 6.96 | 9.17 | 9.45 | 12.48
53 | 5.91 | 7.00 | 9.22 | 9.48 | 12.55
54 | 5.96 | 7.04 | 9.28 | 9.51 | 12.63
55 | 6.00 | 7.08 | 9.32 | 9.54 | 12.69
56 | 6.03 | 7.13 | 9.38 | 9.57 | 12.75
57 | 6.06 | 7.18 | 9.44 | 9.61 | 12.83
58 | 6.11 | 7.22 | 9.48 | 9.64 | 12.89
59 | 6.15 | 7.26 | 9.54 | 9.66 | 12.95
60 | 6.17 | 7.30 | 9.59 | 9.70 | 13.02
61 | 6.23 | 7.36 | 9.61 | 9.76 | 13.08
62 | 6.25 | 7.40 | 9.64 | 9.81 | 13.13
63 | 6.30 | 7.43 | 9.66 | 9.87 | 13.19
64 | 6.33 | 7.47 | 9.68 | 9.91 | 13.25
65 | 6.37 | 7.52 | 9.70 | 9.96 | 13.30
66 | 6.39 | 7.57 | 9.72 | 10.02 | 13.37
67 | 6.44 | 7.61 | 9.74 | 10.07 | 13.41
68 | 6.48 | 7.63 | 9.76 | 10.11 | 13.46
69 | 6.52 | 7.67 | 9.78 | 10.16 | 13.52
70 | 6.55 | 7.72 | 9.80 | 10.21 | 13.57
Oversize parcels ³ | 19.82 | 28.99 | 28.99 | 28.99 | 28.99
Schedule 521.2B Notes:
¹ For barcode discount, deduct $0.03 per piece.
² For nonmachinable Intra-BMC parcels, add $1.35 per piece.
³ See DMCS section 521.61 for oversize Parcel Post.
⁴ Parcel Post pieces exceeding 84 inches in length and girth combined and weighing less than 15 pounds are subject to a rate equal to that for a 15 pound parcel for the zone to which the parcel is addressed.
⁵ For each pickup stop, add $10.25.

Package Services Rate Schedule 521.2C—Parcel Post Subclass Parcel Select Destination BMC Rates
[Dollars]
Weight not exceeding (pounds) | Zones 1 and 2 | Zone 3 | Zone 4 | Zone 5 | Weight not exceeding (pounds) | Zone 1 and 2 | Zone 3 | Zone 4 | Zone 5
1 | 2.10 | 2.45 | 2.73 | 2.92 | 36 | 6.08 | 8.07 | 8.59 | 11.02
2 | 2.10 | 2.45 | 2.73 | 2.92 | 37 | 6.15 | 8.13 | 8.65 | 11.12
3 | 2.33 | 2.85 | 3.27 | 3.41 | 38 | 6.21 | 8.22 | 8.71 | 11.23
4 | 2.54 | 3.23 | 3.74 | 3.88 | 39 | 6.27 | 8.29 | 8.76 | 11.32
5 | 2.74 | 3.59 | 4.06 | 4.35 | 40 | 6.33 | 8.36 | 8.81 | 11.43
6 | 2.92 | 3.92 | 4.35 | 4.78 | 41 | 6.39 | 8.44 | 8.86 | 11.52
7 | 3.10 | 4.24 | 4.61 | 5.18 | 42 | 6.44 | 8.49 | 8.91 | 11.61
8 | 3.27 | 4.54 | 4.86 | 5.56 | 43 | 6.48 | 8.57 | 9.05 | 11.71
9 | 3.42 | 4.82 | 5.10 | 5.91 | 44 | 6.53 | 8.62 | 9.09 | 11.79
10 | 3.57 | 5.09 | 5.33 | 6.24 | 45 | 6.58 | 8.68 | 9.14 | 11.88
11 | 3.72 | 5.35 | 5.54 | 6.54 | 46 | 6.64 | 8.76 | 9.18 | 11.96
12 | 3.86 | 5.60 | 5.75 | 6.85 | 47 | 6.69 | 8.81 | 9.22 | 12.04
13 | 3.99 | 5.74 | 5.94 | 7.11 | 48 | 6.73 | 8.88 | 9.26 | 12.14
14 | 4.11 | 5.83 | 6.13 | 7.38 | 49 | 6.78 | 8.94 | 9.30 | 12.21
15 | 4.24 | 5.97 | 6.30 | 7.63 | 50 | 6.81 | 8.99 | 9.33 | 12.29
16 | 4.35 | 6.11 | 6.47 | 7.86 | 51 | 6.87 | 9.04 | 9.37 | 12.36
17 | 4.47 | 6.24 | 6.64 | 8.08 | 52 | 6.91 | 9.12 | 9.40 | 12.43
18 | 4.58 | 6.36 | 6.79 | 8.31 | 53 | 6.95 | 9.17 | 9.43 | 12.50
19 | 4.68 | 6.48 | 6.94 | 8.51 | 54 | 6.99 | 9.23 | 9.46 | 12.58
20 | 4.78 | 6.60 | 7.09 | 8.70 | 55 | 7.03 | 9.27 | 9.49 | 12.64
21 | 4.88 | 6.71 | 7.23 | 8.89 | 56 | 7.08 | 9.33 | 9.52 | 12.70
22 | 4.98 | 6.81 | 7.37 | 9.07 | 57 | 7.13 | 9.39 | 9.56 | 12.78
23 | 5.07 | 6.94 | 7.51 | 9.25 | 58 | 7.17 | 9.43 | 9.59 | 12.84
24 | 5.16 | 7.03 | 7.62 | 9.41 | 59 | 7.21 | 9.49 | 9.61 | 12.90
25 | 5.25 | 7.13 | 7.74 | 9.57 | 60 | 7.25 | 9.54 | 9.65 | 12.97
26 | 5.34 | 7.22 | 7.84 | 9.73 | 61 | 7.31 | 9.56 | 9.71 | 13.03
27 | 5.42 | 7.33 | 7.93 | 9.87 | 62 | 7.35 | 9.59 | 9.76 | 13.08
28 | 5.50 | 7.42 | 8.02 | 10.01 | 63 | 7.38 | 9.61 | 9.82 | 13.14
29 | 5.58 | 7.52 | 8.10 | 10.15 | 64 | 7.42 | 9.63 | 9.86 | 13.20
30 | 5.66 | 7.60 | 8.18 | 10.30 | 65 | 7.47 | 9.65 | 9.91 | 13.25
31 | 5.73 | 7.67 | 8.25 | 10.42 | 66 | 7.52 | 9.67 | 9.97 | 13.32
32 | 5.81 | 7.76 | 8.33 | 10.54 | 67 | 7.56 | 9.69 | 10.02 | 13.36
33 | 5.88 | 7.85 | 8.40 | 10.68 | 68 | 7.58 | 9.71 | 10.06 | 13.41
34 | 5.95 | 7.91 | 8.46 | 10.78 | 69 | 7.62 | 9.73 | 10.11 | 13.47
35 | 6.02 | 8.00 | 8.53 | 10.89 | 70 | 7.67 | 9.75 | 10.16 | 13.52
|  |  |  |  | Oversize parcels ³ | 18.65 | 20.61 | 27.84 | 28.94
Schedule 521.2C Notes:
¹ For barcode discount, deduct $0.03 per piece. Barcode discount is not available for DBMC mail entered at an ASF, except at the Phoenix, AZ ASF.
² For nonmachinable DBMC parcels, add $1.45 per piece.
³ See DMCS section 521.61 for oversize Parcel Post.
⁴ Parcel Post pieces exceeding 84 inches in length and girth combined and weighing less than 15 pounds are subject to a rate equal to that for a 15 pound parcel for the zone to which the parcel is addressed.
⁵ A mailing fee of $125.00 must be paid once each 12-month period for Parcel Select.

Package Services Rate Schedule 521.2D—Parcel Post Subclass Parcel Select—Destination SCF Rates
[Dollars]
Weight not exceeding (pounds) |  | Weight not exceeding (pounds) |
1 | 1.68 | 36 | 3.71
2 | 1.68 | 37 | 3.75
3 | 1.80 | 38 | 3.78
4 | 1.91 | 39 | 3.82
5 | 2.01 | 40 | 3.85
6 | 2.10 | 41 | 3.88
7 | 2.19 | 42 | 3.92
8 | 2.27 | 43 | 3.95
9 | 2.35 | 44 | 3.98
10 | 2.43 | 45 | 4.01
11 | 2.50 | 46 | 4.04
12 | 2.57 | 47 | 4.07
13 | 2.63 | 48 | 4.10
14 | 2.69 | 49 | 4.13
15 | 2.76 | 50 | 4.16
16 | 2.81 | 51 | 4.19
17 | 2.87 | 52 | 4.22
18 | 2.93 | 53 | 4.24
19 | 2.98 | 54 | 4.27
20 | 3.03 | 55 | 4.30
21 | 3.08 | 56 | 4.32
22 | 3.13 | 57 | 4.35
23 | 3.18 | 58 | 4.38
24 | 3.23 | 59 | 4.40
25 | 3.27 | 60 | 4.43
26 | 3.32 | 61 | 4.45
27 | 3.36 | 62 | 4.48
28 | 3.40 | 63 | 4.50
29 | 3.44 | 64 | 4.52
30 | 3.49 | 65 | 4.55
31 | 3.52 | 66 | 4.57
32 | 3.56 | 67 | 4.59
33 | 3.60 | 68 | 4.62
34 | 3.64 | 69 | 4.64
35 | 3.68 | 70 | 4.66
|  | Oversize parcels ¹ | 11.61
Schedule 521.2D Notes:
¹ See DMCS section 521.61 for oversize Parcel Post.
² Parcel Post pieces exceeding 84 inches in length and girth combined and weighing less than 15 pounds are subject to a rate equal to that for a 15 pound parcel for the zone to which the parcel is addressed.
³ A mailing fee of $125.00 must be paid once each 12-month period for Parcel Select.

Package Services Rate Schedule 521.2E—Parcel Post Subclass Parcel Select—Destination Delivery Unit Rates
[Dollars]
Weight not exceeding (pounds) |  | Weight not exceeding (pounds) |
1 | 1.25 | 36 | 1.91
2 | 1.25 | 37 | 1.92
3 | 1.30 | 38 | 1.93
4 | 1.34 | 39 | 1.94
5 | 1.38 | 40 | 1.95
6 | 1.42 | 41 | 1.96
7 | 1.45 | 42 | 1.97
8 | 1.48 | 43 | 1.98
9 | 1.51 | 44 | 1.99
10 | 1.54 | 45 | 2.00
11 | 1.57 | 46 | 2.01
12 | 1.59 | 47 | 2.02
13 | 1.61 | 48 | 2.03
14 | 1.63 | 49 | 2.04
15 | 1.65 | 50 | 2.05
16 | 1.67 | 51 | 2.06
17 | 1.69 | 52 | 2.07
18 | 1.70 | 53 | 2.08
19 | 1.72 | 54 | 2.09
20 | 1.73 | 55 | 2.10
21 | 1.75 | 56 | 2.11
22 | 1.76 | 57 | 2.12
23 | 1.77 | 58 | 2.13
24 | 1.79 | 59 | 2.14
25 | 1.80 | 60 | 2.15
26 | 1.81 | 61 | 2.16
27 | 1.82 | 62 | 2.17
28 | 1.83 | 63 | 2.18
29 | 1.84 | 64 | 2.19
30 | 1.85 | 65 | 2.20
31 | 1.86 | 66 | 2.21
32 | 1.87 | 67 | 2.22
33 | 1.88 | 68 | 2.23
34 | 1.89 | 69 | 2.24
35 | 1.90 | 70 | 2.25
|  | Oversize parcels ¹ | 7.53
Schedule 521.2E Notes:
¹ See DMCS section 521.61 for oversize Parcel Post.
² Parcel Post pieces exceeding 84 inches in length and girth combined and weighing less than 15 pounds are subject to a rate equal to that for a 15 pound parcel for the zone to which the parcel is addressed.
³ A mailing fee of $125.00 must be paid once year 12-month period for Parcel Select.

Package Services Rate Schedule 522A—Bound Printed Matter Subclass Single Piece Rates
[Dollars]
Weight not exceeding (pounds) | Zones 1 and 2 | Zone 3 | Zone 4 | Zone 5 | Zone 6 | Zone 7 | Zone 8
1 | 1.73 | 1.76 | 1.79 | 1.85 | 1.90 | 1.97 | 2.10
1.5 | 1.73 | 1.76 | 1.79 | 1.85 | 1.90 | 1.97 | 2.10
2 | 1.77 | 1.81 | 1.86 | 1.93 | 2.01 | 2.10 | 2.27
2.5 | 1.82 | 1.87 | 1.92 | 2.02 | 2.11 | 2.22 | 2.44
3 | 1.87 | 1.92 | 1.99 | 2.10 | 2.22 | 2.35 | 2.61
3.5 | 1.91 | 1.98 | 2.06 | 2.19 | 2.32 | 2.48 | 2.78
4 | 1.96 | 2.03 | 2.12 | 2.27 | 2.43 | 2.60 | 2.95
4.5 | 2.00 | 2.09 | 2.19 | 2.36 | 2.53 | 2.73 | 3.12
5 | 2.05 | 2.14 | 2.26 | 2.44 | 2.64 | 2.86 | 3.29
6 | 2.14 | 2.26 | 2.39 | 2.62 | 2.85 | 3.11 | 3.62
7 | 2.23 | 2.37 | 2.52 | 2.79 | 3.06 | 3.36 | 3.96
8 | 2.32 | 2.48 | 2.66 | 2.96 | 3.27 | 3.62 | 4.30
9 | 2.41 | 2.59 | 2.79 | 3.13 | 3.48 | 3.87 | 4.64
10 | 2.51 | 2.70 | 2.92 | 3.30 | 3.68 | 4.12 | 4.98
11 | 2.60 | 2.81 | 3.06 | 3.47 | 3.89 | 4.38 | 5.32
12 | 2.69 | 2.92 | 3.19 | 3.64 | 4.10 | 4.63 | 5.66
13 | 2.78 | 3.03 | 3.32 | 3.81 | 4.31 | 4.88 | 6.00
14 | 2.87 | 3.14 | 3.46 | 3.98 | 4.52 | 5.14 | 6.34
15 | 2.96 | 3.25 | 3.59 | 4.15 | 4.73 | 5.39 | 6.68
Schedule 5422A Notes:
¹ For barcode discount, deduct $0.03 per piece.

Package Services Rate Schedule 522B—Bound Printed Matter Subclass Basic Presort and Carrier Route Presort Rates
[Dollars]
Zone | Per piece: Basic¹ | Per piece: Carrier route ² | Per pound
1 and 2 | 0.91 | 0.81 | 0.07
3 | 0.91 | 0.81 | 0.09
4 | 0.91 | 0.81 | 0.11
5 | 0.91 | 0.81 | 0.15
6 | 0.91 | 0.81 | 0.19
7 | 0.91 | 0.81 | 0.23
8 | 0.91 | 0.81 | 0.32
Schedule 522B Notes:
¹ For barcode discount, deduct $0.03 per piece.
² Applies to mailings of at least 300 pieces presorted to carrier route as specified by the Postal Service.

Package Services Rate Schedule 522C—Bound Printed Matter Subclass Destination Entry Basic Presort
[Dollars]
| DBMC Zone 1 and 2 | DBMC Zone 3 | DBMC Zone 4 | DBMC Zone 5 | DSCF | DDU
Per piece rate | 0.78 | 0.78 | 0.78 | 0.78 | 0.63 | 0.57
Per pound rate | 0.06 | 0.09 | 0.11 | 0.15 | 0.05 | 0.03
Schedule 522C Notes:
¹ For barcode discount, deduct $0.03 per piece. Barcode discount is not available for DDU and DSCF rates and DBMC mail entered at an ASF (except Phoenix, Arizona ASF).
² A mailing fee of $125.00 must be paid once each 12-month period to mail at any destination entry Bound Printed Matter rate.

Package Services Rate Schedule 522D—Bound Printed Matter Subclass Destination Entry Basic Presort
[Dollars]
| DBMC Zone 1 and 2 | DBMC Zone 3 | DBMC Zone 4 | DBMC Zone 5 | DSCF | DDU
Per Piece Rate | 0.68 | 0.68 | 0.68 | 0.68 | 0.53 | 0.47
Per Pound Rate | 0.06 | 0.09 | 0.11 | 0.15 | 0.05 | 0.03
Schedule 522D Notes:
¹ A mailling fee of $125.00 must be paid once each 12-month period to mail at any destination entry Bound Printed Matter rate.

Package Services Rate Schedule 523—Media Mail Subclass
| Rates (dollars)
First Pound Not prescorted ⁴ | 1.30
Level A Presort (5-digits)¹ ² | 0.70
Level B Presort (BMC)¹ ³ ⁴ | 1.00
Each additional pound through 7 pounds | 0.45
Each additional pound over 7 pounds | 0.03
Schedule 523 Notes:
¹ A mailing fee of $125.00 must be paid once each 12-month period for each permit.
² For mailings of 500 or more pieces properly prepared and presorted to five-digit destination ZIP Codes.
³ For mailings of 500 or more pieces properly prepared and presorted to Bulk Mail Centers.
⁴ For barcode discount, deduct $0.03 per piece.

Package Services Rate Schedule 524—Library Mail Subclass
| Rates (dollars)
First Pound Not prescorted ⁴ | 1.24
Level A Presort (5-digits)¹ ² | 0.67
Level B Presort (BMC)¹ ³ ⁴ | 0.95
Each additional pound through 7 pounds | 0.43
Each additional pound over 7 pounds | 0.29
Schedule 524:
¹ A mailing fee of $125.00 must be paid once each 12-month period for each permit.
² For mailings of 500 or more pieces properly prepared and presorted to five-digit destination ZIP Codes.
³ For mailings of 500 or more pieces properly prepared and presorted to Bulk Mail Centers.
⁴ For barcode discount, deduct $0.03 per piece.

Fee Schedule 911—Address Corrections
Description | Fee
Per manual correction | $0.60
Per automated correction | 0.20

Fee Schedule 912
Description | Fee
Zip Coding of Mailing Lists
Per thousand addresses | $73.00
Correction of Mailing Lists
Per submitted address | 0.25
Minimum charge per list corrected | 7.50
Address Changes for Election Boards and Registration Commissions
Per change of address | 0.23
Sequencing of Address Cards
Per correction | 0.25
Schedule 912 Notes:
When rural routes have been consolidated or changed to another post office, no charge will be made for correction if the list contains only names of persons residing on the route or routes involved.

FEE SCHEDULE 921_POST OFFICE BOXES AND CALLER SERVICE

I. Post Office Boxes Semi-annual Box Fees.\1\

Fee group: Box size ² | Fee group: B2 | Fee group: C3 | Fee group: C4 | Fee group: C5 | Fee group: D6 | Fee group: D7 | Fee group: E
1 | $30.00 | $27.50 | $22.50 | $19.00 | $10.00 | $8.50 | $0.00
2 | 45.00 | 40.00 | 32.50 | 27.50 | 16.00 | 13.00 | 0.00
3 | 85.00 | 75.00 | 60.00 | 50.00 | 25.00 | 22.50 | 0.00
4 | 170.00 | 150.00 | 125.00 | 87.50 | 50.00 | 40.00 | 0.00
5 | 300.00 | 250.00 | 212.50 | 150.00 | 90.00 | 65.00 | 0.00
¹ A customer ineligible for carrier delivery may obtain a post office box at Group E fees, subject to administrative decisions regarding customer's proximity to post office.
² Box Size 1 = under 296 cubic inches; 2 = 296-499 cubic inches; 3 = 500-999 cubic inches; 4 = 1000-1999 cubic inches; 5 = 2000 cubic inches and over.

II. Key Duplication and Lock Charges

Description | Fee
Key duplication or replacement | $4.00
Post office box lock replacement | 10.00

III. Semi-annual Caller Service Fee_$375.00

IV. Annual Call Number Reservation Fee

(All applicable Fee Groups) $30.00

Fee Schedule 931—Business Reply Mail
Description | Fee
Active business reply advance deposit account:
Per piece:
Qualified (without optional Quarterly fee) | $0.05
Qualified (with optional Quarterly fee) | $0.01
Nonletter-size, using weight averaging | $0.01
Other | $0.10
Payment of postage due charges if active business reply mail advance deposit account not used:
Per piece | $0.35
Monthly Fees for customers using weight averaging for nonletter-size business reply | $600.00
Optional Qualified BRM Quarterly Fee | $1,800.00
Accounting fee for advance deposit account (see Fee Schedule 1000)
Permit fee (with or without advance deposit account) (see Fee Schedule 1000)

Fee Schedule 932—Merchandise Return
Description | Fee
Accounting fee for advance deposit account (see Fee Schedule 1000)
Permit fee (see Fee Schedule 1000)

Fee Schedule 933—On-Site Meter Service
Description | Fee
Meter Service (per employee) | $31.00
Meters reset and/or examined (per meter) | $4.00
Checking meter in or out of service (per meter) | $4.00¹
Schedule 933 Notes:
¹ Fee does not apply to Secured Postage meters.

Fee Schedule 934 [Reserved]

Fee Schedule 935—Bulk Parcel Return Service
Description | Fee
Per Returned Piece | $1.62
Accounting fee for advance deposit account (see Fee Schedule 1000)
Permit fee (see Fee Schedule 1000)

Fee Schedule 936—Shipper Paid Forwarding
Description | Fee
Accounting fee for advance deposit account (see Fee Schedule 1000)

Fee Schedule 941—Certified Mail
Description | Fee (in addition to postage)
Per piece | $1.90

Fee Schedule 942—Registered Mail
Declared value of article ¹ | Fee (in addition to postage) | Handling charge $0.00
1 None | $7.25 | None.
0.00 | 7.75 | None.
0.01 to 100 | 7.50 | None.
100.01 to 500 | 8.25 | None.
500.01 to 1,000 | 9.00 | None.
1,000.01 to 2,000 | 9.75 | None.
2,000.01 to 3,000 | 10.50 | None.
3,000.01 to 4,000 | 11.25 | None.
4,000.01 to 5,000 | 12.00 | None.
5,000.01 to 6,000 | 12.75 | None.
6,000.01 to 7,000 | 13.50 | None.
7,000.01 to 8,000 | 14.25 | None.
8,000.01 to 9,000 | 15.00 | None.
9,000.01 to 10,000 | 15.75 | None.
10,000.01 to 11,000 | 16.50 | None.
11,000.01 to 12,000 | 17.25 | None.
12,000.01 to 13,000 | 18.00 | None.
13,000.01 to 14,000 | 18.75 | None.
14,000.01 to 15,000 | 19.50 | None.
15,000.01 to 16,000 | 20.25 | None.
16,000.01 to 17,000 | 21.00 | None.
17,000.01 to 18,000 | 21.75 | None.
18,000.01 to 19,000 | 22.50 | None.
19,000.01 to 20,000 | 23.25 | None.
20,000.01 to 21,000 | 24.00 | None.
21,000.01 to 22,000 | 24.75 | None.
22,000.01 to 23,000 | 25.50 | None.
23,000.01 to 24,000 | 26.25 | None.
24,000.01 to 25,000 | 27.00 | None.
25,000.01 to $1 million | 27.00 | plus 75 cents for each $1,000 (or fraction thereof) over $25,000.
Over $1 million to $15 million | 758.25 | plus 75 cents for each $1,000 (or fraction thereof) over $1 million.
Over $15 million | 11258.25 | plus amount determined by the Postal Service based on weight, space and value.
Schedule 942 Notes:
Articles with a declared value of more than $25,000 can be registered, but compensation for loss or damage is limited to $25,000.

Fee Schedule 943—Insurance
Coverage | Fee (in addition to postage)
Express Mail Insurance
Document Reconstruction:
$0.01 to $500 | No charge.
Merchandise:
$0.01 to $500 | No charge.
$500.01 to $5000 | $1.00 for each $100 (or fraction thereof) over $500 in value.
General Insurance
$0.01 to $50 | $1.10
$50.01 to $100 | $2.00
$100.01 to $5000 | $2.00 plus $1.00 for each $100 (or fraction thereof) over $100 in coverage.
Schedule 943 Notes:
¹ For bulk insurance coverage between $0.01 to $50.00, deduct $0.60 per piece. For bulk insurance coverage between $50.01 to $5,000.00, deduct $0.80 per piece.

Fee Schedule 944—Collect on Delivery
Description | Fee (in addition to postage)
Amount to be collected, or Insurance Coverage Desired:
$0.01 to $50 | $4.50
50.01 to 100 | 5.50
100.01 to 200 | 6.50
200.01 to 300 | 7.50
300.01 to 400 | 8.50
400.01 to 500 | 9.50
500.01 to 600 | 10.50
600.01 to 700 | 11.50
700.01 to 800 | 12.50
800.01 to 900 | 13.50
900.01 to 1000 | 14.50
Notice of nondelivery of COD | 3.00
Alteration of COD charges or designation of new addressee | 3.00
Registered COD | 4.00

Fee Schedule 945—Return Receipts
Description | Fee (in addition to postage)
Receipt requested at time of mailing:¹
Items other than merchandise | $1.50
Merchandise (without another special service) | 2.35
Receipt requested after mailing² | 3.50
Schedule 945 Notes:
¹ This receipt shows the signature of the person to whom the mailpiece was delivered, the date of delivery and the delivery address, if such address is different from the address on the mailpiece.
² This receipt shows to whom the mailpiece was delivered and the date of delivery.

Fee Schedule 946—Restricted Delivery
Description | Fee (in addition to postage)
Per Piece | $3.20

Fee Schedule 947—Certificate of Mailing
Description | Fee (in addition to postage)
Individual Pieces:
Original certificate of mailing for listed pieces of all classes of ordinary mail (per piece) | $0.75
Three or more pieces individually listed in a firm mailing book or an approved customer provided manifest (per piece) | 0.25
Each additional copy of original certificate of mailing or original mailing receipt for registered, insured, certified, and COD mail (each copy) | 0.75
Bulk Pieces:
Identical pieces of First-Class and Standard Mail paid with ordinary stamps, precanceled stamps, or meter stamps are subject to the following fees:
Up to 1,000 pieces (one certificate for total number) | 3.50
Each additional 1,000 pieces or fraction | 0.40
Duplicate copy | 0.75

Fee Schedule 948—Delivery Confirmation
Description | Fee (in addition to postage)
Used in Conjunction with Priority Mail:
Electronic | $0.00
Manual | 0.40
Used in Conjunction with Parcel Post, Bound Printed Matter, Library Mail, and Media Mail:
Electronic | 0.12
Manual | 0.50
Used in Conjunction with Regular and Nonprofit Standard Mail:
Electronic | 0.12

Fee Schedule 949—Signature Confirmation
Description | Fee (in addition to postage)
Used in Conjunction with Priority Mail:
Electronic | $1.25
Manual | 1.75
Used in Conjunction with Parcel Post, Bound Printed Matter, Library Mail, and Media Mail:
Electronic | 1.25
Manual | 1.75

Fee Schedule 951—Parcel Air Lift
Description | Fee (in addition to Parcel Post postage)
Up to 2 pounds | $0.40
Over 2 up to 3 pounds | 0.75
Over 3 up to 4 pounds | 1.15
Over 4 pounds | 1.55

Fee Schedule 952—Special Handling
Description | Fee (in addition to postage)
Not more than 10 pounds | $5.40
More than 10 pounds | 7.50

Fee Schedule 961—Stamped Envelopes
Description | Fee (in addition to postage)
Single Sale: #6-3/4 size and #10 size:
Basic | $0.08
Special | 0.09
Household (50): #6-3/4 size through #10 size:
Basic | 3.50
Special | 4.50
Bulk (500): #6-3/4 size:
Plain Basic | 12.00
Printed Basic | 17.00
Bulk (500): #6-3/4 size through #10 size
Plain Basic ¹ ² | 14.00
Printed Basic | 20.00
Plain Special | 19.00
Printed Special | 25.00
Schedule 961 Notes:
“Basic” envelopes include “regular” (no window), “window” (single window), “pre-cancelled regular”, and “pre-cancelled window” styles. “Special” envelopes include all envelopes with patched in indicia. “Printed” envelopes are available with multi-color printing.
¹ Available in “double window” style.
² Available in “savings bond” style.

Fee Schedule 962—Stamped Cards
Description | Fee (in addition to postage)
Stamped Card | $0.02
Double Stamped Card | 0.04

Fee Schedule 971—Money Orders
Description | Fee
Domestic | $0.01 to $700 | $0.75
APO-FPO | $0.01 to $700 | $0.25
Inquiry Fee, which includes the issuance of copy of a paid money order |  | $2.75

Fee Schedule 981—Mailing Online
Description | Fee | Description | Fee
Fees are calculated by multiplying times the sum of printer contractual costs for the particular mailing and 0.5 cents per impression for other Postal Service costs. | 1.52 1.52x(P+0.5xI) P = Printer Contractual Costs I = Number of Impressions
Certification of a system as functionally equivalent to Mailing Online (see Fee Schedule 1000)

This provision expires the later of:

a. three years after the implementation date specified by the Postal Service Board of Governors, or

b. if, by the expiration date specified in (a), a proposal to make Mailing Online permanent is pending before the Postal Rate Commission, the later of:

1. three months after the Commission takes action on such proposal under section 3624 of Title 39, or

2. _if applicable_on the implementation date for a permanent Mailing Online.

Fee Schedule 1000
Description | Fee¹
First-Class Presorted Mailing | $125.00
Regular, Enhanced Carrier Route, Nonprofit, and Nonprofit Enhanced Carrier Route Standard Mail Bulk Mailing | 125.00
Periodicals:
A. Original Entry | 350.00
B. Additional Entry | 50.00
C. Re-entry | 40.00
D. Registration for News Agents | 40.00
Parcel Select | 125.00
Bound Printed Matter: Destination BMC, SCF, and DDU | 125.00
Media Mail Presorted Mailing | 125.00
Library Mail Presorted Mailing | 125.00
Authorization to Use Permit Imprint | 125.00
Special Services:
Bulk Parcel Return Service:
A. Permit | 125.00
B. Accounting Fee (advance deposit account) | 375.00
Business Reply Mail:
A. Permit (with or without advance deposit account) | 125.00
B. Accounting Fee (advance deposit account) | 375.00
Mailing Online:²
A. Certification of a system as functionally equivalent to Mailing Online | 125.00
Merchandise Return:
A. Permit | 125.00
B. Accounting Fee (advance deposit account) | 375.00
Shipper Paid Forwarding:
A. Accounting Fee (advance deposit account) | 375.00
Schedule 1000 Notes:
¹ Fees must be paid once each 12-month period.
² This provision expires the later of:
a. Three years after the Mailing Online implementation date specified by the Postal Service Board of Governors, or
b. If, by the expiration date specified in (a), a proposal to make Mailing Online permanent is pending before the Postal Rate Commission, the later of:
1. Three months after the Commission takes action on such proposal under section 3624 of Title 39, or
2.—if applicable—on the implemenation date for a permanent Mailing Online.

Attachment B to the Decision of the Governors of the United States Postal Service on the Recommended Decision of the Postal Rate Commission on Postal Rate and Fee Changes, Docket No. R2000-1

December 4, 2000.

Changes to the Domestic Mail Classification Schedule Amend the Domestic Mail Classification Schedule By Inserting Italicized Text and Deleting Bracketed Text as Follows:

Expedited Mail Classification Schedule

110 Definition

Expedited Mail is mail matter entered as Express Mail under the provisions of this Schedule. Any matter eligible for mailing may, at the option of the mailer, be mailed as Express Mail. Insurance is either included in Express Mail postage or is available for an additional charge, depending on the value and nature of the item sent by Express Mail.

120 DESCRIPTION OF SERVICES

121 Same Day Airport Service

Same Day Airport service is available between designated airport mail facilities.

122 Custom Designed Service

122.1 General

Custom Designed service is available between designated postal facilities or other designated locations for mailable matter tendered under a service agreement between the Postal Service and the mailer. Service under a service agreement shall be offered in a manner consistent with 39 U.S.C. 403(c).

122.2 Service Agreement.

A service agreement shall set forth the following:

a. The scheduled place for each shipment tendered for service to each specific destination;

b. Scheduled place for claim, or delivery, at destination for each scheduled shipment;

c. Scheduled time of day for tender at origin and for claim or delivery at destination.

122.3 Pickup and Delivery.

Pickup at the mailer's premises, and/or delivery at an address other than the destination postal facility is provided under terms and conditions as specified by the Postal Service.

122.4 Commencement of Service Agreement.

Service provided pursuant to a service agreement shall commence not more than 10 days after the signed service agreement is tendered to the Postal Service.

122.5 Termination of Service Agreement

122.51 Termination by Postal Service.

Express Mail service provided pursuant to a service agreement may be terminated by the Postal Service upon 10 days prior written notice to the mailer if:

a. Service cannot be provided for reasons beyond the control of the Postal Service or because of changes in Postal Service facilities or operations, or

b. The mailer fails to adhere to the terms of the service agreement or this schedule.

122.52 Termination by Mailers.

The mailer may terminate a service agreement, for any reason, by notice to the Postal Service.

123 Next Day Service and Second Day Service

123.1 Availability of Services.

Next Day and Second Day Services are available at designated retail postal facilities to designated destination facilities or locations for items tendered by the time or times specified by the Postal Service. Next Day Service is available for overnight delivery. Second Day Service is available for second day delivery.

123.2 Pickup Service.

Pickup service is available for Next Day and Second Day Services under terms and conditions as specified by the Postal Service. Service shall be offered in a manner consistent with 39 U.S.C. 403(c).

130 PHYSICAL LIMITATIONS Express Mail may not exceed 70 pounds or 108 inches in length and girth combined.

140 POSTAGE AND PREPARATION

Except as provided in Rate Schedules 121, 122 and 123, postage on Express Mail is charged on each piece. For shipments tendered in Express Mail pouches under a service agreement, each pouch is a piece.

150 DEPOSIT AND DELIVERY

151 Deposit

Express Mail must be deposited at places designated by the Postal Service.

152 Receipt

A receipt showing the time and date of mailing will be provided to the mailer upon acceptance of Express Mail by the Postal Service. This receipt serves as evidence of mailing.

153 Service

Express Mail service provides a high speed, high reliability service. Same Day Airport Express Mail will be dispatched on the next available transportation to the destination airport mail facility. Custom Designed Express Mail will be available for claim or delivery as specified in the service agreement.

154 Forwarding and Return

When Express Mail is returned, or forwarded, as specified by the Postal Service, there will be no additional charge.

160 ANCILLARY SERVICES

The following services may be obtained in conjunction with mail sent under this classification schedule upon payment of applicable fees:

Service | Schedule
a. Address correction | 911
b. Return receipts | 945
c. COD | 944
d. Express Mail Insurance | 943
e. Mailing Online | 981

170 RATES AND FEES

The rates for Express Mail are set forth in the following rate schedules:

| Schedule
a. Same Day Airport | 121
b. Custom Designed | 122
c. Next Day Post Office-to-Post Office | 123
d. Second Day Post Office-to-Post Office | 123
e. Next Day Post Office-to-Addressee | 123
f. Second Day Post Office-to-Addressee | 123

180 REFUNS

181 Procedure

Claims for refunds of postage must be filed within the period of time and under terms and conditions specified by the Postal Service.

182 Availability

182.1 Same Day Airport.

The Postal Service will refund the postage for Same Day Airport Express Mail not available for claim by the time specified, unless the delay is caused by:

a. Strikes or work stoppage;

b. Delay or cancellation of flights; or

c. Governmental action beyond the control of Postal Service or air carriers.

182.2 Custom Designed.

Except where a service agreement provides for claim, or delivery, of Custom Designed Express Mail more than 24 hours after scheduled tender at point of origin, the Postal Service will refund postage for such mail not available for claim, or not delivered, within 24 hours of mailing, unless the item was delayed by strike or work stoppage.

182.3 Next Day.

Unless the item was delayed by strike or work stoppage, the Postal Service will refund postage for Next Day Express Mail not available for claim or not delivered:

a. By 10:00 a.m., or earlier time(s) specified by the Postal Service, of the next delivery day in the case of Post Office-to-Post Office service;

b. By 3:00 p.m., or earlier time(s) specified by the Postal Service, of the next delivery day in the case of Post Office-to-Addressee service.

182.4 Second Day.

Unless the item was delayed by strike or work stoppage, the Postal Service will refund postage for Second Day Express Mail not available for claim or not delivered:

a. By 10:00 a.m., or earlier time(s) specified by the Postal Service, of the second delivery day in the case of Post Office-to-Post Office service;

b. By 3:00 p.m., or earlier time(s) specified by the Postal Service, of the second delivery day in the case of Post Office-to-Addressee service.

FIRST-CLASS MAIL CLASSIFICATION SCHEDULE

2107 DEFINITION

Any matter eligible for mailing may, at the option of the mailer, be mailed as First-Class Mail. The following must be mailed as First-Class Mail, unless mailed as Express Mail or exempt under title 39, United States Code, or except as authorized under sections 344.12, 344.23 and 443:

a. Mail sealed against postal inspection as set forth in section 5000;

b. Matter wholly or partially in handwriting or typewriting except as specifically permitted by sections 312, 313, [323, 344.22,]520, 544.2, and 446;

c. Matter having the character of actual and personal correspondence except as specifically permitted by sections 312, 313, [323, 344.22,]520, 544.2, and 446; and

d. Bills and statements of account.

220 DESCRIPTION OF SUBCLASSES

221 Letters and Sealed Parcels Subclass

221.1 General.

The Letters and Sealed Parcels subclass consists of First-Class Mail weighing 13 ounces or less that is not mailed under section 222 or 223.

221.2 Regular Rate Categories.

The regular rate categories consist of Letters and Sealed Parcels subclass mail not mailed under section 221.3.

221.21 Single-Piece Rate Category.

The single-piece rate category applies to regular rate Letters and Sealed Parcels subclass mail not mailed under section 221.22 or 221.24.

221.22 Presort Rate Category.

The presort rate category applies to Letters and Sealed Parcels subclass mail that:

a. Is prepared in a mailing of at least 500 pieces;

b. Is presorted, marked, and presented as specified by the Postal Service; and

c. Meets the addressing and other preparation requirements specified by the Postal Service.

221.23 Reserved

221.24 Qualified Business Reply Mail Rate Category.

The qualified business reply mail rate category applies to Letters and Sealed Parcels subclass mail that:

a. Is provided to senders by the recipient, an advance deposit account business reply mail permit holder, for return by mail to the recipient;

b. Bears the recipient's preprinted machine-readable return address, a barcode representing not more than 11 digits (not including “correction” digits), a Facing Identification Mark, and other markings specified and approved by the Postal Service; and

c. Meets the letter machinability and other preparation requirements specified by the Postal Service.

221.25 Reserved

221.26 Nonstandard Size Surcharge.

Regular rate category Letters and Sealed Parcels subclass mail is subject to a surcharge if it is nonstandard size mail, as defined in section 232.

221.27 Presort Discount for Pieces Weighing More Than Two Ounces.

Presort rate category Letters and Sealed Parcels subclass mail is eligible for an additional presort discount on each piece weighing more than two ounces.

221.3 Automation Rate Categories—Letters and Flats.

221.31 General.

The automation rate categories consist of Letters and Sealed Parcels subclass mail weighing 13 ounces or less that:

a. Is prepared in a mailing of at least 500 pieces, or is provided for entry as mail using Mailing Online or a functionally equivalent service, pursuant to section 981;

b. Is presorted, marked, and presented as specified by the Postal Service;

c. Bears a barcode representing not more than 11 digits (not including “correction” digits) as specified by the Postal Service; and

d. Meets the machinability, addressing, barcoding, and other preparation requirements specified by the Postal Service.

221.32 Letter Categories

221.[32]321 [Basic Rate Category.]Basic Rate Category

The basic rate category applies to letter-size automation rate category mail not mailed under section 221.[33]322, 221.[34]323, or 221.[35]324.

221.[33]322 [Three-Digit Rate Category.]Three-Digit Rate Category

The three-digit rate category applies to letter-size automation rate category mail presorted to single or multiple three-digit ZIP Code destinations as specified by the Postal Service.

221.[34]323 [Five-Digit Rate Category.]Five-Digit Rate Category

The five-digit rate category applies to letter-size automation rate category mail presorted to single or multiple five-digit ZIP Code destinations as specified by the Postal Service.

221.[35]324 [Carrier Route Rate Category.]Carrier Route Rate Category

The carrier route rate category applies to letter-size automation rate category mail presorted to carrier routes. It is available only for those carrier routes specified by the Postal Service.

221.33 Flats Categories

221.[36]331 [Basic Flats Rate Category.]Basic Flats Rate Category.

The basic flats rate category applies to flat-size automation rate category mail not mailed under section 221.[37]332 or 221.333.

221.[37]332 [Three-and Five-Digit Flats Rate Category.]Three-Digit Flats Rate Category.

The three-[ and five-]digit flats rate category applies to flat-size automation rate category mail presorted to single or multiple three-[ and five-]digit ZIP Code destinations as specified by the Postal Service.

221.333 Five-Digit Flats Rate Category.

The five-digit flats rate category applies to flat-size automation rate category mail presorted to single or multiple five-digit ZIP Code destinations as specified by the Postal Service.

221.[38]334 [Nonstandard Size Surcharge.]Nonstandard Size Surcharge.

Flat-size automation rate category pieces are subject to a surcharge if they are nonstandard size mail, as defined in section 232.

221.[39]34 Presort Discount for Pieces Weighing More Than Two Ounces.

Presorted automation rate category mail is eligible for an additional presort discount on each piece weighing more than two ounces.

222 Cards Subclass

222.1 Definition.

222.11 Cards.

The Cards subclass consists of Stamped Cards, defined in section 962.1[1], and postcards. A postcard is a privately printed mailing card for the transmission of messages. To be eligible to be mailed as a First-Class postcard, a card must be of uniform thickness and must not exceed any of the following dimensions:

a. 6 inches in length;

b. 4¼ inches in width;

c. 0.016 inch in thickness.

222.12 Double Cards.

Double Stamped Cards or double postcards may be mailed as Stamped Cards or postcards. Double Stamped Cards are defined in section 962.1[2]. A double postcard consists of two attached cards, one of which may be detached by the receiver and returned by mail as a single postcard.

222.2 Restriction.

A mailpiece with any of the following characteristics is not mailable as a Stamped Card or postcard unless it is prepared as specified by the Postal Service:

a. Numbers or letters unrelated to postal purposes appearing in the address portion of the card;

b. Punched holes;

c. Vertical tearing guide;

d. An address portion which is smaller than the remainder of the card.

222.3 Regular Rate Categories.

222.31 Single-Piece Rate Category.

The single-piece rate category applies to regular rate Cards subclass mail not mailed under section 222.32 or 222.34.

222.32 Presort Rate Category.

The presort rate category applies to Cards subclass mail that:

a. Is prepared in a mailing of at least 500 pieces;

b. Is presorted, marked, and presented as specified by the Postal Service; and

c. Meets the addressing and other preparation requirements specified by the Postal Service.

222.33 Reserved

222.34 Qualified Business Reply Mail Rate Category.

The qualified business reply mail rate category applies to Cards subclass mail that:

a. Is provided to senders by the recipient, an advance deposit account business reply mail permit holder, for return by mail to the recipient;

b. Bears the recipient's preprinted machine-readable return address, a barcode representing not more than 11 digits (not including “correction” digits), a Facing Identification Mark, and other markings specified and approved by the Postal Service; and

c. Meets the card machinability and other preparation requirements specified by the Postal Service.

222.4 Automation Rate Categories.

222.41 General.

The automation rate categories consist of Cards subclass mail that:

a. Is prepared in a mailing of at least 500 pieces, or is provided for entry as mail using Mailing Online or a functionally equivalent service, pursuant to section 981;

b. Is presorted, marked, and presented as specified by the Postal Service;

c. Bears a barcode representing not more than 11 digits (not including “correction” digits) as specified by the Postal Service; and

d. Meets the machinability, addressing, barcoding, and other preparation requirements specified by the Postal Service.

222.42 Basic Rate Category.

The basic rate category applies to automation rate category cards not mailed under section 222.43, 222.44, or 222.45.

222.43 Three-Digit Rate Category.

The three-digit rate category applies to automation rate category cards presorted to single or multiple three-digit ZIP Code destinations as specified by the Postal Service.

222.44 Five-Digit Rate Category.

The five-digit rate category applies to automation rate category cards presorted to single or multiple five-digit ZIP Code destinations as specified by the Postal Service.

222.45 Carrier Route Rate Category.

The carrier route rate category applies to automation rate category cards presorted to carrier routes. It is available only for those carrier routes specified by the Postal Service.

223 Priority Mail Subclass

223.1 General.

The Priority Mail subclass consists of:

a. First-Class Mail weighing more than 13 ounces; and

b. Any mailable matter which, at the option of the mailer, is mailed for expeditious mailing and transportation.

223.2 Single-Piece Priority Mail Rate Category.

The single-piece priority mail rate category applies to Priority Mail subclass mail[ not mailed under section 223.4].

223.3 Reserved

223.4 Reserved

223.5 Flat Rate Envelope.

Priority Mail subclass mail sent in a “flat rate” envelope provided by the Postal Service is charged the two-pound rate.

223.6 Pickup Service.

Pickup service is available for Priority Mail subclass mail under terms and conditions specified by the Postal Service.

223.7 Bulky Parcels.

Priority Mail subclass mail weighing less than 15 pounds, and measuring over 84 inches in length and girth combined, is charged a minimum rate equal to that for a 15-pound parcel for the zone to which the piece is addressed.

230 PHYSICAL LIMITATIONS

231 Size and Weight

First-Class Mail may not exceed 70 pounds or 108 inches in length and girth combined. Additional size and weight limitations apply to individual First-Class Mail subclasses.

232 Nonstandard Size Mail

Letters and Sealed Parcels subclass mail weighing one ounce or less is nonstandard size if:

a. Its aspect ratio does not fall between 1 to 1.3 and 1 to 2.5 inclusive; or

b. It exceeds any of the following dimensions:

11.5 inches in length;

6.125 inches in width; or

0.25 inch in thickness

240 POSTAGE AND PREPARATION

Postage on First-Class Mail must be paid as set forth in section 3000. Postage is computed separately on each piece of mail. Pieces not within the same postage rate increment may be mailed at other than a single-piece rate as part of the same mailing only when specific methods approved by the Postal Service for determining and verifying postage are followed. All mail mailed at other than a single-piece rate must have postage paid in a manner not requiring cancellation.

250 DEPOSIT AND DELIVERY

251 Deposit

First-Class Mail must be deposited at places and times designated by the Postal Service.

252 Service

First-Class Mail receives expeditious handling and transportation, except that when First-Class Mail is attached to or enclosed with mail of another class, the service of that class applies.

253 Forwarding and Return

First-Class Mail that is undeliverable-as-addressed is forwarded or returned to the sender without additional charge.

260 ANCILLARY SERVICES

The following services may be obtained in conjunction with mail sent under this classification schedule upon payment of applicable fees:

Service | Schedule
a Address [c]Correction | 911
b Business [r]Reply [m]Mail | 931
c Certificates of [m]Mailing | 947
d Certified [m]Mail | 941
e COD | 944
f Insurance | 943
g Registered [m]Mail | 942
h Return [r]Receipt (limited to merchandise sent by Priority Mail) | 945
i Merchandise [r]Return | 932
j Delivery [c]Confirmation (limited to Priority Mail) | 948
k Reserved
l Mailing Online | 981

270 RATES AND FEES

271 First-Class Mail.

The rates and fees for First-Class Mail are set forth in the following rate schedules:

| Schedule
a Letters and Sealed Parcels | 221
b Cards | 222
c Priority Mail | 223

272 Keys and Identification Devices.

Keys, identification cards, identification tags, or similar identification devices that:

a. weigh no more than 2 pounds;

b. are mailed without cover; and

c. bear, contain, or have securely attached the name and address information, as specified by the Postal Service, of a person, organization, or concern, with instructions to return to the address and a statement guaranteeing the payment of postage due on delivery; are subject to the following rates and fees:

i. the applicable single-piece rates in schedules 221 or 223;

ii. the fee set forth in fee schedule 931 for payment of postage due charges if an active business reply mail advance deposit account is not used, and

iii. if applicable, the surcharge for nonstandard size mail, as defined in section 232.

280 AUTHORIZATIONS AND LICENSES

The mailing fee set forth in [S]schedule 1000 must be paid once each year at each office of mailing [by any person who mails] or office of verification, as specified by the Postal Service, by or for mailers of other than single-piece First-Class Mail [or courtesy envelope mail]. Payment of the fee allows the mailer to mail at any First-Class rate.

STANDARD MAIL CLASSIFICATION SCHEDULE

310 Definition

311 General

Any mailable matter weighing less than 16 ounces may be mailed as Standard Mail except:

a. Matter required to be mailed as First-Class Mail;

b. Copies of a publication that is entered as Periodicals class mail, except copies sent by a printer to a publisher, and except copies that would have traveled at the former second-class transient rate. (The transient rate applied to individual copies of second-class mail (currently Periodicals class mail) forwarded and mailed by the public, as well as to certain sample copies mailed by publishers.)

312 Printed Matter

Printed matter, including printed letters which according to internal evidence are being sent in identical terms to several persons, but which do not have the character of actual or personal correspondence, may be mailed as Standard Mail. Printed matter does not lose its character as Standard Mail when the date and name of the addressee and of the sender are written thereon. For the purposes of the Standard Mail Classification Schedule, “printed” does not include reproduction by handwriting or typewriting.

313 Written Additions

Standard Mail may have the following written additions placed on the wrapper, on a tag or label attached to the outside of the parcel, or inside the parcel, either loose or attached to the article:

a. Marks, numbers, name, or letters descriptive of contents;

b. “Please Do Not Open Until Christmas,” or words of similar import;

c. Instructions and directions for the use of an article in the package;

d. Manuscript dedication or inscription not in the nature of personal correspondence;

e. Marks to call attention to any word or passage in text;

f. Corrections of typographical errors in printed matter;

g. Manuscripts accompanying related proof sheets, and corrections in proof sheets to include: corrections of typographical and other errors, alterations of text, insertion of new text, marginal instructions to the printer, and rewrites of parts if necessary for correction;

h. Handstamped imprints, except when the added matter is itself personal or converts the original matter to a personal communication;

i. An invoice.

320 DESCRIPTION OF SUBCLASSES

[321 Subclasses Limited to Mail Weighing Less than 16 Ounces]

[321.1 Reserved]

321[.2] Regular Subclass

321.[2]1 General.

The Regular subclass consists of Standard Mail [weighing less than 16 ounces] that is not mailed under sections 322, 323, or 324. [321.3, 321.4, 321.5 or 323.]

321.[2]2 Presort Rate Categories

321.[2]21 General.

The presort rate categories apply to Regular subclass mail that:

a. Is prepared in a mailing of at least 200 addressed pieces or 50 pounds of addressed pieces;

b. Is presorted, marked, and presented as specified by the Postal Service; and

c. Meets the machinability, addressing, and other preparation requirements specified by the Postal Service.

321.[2]22 Basic Rate Categories.

The basic rate categories apply to presort rate category mail not mailed under section 321.23 [321.223].

321.[2]23 Three- and Five-Digit Rate Categories.

The three- and five-digit rate categories apply to presort rate category mail presorted to single or multiple three- and five-digit ZIP Code destinations as specified by the Postal Service.

321.[2]3 Automation Rate Categories.

321.[2]31 General.

The automation rate categories apply to Regular subclass mail that:

a. Is prepared in a mailing of at least 200 addressed pieces or 50 pounds of addressed pieces, or is provided for entry as mail using Mailing Online or a functionally equivalent service, pursuant to section 981;

b. Is presorted, marked, and presented as specified by the Postal Service;

c. Bears a barcode representing not more than 11 digits (not including “correction” digits) as specified by the Postal Service;

d. Meets the machinability, addressing, barcoding, and other preparation requirements specified by the Postal Service.

321.[2]32 Basic Barcoded Rate Category.

The basic barcoded rate category applies to letter-size automation rate category mail not mailed under section 321.[2]33 or 321.[2]34.

321.[2]33 Three-Digit Barcoded Rate Category.

The three-digit barcoded rate category applies to letter-size automation rate category mail presorted to single or multiple three-digit ZIP Code destinations as specified by the Postal Service.

321.[2]34 Five-Digit Barcoded Rate Category.

The five-digit barcoded rate category applies to letter-size automation rate category mail presorted to single or multiple five-digit ZIP Code destinations as specified by the Postal Service.

321.[2]35 Basic Barcoded Flats Rate Category.

The basic barcoded flats rate category applies to flat-size automation rate category mail not mailed under section 321.[2]36.

321.[2]36 Three- and Five-Digit Barcoded Flats Rate Category.

The three- and five-digit barcoded flats rate category applies to flat-size automation rate category mail presorted to single or multiple three- and five-digit ZIP Code destinations as specified by the Postal Service.

321.[2]4 Destination Entry Discounts.

The destination entry discounts apply to Regular subclass mail prepared as specified by the Postal Service and addressed for delivery within the service area of the BMC (or auxiliary service facility), or sectional center facility (SCF), at which it is entered, as defined by the Postal Service.

321.[2]5 Residual Shape Surcharge.

Regular subclass mail is subject to a surcharge if it is prepared as a parcel or if it is not letter or flat shaped.

321.6 Barcode Discount.

The barcode discount applies to Regular Subclass mail that is subject to the residual shape surcharge in 321.5, is entered at designated facilities, bears a barcode specified by the Postal Service, is prepared as specified by the Postal Service, and meets all other preparation and machinability requirements of the Postal Service.

322[1.3] Enhanced Carrier Route Subclass.

322.1[1.31] Definition.

The Enhanced Carrier Route subclass consists of Standard Mail weighing less than 16 ounces that is not mailed under section 321, 323, or 324 [321.2, 321.4, 321.5 or 323], and that:

a. Is prepared in a mailing of at least 200 addressed pieces or 50 pounds of addressed pieces;

b. Is prepared, marked, and presented as specified by the Postal Service;

c. Is presorted to carrier routes as specified by the Postal Service;

d. Is sequenced as specified by the Postal Service; and

e. Meets the machinability, addressing, and other preparation requirements specified by the Postal Service.

322.[1.3]2 Basic Rate Category.

The basic rate category applies to Enhanced Carrier Route subclass mail not mailed under section [321.33, 321.34 or 321.35] 322.3, 322.4 or 322.5.

322.[1.3]3 Basic Pre-Barcoded Rate Category.

The basic pre-barcoded rate category applies to letter-size Enhanced Carrier Route subclass mail which bears a barcode representing not more than 11 digits (not including “correction” digits), as specified by the Postal Service, and which meets the machinability, addressing, and barcoding specifications and other preparation requirements specified by the Postal Service.

322.[1.3]4 High Density Rate Category.

The high density rate category applies to Enhanced Carrier Route subclass mail presented in walk-sequence order and meeting the high density requirements specified by the Postal Service.

322.[1.3]5 Saturation Rate Category.

The saturation rate category applies to Enhanced Carrier Route subclass mail presented in walk-sequence order and meeting the saturation requirements specified by the Postal Service.

322.[1.3]6 Destination Entry Discounts.

Destination entry discounts apply to Enhanced Carrier Route subclass mail prepared as specified by the Postal Service and addressed for delivery within the service area of the BMC (or auxiliary service facility), sectional center facility (SCF), or destination delivery unit (DDU) at which it is entered, as defined by the Postal Service.

322.[1.3]7 Residual Shape Surcharge.

Enhanced Carrier Route subclass mail is subject to a surcharge if it is prepared as a parcel or if it is not letter or flat shaped.

323[1.4] Nonprofit Subclass

323.[1.4]1 General.

The Nonprofit subclass consists of Standard Mail weighing less than 16 ounces that is not mailed under section 321, 322, or 324 [321.2, 321.3, 321.5 or 323], and that is mailed by authorized nonprofit organizations or associations of the following types:

a. Religious, as defined in section 1009,

b. Educational, as defined in section 1009,

c. Scientific, as defined in section 1009,

d. Philanthropic, as defined in section 1009,

e. Agricultural, as defined in section 1009,

f. Labor, as defined in section 1009,

g. Veterans', as defined in section 1009,

h. Fraternal, as defined in section 1009,

i. Qualified political committees,

j. State or local voting registration officials when making a mailing required or authorized by the National Voter Registration Act of 1993.

323.[1.4]11 Qualified Political Committees.

The term “qualified political committee” means a national or State committee of a political party, the Republican and Democratic Senatorial Campaign Committees, the Democratic National Congressional Committee, and the National Republican Congressional Committee:

a. The term “national committee” means the organization which, by virtue of the bylaws of a political party, is responsible for the day-to-day operation of such political party at the national level; and

b. The term “State committee” means the organization which, by virtue of the bylaws of a political party, is responsible for the day-to-day operation of such political party at the State level.

323.[1.4]12 Limitation on Authorization.

An organization authorized to mail at the nonprofit Standard rates for qualified nonprofit organizations may mail only its own matter at these rates. An organization may not delegate or lend the use of its permit to mail at nonprofit Standard rates to any other person, organization or association.

323.[1.4]2 Presort Rate Categories

323.[1.4]21 General.

The presort rate categories apply to Nonprofit subclass mail that:

a. Is prepared in a mailing of at least 200 addressed pieces or 50 pounds of addressed pieces;

b. Is presorted, marked, and presented as specified by the Postal Service; and

c. Meets the machinability, addressing, and other preparation requirements specified by the Postal Service.

323.[1.4]22 Basic Rate Categories.

The basic rate categories apply to presort rate category mail not mailed under section 322.[1.4]23.

323.[1.4]23 Three- and Five-Digit Rate Categories.

The three- and five-digit rate categories apply to presort rate category mail presorted to single or multiple three- and five-digit ZIP Code destinations as specified by the Postal Service.

323.[1.4]3 Automation Rate Categories

323.[1.4]31 General.

The automation rate categories apply to Nonprofit subclass mail that:

a. Is prepared in a mailing of at least 200 addressed pieces or 50 pounds of addressed pieces, or is provided for entry as mail using Mailing Online or a functionally equivalent service, pursuant to section 981;

b. Is presorted, marked, and presented as specified by the Postal Service;

c. Bears a barcode representing not more than 11 digits (not including “correction” digits) as specified by the Postal Service;

d. Meets the machinability, addressing, barcoding, and other preparation requirements specified by the Postal Service.

323.[1.4]32 Basic Barcoded Rate Category.

The basic barcoded rate category applies to letter-size automation rate category mail not mailed under section 323.[1.4]33 or 323.[1.4]34.

323.[1.4]33 Three-Digit Barcoded Rate Category.

The three-digit barcoded rate category applies to letter-size automation rate category mail presorted to single or multiple three-digit ZIP Code destinations as specified by the Postal Service.

323.[1.4]34 Five-Digit Barcoded Rate Category.

The five-digit barcoded rate category applies to letter-size automation rate category mail presorted to single or multiple five-digit ZIP Code destinations as specified by the Postal Service.

323.[1.4]35 Basic Barcoded Flats Rate Category.

The basic barcoded flats rate category applies to flat-size automation rate category mail not mailed under section 323.[1.4]36.

323.[1.4]36 Three- and Five-Digit Barcoded Flats Rate Category.

The three- and five-digit barcoded flats rate category applies to flat-size automation rate category mail presorted to single or multiple three- and five-digit ZIP Code destinations as specified by the Postal Service.

323.[1.4]4 Destination Entry Discounts.

Destination entry discounts apply to Nonprofit subclass mail prepared as specified by the Postal Service and addressed for delivery within the service area of the BMC (or auxiliary service facility) or sectional center facility (SCF) at which it is entered, as defined by the Postal Service.

323.[1.4]5 Residual Shape Surcharge.

Nonprofit subclass mail is subject to a surcharge if it is prepared as a parcel or if it is not letter or flat shaped.

323.6 Barcode Discount.

The barcode discount applies to Nonprofit subclass mail that is subject to the residual shape surcharge in 323.5, is entered at designated facilities, bears a barcode specified by the Postal Service, is prepared as specified by the Postal Service and meets all other preparation and machinability requirements of the Postal Service.

324[1.5] Nonprofit Enhanced Carrier Route Subclass

324.[1.5]1 Definition.

The Nonprofit Enhanced Carrier Route subclass consists of Standard Mail [weighing less than 16 ounces] that is not mailed under section 321, 322, or 323 [321.2, 321.3, 321.4 or 323], that is mailed by authorized nonprofit organizations or associations (as defined in section 323[1.41]) under the terms and limitations stated in section 323.[1.4]12, and that:

a. Is prepared in a mailing of at least 200 addressed pieces or 50 pounds of addressed pieces;

b. Is prepared, marked, and presented as specified by the Postal Service;

c. Is presorted to carrier routes as specified by the Postal Service;

d. Is sequenced as specified by the Postal Service; and

e. Meets the machinability, addressing, and other preparation requirements specified by the Postal Service.

324.[1.5]2 Basic Rate Category.

The basic rate category applies to Nonprofit Enhanced Carrier Route subclass mail not mailed under section 324.3, 324.4, or 324.5.[321.53, 321.54 or 321.55.]

324.[1.5]3 Basic Pre-Barcoded Rate Category.

The basic pre-barcoded rate category applies to letter-size Nonprofit Enhanced Carrier Route subclass mail which bears a barcode representing not more than 11 digits (not including “correction” digits), as specified by the Postal Service, and which meets the machinability, addressing, and barcoding specifications and other preparation requirements specified by the Postal Service.

324.[1.5]4 High Density Rate Category.

The high density rate category applies to Nonprofit Enhanced Carrier Route subclass mail presented in walk-sequence order and meeting the high density requirements specified by the Postal Service.

324.[1.5]5 Saturation Rate Category.

The saturation rate category applies to Nonprofit Enhanced Carrier Route subclass mail presented in walk-sequence order and meeting the saturation requirements specified by the Postal Service.

324.[1.5]6 Destination Entry Discounts.

Destination entry discounts apply to Nonprofit Enhanced Carrier Route subclass mail prepared as specified by the Postal Service and addressed for delivery within the service area of the BMC (or auxiliary service facility), sectional center facility (SCF), or destination delivery unit (DDU) at which it is entered, as defined by the Postal Service.

324.[1.5]7 Residual Shape Surcharge.

Nonprofit Enhanced Carrier Route subclass mail is subject to a surcharge if it is prepared as a parcel or if it is not letter or flat shaped.

330 Physical Limitations

331 Size

[Except as provided in section 322.161,] Standard Mail may not exceed 108 inches in length and girth combined. Additional size limitations apply to individual [Standard Mail subclasses.] rate categories. The maximum size for mail [presorted to carrier route] in the Enhanced Carrier Route and Nonprofit Enhanced Carrier Route subclasses is 14 inches in length, 11.75 inches in width, and 0.75 inch in thickness, except that merchandise samples mailed with detached address cards, prepared as specified by the Postal Service, may exceed those dimensions. [For merchandise samples mailed with detached address cards, the carrier route maximum dimensions apply to the detached address cards and not to the samples.]

332 Weight

Standard Mail may not weigh more than 16 ounces. [70 pounds. Additional weight limitations apply to individual Standard Mail subclasses.]

340 Postage and Preparation

341 Postage

Postage must be paid as set forth in section 3000. When the postage [computed at a Regular, Enhanced Carrier Route, Nonprofit or Nonprofit Enhanced Carrier Route Standard rate] is higher than the rate prescribed in any of the Package Services [Standard] subclasses [listed in 322] for which the piece also qualifies [(or would qualify, except for weight)], the piece is eligible for the applicable lower rate. All mail mailed at a bulk or presort rate must have postage paid in a manner not requiring cancellation.

342 Preparation

All pieces in a Standard mailing must be separately addressed. All pieces in a Standard mailing must be identified as specified by the Postal Service, and must contain the ZIP Code of the addressee when specified by the Postal Service. All Standard mailings must be prepared and presented as specified by the Postal Service. Two or more Standard mailings may be commingled and mailed only when specific methods approved by the Postal Service for determining and verifying postage are followed.

343 Non-Identical Pieces

Pieces not identical in size and weight may be mailed at a bulk or presort rate as part of the same mailing only when specific methods approved by the Postal Service for determining and verifying postage are followed.

344 Attachments and Enclosures

344.1 [Regular, Enhanced Carrier Route, Nonprofit and Nonprofit Enhanced Carrier Route Subclasses (section 321)]

[344.11] General.

First-Class Mail may be attached to or enclosed in Standard Mail containing books, catalogs, and merchandise [entered under section 321]. The piece must be marked as specified by the Postal Service. Except as provided in section 344. [1]2, additional postage must be paid for the attachment or enclosure as if it had been mailed separately. Otherwise, the entire combined piece is subject to the First-Class rate for which it qualifies.

344.[1]2 Incidental First-Class Attachments and Enclosures.

First-Class Mail, as defined in subsections b through d of section 210, may be attached to or enclosed with Standard Mail [merchandise entered under section 321, including] containing merchandise, including books, but excluding merchandise samples, with postage paid on the combined piece at the applicable Standard rate, if the attachment or enclosure is incidental to the piece to which it is attached or with which it is enclosed.

[344.2 Parcel Post, Bound Printed Matter, Special, and Library Subclasses (sections 322 and 323)]

[344.21 General.

First-Class Mail or Standard Mail from any of the subclasses listed in section 321 (Regular, Enhanced Carrier Route, Nonprofit or Nonprofit Enhanced Carrier Route) may be attached to or enclosed in Standard Mail mailed under sections 322 and 323. The piece must be marked as specified by the Postal Service. Except as provided in sections 344.22 and 344.23, additional postage must be paid for the attachment or enclosure as if it had been mailed separately. Otherwise, the entire combined piece is subject to the First-Class or section 321 Standard rate for which it qualifies (unless the rate applicable to the host piece is higher), or, if a combined piece with a section 321 Standard Mail attachment or enclosure weighs 16 ounces or more, the piece is subject to the Parcel Post rate for which it qualifies.]

[344.22 Specifically Authorized Attachments and Enclosures.

Standard Mail mailed under sections 322 and 323 may contain enclosures and attachments as specified by the Postal Service and as described in subsections a and e of section 323.11, with postage paid on the combined piece at the Standard rate applicable to the host piece.]

[344.23 Incidental First-Class Attachments and Enclosures.

First-Class Mail that meets one or more of the definitions in subsections b through d of section 210, may be attached to or enclosed with Standard Mail mailed under section 322 or 323, with postage paid on the combined piece at the Standard rate applicable to the host piece, if the attachment or enclosure is incidental to the piece to which it is attached or with which it is enclosed.]

350 DEPOSIT AND DELIVERY

351 Deposit

Standard Mail must be deposited at places and times designated by the Postal Service.

352 Service

Standard Mail may receive deferred service.

353 Forwarding and Return

[353.1 Regular, Enhanced Carrier Route, Nonprofit and Nonprofit Enhanced Carrier Route Subclasses (section 321)]

Undeliverable-as-addressed Standard Mail [mailed under section 321] will be returned on request of the mailer, or forwarded and returned on request of the mailer. Undeliverable-as-addressed combined First-Class and Standard Mail pieces will be returned as specified by the Postal Service. Except as provided in section 935, the applicable First-Class Mail rate is charged for each piece receiving return only service. Except as provided in section 936, charges for forwarding-and-return service are assessed only on those pieces which cannot be forwarded and are returned. Except as provided in sections 935 and 936, the charge for those returned pieces is the appropriate First-Class Mail rate for the piece plus that rate multiplied by a factor equal to the number of [section 321] Standard Mail pieces nationwide that are successfully forwarded for every one piece that cannot be forwarded and must be returned.

[353.2 Parcel Post, Bound Printed Matter, Special, and Library Subclasses (sections 322 and 323)]

[Undeliverable-as-addressed Standard Mail mailed under sections 322 and 323 will be forwarded on request of the addressee, returned on request of the mailer, or forwarded and returned on request of the mailer. Pieces which combine Standard Mail from one of the subclasses described in 322 and 323 with First-Class Mail or Standard Mail from one of the subclasses described in 321 will be forwarded if undeliverable-as-addressed, and returned if undeliverable, as specified by the Postal Service. When Standard Mail mailed under sections 322 and 323 is forwarded or returned from one post office to another, additional charges will be based on the applicable single-piece Standard Mail rate under 322 or 323.]

360 ANCILLARY SERVICES

361 All Subclasses

All Standard Mail will receive the following services upon payment of the appropriate fees:

Service | Schedule
a. Address correction | 911
b. Certificates of mailing indicating that a specified number of pieces have been mailed | 947

Certificates of mailing are not available for Standard Mail [Regular, Enhanced Carrier Route, Nonprofit and Nonprofit Enhanced Carrier Route subclass mail] when postage is paid with permit imprint.

[362 Parcel Post, Bound Printed Matter, Special, and Library Subclasses]

[Parcel Post, Bound Printed Matter, Special, and Library subclass mail will receive the following additional services upon payment of the appropriate fees:

[ Service | Schedule
a. Certificates of mailing | 947
b. COD | 944
c. Insurance | 943
d. Special handling | 952
e. Return receipt (merchandise only) | 945
f. Merchandise return | 932
g. Delivery confirmation] | 948]

[Insurance, special handling, and COD services may not be used selectively for individual pieces in a multi-piece Standard Mail mailing unless specific methods approved by the Postal Service for determining and verifying postage are followed.]

362[3] Regular and Nonprofit

362.1 Regular and Nonprofit subclass mail will receive the following additional services upon payment of the appropriate fees.

Service | Schedule
a. Bulk parcel return service | 935
b. Shipper-paid forwarding | 936

362.2 Regular and Nonprofit subclass mail subject to the residual shape surcharge in 321.5 and 323.6, respectively, will receive the following additional services upon payment of the approrpriate fees.

Service | Schedule
a. Bulk insurance | 943
b. Return receipt (merchandise only) | 945
c. Delivery confirmation | 948

Bulk insurance may not be used selectively for individual pieces in a multi-piece Standard Mail mailing unless specific methods approved by the Postal Service for determining and verifying postage are followed.

363[4] Regular

Regular subclass mail will receive the following additional services upon payment of the appropriate fees:

Service | Schedule
a. Mailing online | 981

365 Nonprofit

Nonprofit subclass mail will receive the following additional services upon payment of the appropriate fees:

Service | Schedule
a. Mailing Online (starting on a date to be specified by the Postal Service) | 981

370 RATES AND FEES

The rates and fees for Standard Mail are set forth as follows:

| Schedule
a. Regular subclass | [321.2]
Presort category | 321A
Automation category | 321B
b. Enhanced Carrier Route subclass | 322 [1.3]
c. Nonprofit subclass | [321.4]
Presort category | 323A
Automation category | 323B
d. Nonprofit Enhanced Carrier Route subclass | 324 [1.5]
[e. Parcel Post subclass]
[Inter-BMC | 322.1A]
[Intra-BMC | 322.1B]
[Destination BMC | 322.1C]
[Destination SCF | 322.1D]
[Destination Delivery Unit | 322.1E]
[f. Bound Printed Matter subclass]
[Single-Piece | 322.2A]
[Bulk and Carrier Route | 322.2B]
[g. Special subclass | 323.1]
[h. Library subclass | 323.2]
[i.] e. Fees | 1000

380 AUTHORIZATIONS AND LICENSES

[381 Regular, Enhanced Carrier Route, Nonprofit and Nonprofit Enhanced Carrier Route Subclasses]

[A] The mailing fee [as] set forth in Schedule 1000 must be paid once each year at each office of mailing or office of verification, as specified by the Postal Service, by or for mailers of [Regular, Enhanced Carrier Route, Nonprofit and Nonprofit Enhanced Carrier Route subclass] Standard [m]Mail. Payment of the fee allows the mailer to mail at any Standard Mail rate.

PERIODICALS CLASSIFICATION SCHEDULE

410 DEFINITION

411 General Requirements

411.1 Definition.

A publication may qualify for mailing under the Periodicals Classification Schedule if it meets all the requirements in sections 411.2 through 411.5 and the requirements for one of the qualification categories in sections 412 through 415. Eligibility for specific Periodicals rates is prescribed in section 420.

411.2 Periodicals.

Periodicals class mail is mailable matter consisting of newspapers and other periodical publications. The term “periodical publications” includes, but is not limited to:

a. Any catalog or other course listing including mail announcements of legal texts which are part of post-bar admission education issued by any institution of higher education or by a nonprofit organization engaged in continuing legal education.

b. Any looseleaf page or report (including any index, instruction for filing, table, or sectional identifier which is an integral part of such report) which is designed as part of a looseleaf reporting service concerning developments in the law or public policy.

411.3 Issuance

411.31 Regular Issuance.

Periodicals class mail must be regularly issued at stated intervals at least four times a year, bear a date of issue, and be numbered consecutively.

411.32 Separate Publication.

For purposes of determining Periodicals rate eligibility, an “issue” of a newspaper or other periodical shall be deemed to be a separate publication when the following conditions exist:

a. The issue is published at a regular frequency more often than once a month either on (1) the same day as another regular issue of the same publication; or (2) on a day different from regular issues of the same publication, and

b. More than 10 percent of the total number of copies of the issue is distributed on a regular basis to recipients who do not subscribe to it or request it, and

c. The number of copies of the issue distributed to nonsubscribers or nonrequesters is more than twice the number of copies of any other issue distributed to nonsubscribers or nonrequesters on that same day, or, if no other issue that day, any other issue distributed during the same period. “During the same period” shall be defined as the periods of time ensuing between the distribution of each of the issues whose eligibility is being examined. Such separate publications must independently meet the qualifications for Periodicals eligibility.

411.4 Office of Publication.

Periodicals class mail must have a known office of publication. A known office of publication is a public office where business of the publication is transacted during the usual business hours. The office must be maintained where the publication is authorized original entry.

411.5 Printed Sheets.

Periodicals class mail must be formed of printed sheets. It may not be reproduced by stencil, mimeograph, or hectograph processes, or reproduced in imitation of typewriting. Reproduction by any other printing process is permissible. Any style of type may be used.

412 General Publications

412.1 Definition.

To qualify as a General Publication, Periodicals class mail must meet the requirements in section 411 and in sections 412.2 through 412.4.

412.2 Dissemination of Information.

A General Publication must be originated and published for the purpose of disseminating information of a public character, or devoted to literature, the sciences, art, or some special industry.

412.3 Paid Circulation

412.31 Total Distribution.

A General Publication must be designed primarily for paid circulation. At least 50 percent or more of the copies of the publication must be distributed to persons who have paid above a nominal rate.

412.32 List of Subscribers.

A General Publication must be distributed to a legitimate list of persons who have subscribed by paying or promising to pay at a rate above nominal for copies to be received during a stated time. Copies mailed to persons who are not on a legitimate list of subscribers are nonsubscriber copies.

412.33 Nominal Rates.

As used in section 412.31, nominal rate means:

a. A token subscription price that is so low that it cannot be considered a material consideration;

b. A reduction to the subscriber, under a premium offer or any other arrangements, of more than 50 percent of the amount charged at the basic annual rate for a subscriber to receive one copy of each issue published during the subscription period. The value of a premium is considered to be its actual cost to the publishers, the recognized retail value, or the represented value, whichever is highest.

412.34 Nonsubscriber Copies

412.341 Up to Ten Percent.

Nonsubscriber copies, including sample and complimentary copies, mailed at any time during the calendar year up to and including 10 percent of the total number of copies mailed to subscribers during the calendar year are mailable at the rates that apply to subscriber copies provided that the nonsubscriber copies would have been eligible for those rates if mailed to subscribers.

412.342 Over Ten Percent.

Nonsubscriber copies, including sample and complimentary copies, mailed at any time during the calendar year, in excess of 10 percent of the total number of copies mailed to subscribers during the calendar year which are presorted and commingled with subscriber copies are charged the applicable rates for [Regular] Outside County Periodicals, but are not eligible for preferred rate discounts. The 10 percent limitation for a publication is based on the total number of all copies of that publication mailed to subscribers during the calendar year.

412.35 Advertiser's Proof Copies.

One complete copy of each issue of a General Publication may be mailed to each advertiser in that issue as an advertiser's proof copy at the rates that apply to subscriber copies, whether the advertiser's proof copy is mailed to the advertiser directly or, instead, to an advertising representative or agent of the publication. These copies count as subscriber copies.

412.36 Expired Subscriptions.

For six months after a subscription has expired, copies of a General Publication may be mailed to a former subscriber at the rates that apply to copies mailed to subscribers, if the publisher has attempted during that six months to obtain payment, or a promise to pay, for renewal. These copies do not count as subscriber copies.

412.4 Advertising Purposes

A General Publication may not be designed primarily for advertising purposes. A publication is “designed primarily for advertising purposes” if it:

a. Has advertising in excess of 75 percent in more than one-half of its issues during any 12-month period;

b. Is owned or controlled by individuals or business concerns and conducted as an auxiliary to and essentially for the advancement of the main business or calling of those who own or control it;

c. Consists principally of advertising and editorial write-ups of the advertisers;

d. Consists principally of advertising and has only a token list of subscribers, the circulation being mainly free;

e. Has only a token list of subscribers and prints advertisements free for advertisers who pay for copies to be sent to a list of persons furnished by the advertisers; or

f. Is published under a license from individuals or institutions and features other businesses of the licensor.

413 Requester Publications

413.1 Definition.

A publication which is circulated free or mainly free may qualify for Periodicals class as a Requester Publication if it meets the requirements in sections 411, and 413.2 through 413.4.

413.2 Minimum Pages.

It must contain at least 24 pages.

413.3 Advertising Purposes.

413.31 Advertising Percentage.

It must devote at least 25 percent of its pages to nonadvertising and not more than 75 percent to advertisements.

413.32 Ownership and Control.

It must not be owned or controlled by one or more individuals or business concerns and conducted as an auxiliary to and essentially for the advancement of the main business or calling of those who own or control it.

413.4 Circulated to Requesters.

413.41 List of Requesters.

It must have a legitimate list of persons who request the publication, and 50 percent or more of the copies of the publication must be distributed to persons making such requests. Subscription copies paid for or promised to be paid for, including those at or below a nominal rate may be included in the determination of whether the 50 percent request requirement is met. Persons will not be deemed to have requested the publication if their request is induced by a premium offer or by receipt of material consideration, provided that mere receipt of the publication is not material consideration.

413.42 Nonrequester Copies.

413.421 Up to Ten Percent.

Nonrequester copies, including sample and complimentary copies, mailed at any time during the calendar year up to and including 10 percent of the total number of copies mailed to requesters during the calendar year are mailable at the rates that apply to requester copies provided that the nonrequester copies would have been eligible for those rates if mailed to requesters.

413.422 Over Ten Percent.

Nonrequester copies, including sample and complimentary copies, mailed at any time during the calendar year, in excess of 10 percent of the total number of copies mailed to requesters during the calendar year which are presorted and commingled with requester copies are charged the applicable rates for [Regular] Outside County Periodicals, but are not eligible for preferred rate discounts. The 10 percent limitation for a publication is based on the total number of all copies of that publication mailed to requesters during the calendar year.

413.43 Advertiser's Proof Copies.

One complete copy of each issue of a Requester Publication may be mailed to each advertiser in that issue as an advertiser's proof copy at the rates that apply to requester copies, whether the advertiser's proof copy is mailed to the advertiser directly or, instead, to an advertising representative or agent of the publication. These copies count as requester copies.

414 Publications of Institutions and Societies

414.1 Publisher's Own Advertising.

Except as provided in section 414.2, a publication which meets the requirements of sections 411 and 412.4, and which contains no advertising other than that of the publisher, qualifies for Periodicals class as a publication of an institution or society if it is:

a. Published by a regularly incorporated institution of learning;

b. Published by a regularly established state institution of learning supported in whole or in part by public taxation;

c. A bulletin issued by a state board of health or a state industrial development agency;

d. A bulletin issued by a state conservation or fish and game agency or department;

e. A bulletin issued by a state board or department of public charities and corrections;

f. Published by a public or nonprofit private elementary or secondary institution of learning or its administrative or governing body;

g. Program announcements or guides published by an educational radio or television agency of a state or political subdivision thereof, or by a nonprofit educational radio or television station;

h. Published by or under the auspices of a benevolent or fraternal society or order organized under the lodge system and having a bona fide membership of not less than 1,000 persons;

i. Published by or under the auspices of a trade(s) union;

j. Published by a strictly professional, literary, historical, or scientific society; or,

k. Published by a church or church organization.

414.2 General Advertising.

A publication published by an institution or society identified in sections 414.1 h through k, may contain advertising of other persons, institutions, or concerns, if the following additional conditions are met:

a. The publication is originated and published to further the objectives and purposes of the society;

b. Circulation is limited to:

i. Copies mailed to members who pay either as a part of their dues or assessment or otherwise, not less than 50 percent of the regular subscription price;

ii. Other actual subscribers; and

iii. Exchange copies.

c. The circulation of nonsubscriber copies, including sample and complimentary copies, does not exceed 10 percent of the total number of copies referred to in 414.2b.

415 Publications of State Departments of Agriculture

A publication which is issued by a state department of agriculture and which meets the requirements of sections 411 qualifies for Periodicals class as a publication of a state department of agriculture if it contains no advertising and is published for the purpose of furthering the objects of the department.

416 Foreign Publications

Foreign newspapers and other periodicals of the same general character as domestic publications entered as Periodicals class mail may be accepted on application of the publishers thereof or their agents, for transmission through the mail at the same rates as if published in the United States. This section does not authorize the transmission through the mail of a publication which violates a copyright granted by the United States.

420 DESCRIPTION OF SUBCLASSES

421 [Regular] Outside County Subclass

421.1 Definition.

The [Regular] Outside County subclass consists of Periodicals class mail that is not mailed under section 423 and that:

a. Is presorted, marked, and presented as specified by the Postal Service; and

b. Meets machinability, addressing, and other preparation requirements specified by the Postal Service.

421.2 [Regular] Outside County Pound Rates.

An unzoned pound rate applies to the nonadvertising portion of [Regular] Outside County subclass mail. A zoned pound rate applies to the advertising portion and may be reduced by applicable destination entry discounts. The pound rate postage is the sum of the nonadvertising portion charge and the advertising portion charge.

421.3 [Regular] Outside County Piece Rates.

421.31 Basic Rate Category.

The basic rate category applies to all [Regular] Outside County subclass mail not mailed under section 421.32, 421.33, or 421.34.

421.32 Three-Digit City and Five-Digit Rate Category.

The three-digit rate category applies to [Regular] Outside County subclass mail presorted to single or multiple three-digit ZIP Code destinations as specified by the Postal Service.

421.33 Five-Digit Rate Category.

The five-digit rate category applies to [Regular] Outside County subclass mail presorted to single or multiple five-digit ZIP Code destinations as specified by the Postal Service.

421.34 Carrier Route Rate Category.

The carrier route rate category applies to [Regular] Outside County subclass mail presorted to carrier routes as specified by the Postal Service.

421.4 [Regular] Outside County Subclass Discounts.

421.41 Barcoded Letter Discounts.

Barcoded letter discounts apply to letter size [Regular] Outside County subclass mail mailed under sections 421.31, 421.32, and 421.33 which bears a barcode representing not more than 11 digits (not including “correction” digits) as specified by the Postal Service, and which meets the machinability, addressing, and barcoding specifications and other preparation requirements specified by the Postal Service.

421.42 Barcoded Flats Discounts.

Barcoded flats discounts apply to flat size [Regular] Outside County subclass mail mailed under sections 421.31, 421.32, and 421.33 which bear a barcode representing not more than 11 digits (not including “correction” digits) as specified by the Postal Service, and meet the flats machinability, addressing, and barcoding specifications and other preparation requirements specified by the Postal Service.

421.43 High Density Discount.

The high density discount applies to [Regular] Outside County subclass mail mailed under section 421.34, presented in walk sequence order, and meeting the high density and preparation requirements specified by the Postal Service.

421.44 Saturation Discount.

The saturation discount applies to [Regular] Outside County subclass mail mailed under section 421.34, presented in walk-sequence order, and meeting the saturation and preparation requirements specified by the Postal Service.

421.45 Destination Entry Discounts.

Destination entry discounts apply to [Regular] Outside County subclass mail which is destined for delivery within the service area of the destination sectional center facility (SCF) or the destination delivery unit (DDU) in which it is entered, as defined by the Postal Service. The DDU discount only applies to Carrier Route rate category mail.

421.46 Nonadvertising Discount.

The nonadvertising discount applies to all [Regular] Outside County subclass mail and is determined by multiplying the proportion of nonadvertising content by the discount factor set forth in Rate Schedule 421 and subtracting that amount from the applicable piece rate.

421.47 Preferred Rate Discount.

Periodicals Mail qualifying as Nonprofit or Classroom mail under sections 422.2 and 422.3 is eligible for the Preferred rate discount set forth in Rate Schedule 421.

422 Preferred Qualification Categories

422.1 Definition.

Preferred Qualification Outside County Subclass Periodicals consist of Periodicals Mail, other than publications qualifying as Requester Publications, that meets applicable requirements in sections 422.2, 422.3, or 422.4.

422.2 Nonprofit.

The Periodicals Outside County Subclass Nonprofit category consists of publications entered by authorized nonprofit organizations or associations of the following types:

a. Religious, as defined in section 1009,

b. Educational, as defined in section 1009,

c. Scientific, as defined in section 1009,

d. Philanthropic, as defined in section 1009,

e. Agricultural, as defined in section 1009,

f. Labor, as defined in section 1009,

g. Veterans', as defined in section 1009,

h. Fraternal, as defined in section 1009, and

i. Associations of rural electric cooperatives, and the publications of the following types:

j. one publication, which contains no advertising (except advertising of the publisher) published by the official highway or development agency of a state,

k. program announcements or guides published by an educational radio or television agency of a state or political subdivision thereof or by a nonprofit educational radio or television station, or

l. one conservation publication published by an agency of a state which is responsible for management and conservation of the fish or wildlife resources of such state.

422.3 Classroom

The Periodicals Outside County Subclass Classroom rate category consists of religious, educational, or scientific publications designed specifically for use in school classrooms or religious instruction classes.

422.4 Science of Agriculture.

422.41 Definition.

Science of Agriculture mail consists of Periodicals class mail devoted to the science of agriculture if the total number of copies of the publication furnished during any 12-month period to subscribers residing in rural areas amounts to at least 70 percent of the total number of copies distributed by any means for any purpose.

422.42 Rates.

Science of Agriculture mail is subject to pound rates, piece rates, and piece rate discounts (except for the discount set forth in section 421.47) for Outside County Subclass Periodicals Mail, except for DDU, DSCF and Zone 1 & 2 pound rates. Rates for Science of Agriculture are set forth in Rate Schedule 421.

422.43 Nonadvertising Discount.

The nonadvertising discount for Outside County Subclass Periodicals Mail applies to Science of Agriculture Periodicals, and is determined by multiplying the proportion of nonadvertising content by the discount factor set forth in Rate Schedule 421 and subtracting that amount from the applicable piece rate.

422.44 Destination Entry Discounts.

Destination entry discounts apply to Science of Agriculture Periodicals which are destined for delivery within the service area of the destination sectional center facility (SCF) or the destination delivery unit (DDU) in which it is entered, as defined by the Postal Service. The DDU discount only applies to Carrier Route rate category mail.

423 [Preferred Rate Periodicals] Within County Subclass

423.1 Reserved [Definition.

Periodicals class mail, other than publications qualifying as Requester Publications, may qualify for Preferred Rate Periodicals rates if it meets the applicable requirements for those rates in sections 423.2 through 423.5.]

423.2 General [Within County Subclass]

423.21 Definition.

Within County mail consists of Periodicals class mail, other than publications qualifying as Requester Publications, [Preferred Rate Periodicals class mail] mailed in, and addressed for delivery within, the county where published and originally entered, from either the office of original entry or additional entry. In addition, a Within County publication must meet one of the following conditions:

a. The total paid circulation of the issue is less than 10,000 copies; or

b. The number of paid copies of the issue distributed within the county of publication is at least one more than one-half the total paid circulation of such issue.

423.22 Entry in an Incorporated City.

For the purpose of determining eligibility for Within County mail, when a publication has original entry at an independent incorporated city which is situated entirely within a county or which is contiguous to one or more counties in the same state, such incorporated city shall be considered to be within the county with which it is principally contiguous. Where more than one county is involved, the publisher will select the principal county.

423.23 Pound Rate.

One pound rate applies to Within County pieces presorted to carrier routes to be delivered within the delivery area of the originating post office, and another pound rate applies to all other pieces.

[423.3 Nonprofit Subclass]

[Nonprofit mail is Preferred Rate Periodicals class mail entered by authorized nonprofit organizations or associations of the following types:

a. Religious, as defined in section 1009,

b. Educational, as defined in section 1009,

c. Scientific, as defined in section 1009,

d. Philanthropic, as defined in section 1009,

e. Agricultural, as defined in section 1009,

f. Labor, as defined in section 1009,

g. Veterans', as defined in section 1009,

h. Fraternal, as defined in section 1009, and

i. Associations of rural electric cooperatives,

j. One publication, which contains no advertising (except advertising of the publisher) published by the official highway or development agency of a state,

k. Program announcements or guides published by an educational radio or television agency of a state or political subdivision thereof or by a nonprofit educational radio or television station.

l. One conservation publication published by an agency of a state which is responsible for management and conservation of the fish or wildlife resources of such state.]

[423.4 Classroom Subclass]

[Classroom mail is Preferred Rate Periodicals class mail which consists of religious, educational, or scientific publications designed specifically for use in school classrooms or religious instruction classes.]

[423.5 Science of Agriculture]

[Science of Agriculture mail consists of Preferred Rate Periodicals class mail devoted to the science of agriculture if the total number of copies of the publication furnished during any 12-month period to subscribers residing in rural areas amounts to at least 70 percent of the total number of copies distributed by any means for any purpose.]

[423.6 Preferred Rate Pound Rates]

[For Preferred Rate Periodicals entered under sections 423.3, 423.4 and 423.5, an unzoned pound rate applies to the nonadvertising portion. A zoned pound rate applies to the advertising portion and may be reduced by applicable destination entry discounts. The pound rate postage is the sum of the nonadvertising portion charge and the advertising portion charge. For Preferred Rate Periodicals entered under section 423.2, one pound rate applies to the pieces presorted to carrier route to be delivered within the delivery area of the originating post office, and another pound rate applies to all other pieces.]

423.[7]3 [Preferred Rate] Within County Piece Rates

423.[71]31 Basic Rate Category.

The basic rate category applies to [all Preferred Rate] Within County Periodicals not mailed under section 423.[7]32, 423.[7]33, or 423.[7]34.

423.[72]32 Three-digit Rate Category.

The three-digit rate category applies to [Preferred Rate] Within County Periodicals [entered under sections 423.2, 423.3, 423.4, or 423.5] that are presorted to single or multiple three-digit ZIP Code destinations as specified by the Postal Service.

423.[73]33 Five-Digit Rate Category.

The five-digit rate category applies to [Preferred Rate] Within County Periodicals [entered under sections 423.2, 423.3, 423.4, or 423.5 that are] presorted to single or multiple five-digit ZIP Code destinations as specified by the Postal Service.

423.[74]34 Carrier Route Rate Category.

The carrier route rate category applies to [Preferred Rate] Within County Periodicals presorted to carrier routes as specified by the Postal Service.

423.[8]4 [Preferred Rate] Within County Discounts 423.[8]41 Barcoded Letter Discounts.

Barcoded letter discounts apply to letter size [Preferred Rate] Within County Periodicals mailed under sections 423.[7]31, 423.[7]32, and 423.[7]33 which bear a barcode representing not more than 11 digits (not including “correction” digits) as specified by the Postal Service, and which meet the machinability, addressing, and barcoding specifications and other preparation requirements specified by the Postal Service.

423.[8]42 Barcoded Flats Discounts.

Barcoded flats discounts apply to flat size [Preferred Rate] Within County Periodicals mailed under sections 423.[7]31, 423.[7]32, and 423.[7]33 which bear a barcode representing not more than 11 digits (not including “correction” digits) as specified by the Postal Service, and meet the flats machinability, addressing, and barcoding specifications and other preparation requirements specified by the Postal Service.

423.[8]43 High Density Discount.

The high density discount applies to [Preferred Rate] Within County Periodicals mailed under section 423.[7]34, presented in walk sequence order, and meeting the high density and preparation requirements specified by the Postal Service.[, except that mailers of] Alternatively, Within County mail may qualify for such discount also by presenting otherwise eligible mailings containing pieces addressed to a minimum of 25 percent of the addresses per carrier route.

423.[8]44 Saturation Discount.

The saturation discount applies to [Preferred Rate] Within County Periodicals mailed under section 423.[7]34, presented in walk sequence order, and meeting the saturation and preparation requirements specified by the Postal Service.

423.[8]45 Destination Entry Discount[s].

A [D]destination delivery unit [entry] discount[s] applies[y] to [Preferred Rate] Within County [Periodicals] carrier route category mail which [are]is destined for delivery within [the service area of the destination sectional center facility (SCF) or] the destination delivery unit (DDU) in which [they are] it is entered, as defined by the Postal Service. [the DDU discount only applies to Carrier Route rate category mail; the SCF discount is not available for mail entered under section 423.2.]

[423.256 Nonadvertising Discount.

The nonadvertising discount applies to Preferred Rate Periodicals entered under sections 423.3, 423.4, 423.5 and is determined by multiplying the proportion of nonadvertising content by the discount factor set forth in Rate Schedules 421. 423.3 or 423.4 and subtracting that amount from the applicable piece rate.]

430 PHYSICAL LIMITATIONS

Periodicals Mail may not weigh more than 70 pounds or exceed 108 inches in length and girth combined. Additional size limitations apply to individual Periodicals rate categories. [There are no maximum size or weight limits for Periodicals class mail.]

440 POSTAGE AND PREPARATION ]

441 Postage.

Postage must be paid on Periodicals class mail as set forth in section 3000. [When the postage computed for a particular issue using the Nonprofit or Classroom rate schedule is higher than the postage computed using the Regular rate schedule, that issue is eligible to use the Regular rate schedule. For purposes of this section, the term issue is subject to certain exceptions related to separate mailings of a particular issue, as specified by the Postal Service.]

442 Presortation.

Periodicals class mail must be presorted as specified by the Postal Service.

443 Attachments and Enclosures

443.1 General.

First-Class Mail or Standard Mail [from any of the subclasses listed in section 321 (Regular, Enhanced Carrier Route, Nonprofit or Nonprofit Enhanced Carrier Route)] may be attached to or enclosed with Periodicals class mail. The piece must be marked as specified by the Postal Service. Except as provided in section 443.2, additional postage must be paid for the attachment or enclosure as if it had been mailed separately. Otherwise, the entire combined piece is subject to the appropriate First-Class or [section 321] Standard Mail rate for which it qualifies (unless the rate applicable to the host piece is higher), or, if a combined piece with a [section 321] Standard Mail attachment or enclosure weighs 16 ounces or more, the piece is subject to the Parcel Post rate for which it qualifies.

443.1a “Ride-Along” Attachments and Enclosures.

A limit of one Standard Mail piece, not exceeding the weight of the host copy and weighing a maximum of 3.3 ounces, from any of the subclasses listed in section 321 (Regular, Enhanced Carrier Route, Nonprofit or Nonprofit Enhanced Carrier Route) may be attached to or enclosed with an individual copy of Periodicals Mail for an additional postage payment of ten cents. Periodicals containing “Ride-Along” attachments or enclosures must maintain uniform thickness as specified by the Postal Service. The Periodicals piece with the “Ride-Along” must maintain the same shape and automation compatibility as it had before addition of the “Ride-Along” attachment or enclosure and meet other preparation requirements as specified by the Postal Service.

This provision expires on February 26, 2002.

443.2 Incidental First-Class Mail Attachments and Enclosures.

First-Class Mail that meets one or more of the definitions in section 210 b through d may be attached to or enclosed with Periodicals class mail, with postage paid on the combined piece at the applicable Periodicals rate, if the attachment or enclosure is incidental to the piece to which it is attached or with which it is enclosed.

444 Identification

Periodicals class mail must be identified as required by the Postal Service. Nonsubscriber and nonrequester copies, including sample and complimentary copies, must be identified as required by the Postal Service.

445 Filing of Information

Information relating to Periodicals class mail must be filed with the Postal Service under 39 U.S.C. 3685.

446 Enclosures and Supplements

Periodicals class mail may contain enclosures and supplements as specified by the Postal Service. An enclosure or supplement may not contain writing, printing or sign thereof or therein, in addition to the original print, except as authorized by the Postal Service, or as authorized under section 443.2.

450 Deposit and Delivery

451 Deposit

Periodicals class mail must be deposited at places and times designated by the Postal Service.

452 Service

Periodicals class mail is given expeditious handling insofar as is practicable.

453 Forwarding and Return

Undeliverable-as-addressed Periodicals class mail will be forwarded or returned to the mailer, as specified by the Postal Service. Undeliverable-as-addressed combined First-Class and Periodicals class mail pieces will be forwarded or returned, as specified by the Postal Service. Additional charges when Periodicals class mail is returned will be based on the applicable First-Class Mail rate.

470 Rates and Fees

The rates and fees for Periodicals class mail are set forth as follows:

| Schedule
a. [Regular] Outside County | 421
b. Within County | 423[.2]
[c. Nonprofit | 423.3]
[d. Classroom | 423.4]
[e.] Science of Agriculture | 421
c.
[f.] Fees | 1000
d.

480 Authorizations and Licenses

481 Entry Authorizations

Prior to mailing at Periodicals rates, a publication must be authorized for entry as Periodicals class mail by the Postal Service. Each authorized publication will be granted one original entry authorization at the post office where the office of publication is maintained. An authorization for the establishment of an account to enter a publication at an additional entry office may be granted by the Postal Service upon application by the publisher. An application for re-entry must be made whenever the publisher proposes to change the publication's title, frequency of issue or office of original entry.

482 [Preferred Rate] Nonprofit, Classroom and Science of Agriculture Authorization

Prior to entering [mailing at] Nonprofit, Classroom, and Science of Agriculture Periodicals Mail, [rates,] a publication must obtain an additional Postal Service entry authorization to mail at those rates.

483 Mailing by Publishers and News Agents

Periodicals class mail may be mailed only by publishers or registered news agents. A news agent is a person or concern engaged in selling two or more Periodicals publications published by more than one publisher. News agents must register at all post offices at which they mail Periodicals class mail.

484 Fees

Fees for original entry, additional entry, re-entry, and registration of a news agent are set forth in Schedule 1000.

PACKAGE SERVICES CLASSIFICATION SCHEDULE

5[3]10 DEFINITION

5[3]11 General

Any mailable matter may be mailed as Package Services [Standard M] mail except:

a. Matter required to be mailed as First-Class Mail;

b. Copies of a publication that is entered as Periodicals class mail, except copies sent by a printer to a publisher, and except copies that would have traveled at the former second-class transient rate. (The transient rate applied to individual copies of second-class mail (currently Periodicals class mail) forwarded and mailed by the public, as well as to certain sample copies mailed by publishers.)

[312 Printed Matter

Printed matter, including printed letters which according to internal evidence are being sent in identical terms to several persons, but which do not have the character of actual or personal correspondence, may be mailed as Standard Mail. Printed matter does not lose its character as Standard Mail when the date and name of the addressee and of the sender are written thereon. For the purposes of the Standard Mail Classification Schedule, “printed” does not include reproduction by handwriting or typewriting.]

512[313] Written Additions

Package Services [Standard M]mail may have the following written additions placed on the wrapper, on a tag or label attached to the outside of the parcel, or inside the parcel, either loose or attached to the article:

a. Marks, numbers, name, or letters descriptive of contents;

b. “Please Do Not Open Until Christmas,” or words of similar import;

c. Instructions and directions for the use of an article in the package;

d. Manuscript dedication or inscription not in the nature of personal correspondence;

e. Marks to call attention to any word or passage in text;

f. Corrections of typographical errors in printed matter;

g. Manuscripts accompanying related proof sheets, and corrections in proof sheets to include: corrections of typographical and other errors, alterations of text, insertion of new text, marginal instructions to the printer, and rewrites of parts if necessary for correction;

h. Handstamped imprints, except when the added matter is itself personal or converts the original matter to a personal communication;

i. An invoice.

5[3]20 DESCRIPTION OF SUBCLASSES

[322 Subclasses Limited to Mail Weighing 16 Ounces or More]

521[322.1] Parcel Post Subclass

521.[322.1]1 Definition.

The Parcel Post subclass consists of Package Services [Standard M]mail [weighing 16 ounces or more] that is not mailed under sections [322.3, 323.1, or 323.2] 522, 523, or 524.

521.[322.1]2 Description of Rate Categories.

521.[322.1]21 Inter-BMC Rate Category.

The inter-BMC rate category applies to all Parcel Post subclass mail not mailed under sections 521.22, 521.23, 521.24, or 521.25 [322.122, 322.123, 322.124, or 322.125].

521.[322.1]22 Intra-BMC Rate Category.

The intra-BMC rate category applies to Parcel Post subclass mail originating and destinating within a designated BMC or auxiliary service facility service area, Alaska, Hawaii or Puerto Rico.

521.[322.1]23 Parcel Select—Destination Bulk Mail Center (DBMC) Rate Category.

The Parcel Select—DBMC [destination bulk mail center] rate category applies to Parcel Post subclass mail prepared as specified by the Postal Service in a mailing of at least 50 pieces entered at a designated destination BMC, auxiliary service facility, or other equivalent facility, as specified by the Postal Service.

521.[322.1]24 Parcel Select—Destination Sectional Center Facility (DSCF) Rate Category.

The Parcel Select—DSCF [destination sectional center facility] rate category applies to Parcel Post subclass mail prepared as specified by the Postal Service in a mailing of at least 50 pieces sorted to five-digit destination ZIP Codes as specified by the Postal Service and entered at a designated destination processing and distribution center or facility, or other equivalent facility, as specified by the Postal Service.

521.[322.1]25 Parcel Select—Destination Delivery Unit (DDU) Rate Category.

The Parcel Select—DDU [destination delivery unit] rate category applies to Parcel Post subclass mail prepared as specified by the Postal Service in a mailing of at least 50 pieces, and entered at a designated destination delivery unit, or other equivalent facility, as specified by the Postal Service.

521.[322.1]3 Bulk Parcel Post.

Bulk Parcel Post mail is Parcel Post mail consisting of properly prepared and separated single mailings of at least 300 pieces or 2000 pounds. Pieces weighing less than 15 pounds and measuring over 84 inches in length and girth combined or pieces measuring over 108 inches in length and girth combined are not mailable as Bulk Parcel Post mail.

521.[322.1]31 Barcode[d] Discount.

The barcode[d] discount applies to Bulk Parcel Post mail that is entered at designated facilities, bears a barcode specified by the Postal Service, is prepared as specified by the Postal Service, and meets all other preparation and machinability requirements of the Postal Service.

521.[322.1]4 Bulk Mail Center (BMC) Presort Discounts.

521.[322.1]41 BMC Presort Discount.

The BMC presort discount applies to Inter-BMC Parcel Post subclass mail that is prepared as specified by the Postal Service in a mailing of 50 or more pieces, entered at a facility authorized by the Postal Service, and sorted to destination BMCs, as specified by the Postal Service.

521.[322.1]42 Origin Bulk Mail Center (OBMC) Discount.

The origin bulk mail center discount applies to Inter-BMC Parcel Post subclass mail that is prepared as specified by the Postal Service in a mailing of at least 50 pieces, entered at the origin BMC, and sorted to destination BMCs, as specified by the Postal Service.

521.[322.1]5 Barcode[d] Discount.

The barcode[d] discount applies to Inter-BMC, Intra-BMC, and Parcel Select-DBMC Parcel Post subclass mail that is entered at designated facilities, bears a barcode specified by the Postal Service, is prepared as specified by the Postal Service in a mailing of at least 50 pieces, and meets all other preparation and machinability requirements of the Postal Service.

521.[322.1]6 Oversize Parcel Post.

521.[322.1]61 Excessive Length and Girth.

Parcel Post subclass mail pieces exceeding 108 inches in length and girth combined, but not greater than 130 inches in length and girth combined, are mailable.

521.[322.1]62 Balloon Rate.

Parcel Post subclass mail pieces exceeding 84 inches in length and girth combined and weighing less than 15 pounds are subject to a rate equal to that for a 15 pound parcel for the zone to which the parcel is addressed.

521.[322.1]7 Nonmachinable Surcharge.

Inter-BMC, Intra-BMC, and Parcel Select—DBMC Parcel Post [subclass] mail that does not meet machinability criteria specified by the Postal Service is subject to a nonmachinable surcharge.

521.[322.1]8 Pickup Service.

Pickup service is available for Parcel Post subclass mail under terms and conditions specified by the Postal Service.

522[322.3] Bound Printed Matter Subclass

522.[322.3]1 Definition.

The Bound Printed Matter subclass consists of Package Services [Standard M]mail weighing [at least 16 ounces, but] not more than 15 pounds, which:

a. Consists of advertising, promotional, directory, or editorial material, or any combination thereof;

b. Is securely bound by permanent fastenings including, but not limited to, staples, spiral bindings, glue, and stitching; loose leaf binders and similar fastenings are not considered permanent;

c. Consists of sheets of which at least 90 percent are imprinted with letters, characters, figures or images or any combination of these, by any process other than handwriting or typewriting;

d. Does not have the nature of personal correspondence;

e. Is not stationery, such as pads of blank printed forms.

522.2 Description of Rate Categories.

522.[322.3]21 Single-Piece Rate Category.

The single-piece rate category applies to Bound Printed Matter subclass mail which is not mailed under section 522.3 [322.33] or 522.4 [322.34].

522.[322.33]22 Basic Presort [Bulk] Rate Category.

The [bulk] basic presort rate category applies to Bound Printed Matter subclass mail prepared in a mailing of at least 300 pieces, prepared and presorted as specified by the Postal Service.

522.[322.34]23 Carrier Route Presort Rate Category.

The carrier route presort rate category applies to Bound Printed Matter subclass mail prepared in a mailing of at least 300 pieces of carrier route presorted mail, prepared and presorted as specified by the Postal Service.

522.24 Destination Bulk Mail Center (DBMC) Rate Category.

The destination bulk mail center rate category applies to Basic Presort Rate or Carrier Route Presort Rate Bound Printed Matter subclass mail prepared as specified by the Postal Service in a mailing entered at a designated destination BMC, auxiliary service facility, or other equivalent facility, as specified by the Postal Service.

522.25 Destination Sectional Center Facility (DSCF) Rate Category.

The destination sectional center facility rate category applies to Basic Presort Rate or Carrier Route Presort Rate Bound Printed Matter subclass mail prepared as specified by the Postal Service in a mailing sorted to five-digit destination ZIP Codes as specified by the Postal Service and entered at a designated destination processing and distribution center or facility, or other equivalent facility, as specified by the Postal Service.

522.26 Destination Delivery Unit (DDU) Rate Category.

The destination delivery unit rate category applies to Basic Presort Rate or Carrier Route Presort Rate Bound Printed Matter subclass mail prepared as specified by the Postal Service in a mailing entered at a designated destination delivery unit, or other equivalent facility, as specified by the Postal Service.

522.[322.35]3 Barcode[d] Discount.

The barcoded discount applies to single-piece rate and [bulk] Basic Presort [r]Rate Bound Printed Matter subclass mail that is entered at designated facilities, bears a barcode specified by the Postal Service, is prepared as specified by the Postal Service in a mailing of at least 50 pieces, and meets all other preparation and machinability requirements of the Postal Service.

[323 Subclasses With No 16-Ounce Limitation]

523[323.1] Media Mail [Special] Subclass

5[3]23.11 Definition.

The Media Mail [Special] subclass consists of Package Services mail [Standard Mail] of the following types:

a. Books, including books issued to supplement other books, of at least eight printed pages, consisting wholly of reading matter or scholarly bibliography or reading matter with incidental blank spaces for notations, and containing no advertising matter other than incidental announcements of books. Not more than three of the announcements may contain as part of their format a single order form, which may also serve as a postcard. These order forms are in addition to and not in lieu of order forms which may be enclosed by virtue of any other provision;

b. 16 millimeter or narrower width films which must be positive prints in final form for viewing, and catalogs of such films, of 24 pages or more, at least 22 of which are printed, except when sent to or from commercial theaters;

c. Printed music, whether in bound form or in sheet form;

d. Printed objective test materials and accessories thereto used by or in behalf of educational institutions in the testing of ability, aptitude, achievement, interests and other mental and personal qualities with or without answers, test scores or identifying information recorded thereon in writing or by mark;

e. Sound recordings, including incidental announcements of recordings and guides or scripts prepared solely for use with such recordings. Not more than three of the announcements may contain as part of their format a single order form, which may also serve as a postcard. These order forms are in addition to and not in lieu of order forms which may be enclosed by virtue of any other provision;

f. Playscripts and manuscripts for books, periodicals and music;

g. Printed educational reference charts, permanently processed for preservation;

h. Printed educational reference charts, including but not limited to

i. Mathematical tables,

ii. Botanical tables,

iii. Zoological tables, and

iv. Maps produced primarily for educational reference purposes;

i. Looseleaf pages and binders therefor, consisting of medical information for distribution to doctors, hospitals, medical schools, and medical students; and

b. Computer-readable media containing prerecorded information and guides or scripts prepared solely for use with such media.

523.2 Description of Rate Catagories

5[3]23.[1]21 Single-Piece Rate Category.

The single-piece rate category applies to Media Mail [Special subclass mail] not mailed under section 523.22 or 523.23 [323.13 or 323.14.] prepared as specified by the Postal Service.

5[3]23.[13]22 Level A Presort Rate Category.

The Level A presort rate category applies to mailings of at least 500 pieces of Media Mail, [Special subclass mail,] prepared and presorted to five-digit destination ZIP Codes as specified by the Postal Service.

5[3]23.[14]23 Level B Presort Rate Category.

The Level B presort rate category applies to mailing of at least 500 pieces of Media Mail, [Special subclass mail,] prepared and presorted to destination Bulk Mail Centers as specified by the Postal Service.

5[3]23.[15]3 Barcode[d] Discount.

The barcode[d] discount applies to single-piece rate and Level B presort rate Media Mail [Special subclass mail,] that is entered at designated facilities, bears a barcode specified by the Postal Service, is prepared as specified by the Postal Service in a mailing of at least 50 pieces, and meets all other preparation and machinability requirements of the Postal Service.

524[323.2] Library Mail Subclass

524.[323.2]1 Definition

524[323.2]11 General.

The Library Mail subclass consists of Package Services [Standard M]mail of the following types[, separated or presorted as specified by the Postal Service]:

a. Matter designated in section 524.13 [323.213], loaned or exchanged (including cooperative processing by libraries) between:

i. Schools or colleges, or universities;

ii. Public libraries, museums and herbaria, nonprofit religious, educational, scientific, philanthropic, agricultural, labor, veterans' or fraternal organizations or associations, or between such organizations and their members, readers or borrowers.

b. Matter designated in section 524.[323.2]14, mailed to or from schools, colleges, universities, public libraries, museums and herbaria and to or from nonprofit religious, educational, scientific, philanthropic, agricultural, labor, veterans' or fraternal organizations or associations; or

c. Matter designated in section 524.[323.2]15, mailed from a publisher or a distributor to a school, college, university or public library.

524.[323.2]12 Definition of Nonprofit Organizations and Associations.

Nonprofit organizations or associations are defined in section 1009.

524.[323.2]13 Library subclass mail under section 524.[323.2]11.a.

Matter eligible for mailing as Library Mail [subclass mail] under subsection a of section [323.2]524.11 consists of:

a. Books consisting wholly of reading matter or scholarly bibliography or reading matter with incidental blank spaces for notations and containing no advertising other than incidental announcements of books;

b. Printed music, whether in bound form or in sheet form;

c. Bound volumes of academic theses in typewritten or other duplicated form;

d. Periodicals, whether bound or unbound;

e. Sound recordings;

f. Other library materials in printed, duplicated or photographic form or in the form of unpublished manuscripts; and

g. Museum materials, specimens, collections, teaching aids, printed matter and interpretative materials intended to inform and to further the educational work and interest of museums and herbaria.

524.[323.2]14 Library Mail [subclass mail] under section 524.[323.2]11.b.

Matter eligible for mailing as Library [subclass m] Mail under subsection b of section 524.[323.2]11 consists of:

a. 16-millimeter or narrower width films; filmstrips; transparencies; slides; microfilms; all of which must be positive prints in final form for viewing;

b. Sound recordings;

c. Museum materials, specimens, collections, teaching aids, printed matter, and interpretative materials intended to inform and to further the educational work and interests of museums and herbaria;

d. Scientific or mathematical kits, instruments or other devices;

e. Catalogs of the materials in subsections a through d of section 524.[323.2]14 and guides or scripts prepared solely for use with such materials.

524.[323.2]15 Library [subclass m]Mail under section 524.[323.2]11.c.

Matter eligible for mailing as Library subclass mail under subsection c of section 524.[323.2]11 consists of books, including books to supplement other books, consisting wholly of reading matter or scholarly bibliography or reading matter with incidental blank spaces for notations, and containing no advertising matter other than incidental announcements of books.

524.2 Description of Rate Categories

524.[323.2]21 Single-Piece Rate Category.

The single-piece rate category applies to Library [subclass m]Mail not mailed under section [323.23 or 323.24]524.22 or 524.23 prepared as specified by the Postal Service.

524.[323.23]22 Level A Presort Rate Category.

The Level A presort rate category applies to mailings of at least 500 pieces of Library [subclass m]Mail, prepared and presorted to five-digit destination ZIP Codes as specified by the Postal Service.

524.[323.24]23 Level B Presort Rate Category.

The Level B presort rate category applies to mailings of at least 500 pieces of Library [subclass m]Mail, prepared and presorted to destination Bulk Mail Centers as specified by the Postal Service.

524.[323.25]3 Barcode[d] Discount.

The barcode[d] discount applies to Single-Piece Rate and Level B Presort Rate Library [subclass m]Mail that is entered at designated facilities, bears a barcode specified by the Postal Service, is prepared as specified by the Postal Service in a mailing of at least 50 pieces, and meets all other preparation and machinability requirements of the Postal Service.

5[3]30 PHYSICAL LIMITATIONS

5[3]31 Size

Except as provided in section 521.[322.1]61, Package Services [Standard M]mail may not exceed 108 inches in length and girth combined. Additional size limitations apply to individual Package Services [Standard M]mail subclasses. [The maximum size for mail presorted to carrier route in the Enhanced Carrier Route and Nonprofit Enhanced Carrier Route subclasses is 14 inches in length, 11.75 inches in width, and 0.75 inch in thickness. For merchandise samples mailed with detached address cards, the carrier route maximum dimensions apply to the detached address cards and not to the samples.]

5[3]32 Weight

Package Services [Standard M]mail may not weigh more than 70 pounds. Additional weight limitations apply to individual Package Services [Standard M]mail subclasses.

5[3]40 POSTAGE AND PREPARATION

5[3]41 Postage

Postage must be paid as set forth in section 3000. [When the postage computed at a Regular, Enhanced Carrier Route, Nonprofit or Nonprofit Enhanced Carrier Route Standard rate is higher than the rate prescribed in any of the Standard subclasses listed in 322 or 323 for which the piece also qualifies (or would qualify, except for weight), the piece is eligible for the applicable lower rate.] All mail mailed at a bulk or presort rate must have postage paid in a manner not requiring cancellation.

5[3]42 Preparation

All pieces in a Package Services [Standard] mailing must be separately addressed. All pieces in a Package Services [Standard] mailing must be identified as specified by the Postal Service, and must contain the ZIP Code of the addressee when specified by the Postal Service. All Package Services [Standard] mailings must be prepared and presented as specified by the Postal Service. Two or more Package Services [Standard] mailings may be commingled and mailed only when specific methods approved by the Postal Service for determining and verifying postage are followed.

5[3]43 Non-Identical Pieces

Pieces not identical in size and weight may be mailed at a bulk or presort rate as part of the same mailing only when specific methods approved by the Postal Service for determining and verifying postage are followed.

5[3]44 Attachments and Enclosures

[344.2 Parcel Post, Bound Printed Matter, Special, and Library Subclasses]

544.1[344.21] General.

First-Class Mail or Standard Mail [from any of the subclasses listed in section 321 (Regular, Enhanced Carrier Route, Nonprofit or Nonprofit Enhanced Carrier Route)] may be attached to or enclosed in Package Services [Standard M]mail [mailed under sections 322 and 323]. The piece must be marked as specified by the Postal Service. Except as provided in sections 544.2 and 544.3, [344.22 and 344.23,] additional postage must be paid for the attachment or enclosure as if it had been mailed separately. Otherwise, the entire combined piece is subject to the First-Class or [section 321] Standard Mail rate for which it qualifies [(]unless the rate applicable to the host piece is higher.[), or, if a combined piece with a section 321 Standard Mail attachment or enclosure weighs 16 ounces or more, the piece is subject to the Parcel Post rate for which it qualifies.]

5[3]44.2[2] Specifically Authorized Attachments and Enclosures.

Package Services [Standard M]mail [mailed under sections 322 and 323] may contain enclosures and attachments as specified by the Postal Service and as described in subsections a and e of section 523.1[323.11], with postage paid on the combined piece at the Package Services [Standard] rate applicable to the host piece.

5[3]44.[2]3 Incidental First-Class Attachments and Enclosures.

First-Class Mail that meets one or more of the definitions in subsections b through d of section 210, may be attached to or enclosed with Package Services [Standard M]mail [mailed under section 322 or 323], with postage paid on the combined piece at the Package Services [Standard] rate applicable to the host piece, if the attachment or enclosure is incidental to the piece to which it is attached or with which it is enclosed.

5[3]50 DEPOSIT AND DELIVERY

5[3]51 Deposit

Package Services [Standard M]mail must be deposited at places and times designated by the Postal Service.

5[3]52 Service

Package Services [Standard M]mail may receive deferred service.

5[3]53 Forwarding and Return

[353.2 Parcel Post, Bound Printed Matter, Special, and Library Subclasses]

Undeliverable-as-addressed Package Services [Standard M]mail [mailed under sections 322 and 323] will be forwarded on request of the addressee, returned on request of the mailer, or forwarded and returned on request of the mailer. Pieces which combine Package Services [Standard M]mail [from one of the subclasses described in 322 and 323] with First-Class Mail or Standard Mail [from one of the subclasses described in 321] will be forwarded if undeliverable-as-addressed, and returned if undeliverable, as specified by the Postal Service. When Package Services [Standard M]mail [mailed under sections 322 and 323] is forwarded or returned from one post office to another, additional charges will be based on the applicable single-piece Package Services [Standard M]mail rate [under 322 or 323].

5[3]60 ANCILLARY SERVICES

[361 All Subclasses]

Package Services [All Standard M]mail will receive the following services upon payment of the appropriate fees:

Service | Schedule
a. Address correction | 911
[b. Certificates of mailing indicating that a specified number of pieces have been mailed] | [947]

[Certificates of mailing are not available for Regular, Enhanced Carrier Route, Nonprofit and Nonprofit Enhanced Carrier Route subclass mail when postage is paid with permit imprint.]

[362 Parcel Post, Bound Printed Matter, Special, and Library Subclasses]

[Parcel Post, Bound Printed Matter, Special, and Library subclass mail will receive the following additional services upon payment of the appropriate fees:]

[Service | Schedule]
[a.]b. Certificates of mailing | 947
[b.]c. COD | 944
[c.]d. Insurance | 943
[d.]e. Special handling | 952
[e.]f. Return receipt (merchandise only) | 945
[f.]g. Merchandise return | 932
[g.]h. Delivery Confirmation | 948
i. Shipper Paid Forwarding | 936
j. Signature Confirmation | 949
k. Parcel Airlift | 951

Insurance, special handling, and COD services may not be used selectively for individual pieces in a multi-piece Package Services [Standard Mail] mailing unless specific methods approved by the Postal Service for determining and verifying postage are followed.

5[3]70 RATES AND FEES

The rates and fees for Package Services [Standard M]mail are set forth as follows:

| Schedule
[a. Regular subclass | 321.2]
[b. Enhanced Carrier Route subclass | 321.3]
[c. Nonprofit subclass | 321.4]
[d. Nonprofit Enhanced Carrier Route subclass | 321.5]
a.[e. Parcel Post subclass
Inter-BMC | [322.1] 522.2A
Intra-BMC | [322.1] 522.2B
Parcel Select
Destination BMC | [322.1] 522.2C
Destination SCF | [322.1] 522.2D
Destination Delivery Unit | [322.1] 522.2E
b.[f.] Bound Printed Matter subclass
Single-Piece | [322.3] 522A
[Bulk] Basic Presort and Carrier Route | [322.3] 522B
Destination Entry Basic Presort | 522C
Destination Entry Carrier Route Presort | 522D
c.[g.] Media Mail [Special] subclass | 323.1
d.[h.] Library Mail subclass | 323.2
e.[i.] Fees | 1000

5[3]80 AUTHORIZATIONS AND LICENSES

[382] Special and Library Subclasses]

[A presort mailing fee as set forth in Schedule 1000 must be paid once each year at each office of mailing by or for any person who mails presorted Special or Library subclass mail. Any person who engages a business concern or other individuals to mail presorted Special or Library subclass mail must pay the fee.]

581[383] Parcel Post Subclass

[A] The mailing fee [as] set forth in Schedule 1000 must be paid once each 12-month period [year] at each office of mailing or office of verification, as specified by the Postal Service, by or for mailers of any Parcel Select [Destination BMC, Destination SCF or Destination Delivery Unit] rate category mail in the Parcel Post subclass. Payment of the fee allows the mailer to mail at any Parcel Select rate.

582 Bound Printed Matter Subclass

The mailing fee set forth in Schedule 1000 must be paid once each 12-month period at each office of mailing or office of verification, as specified by the Postal Service, by or for mailers of Destination BMC, Destination SCF or Destination Delivery Unit rate category mail in the Bound Printed Matter subclass. Payment of the fee allows the mailer to mail at any destination entry Bound Printed Matter rate.

583 Media Mail Subclass

The mailing fee set forth in Schedule 1000 must be paid once each 12-month period at each office of mailing or office of verification, as specified by the Postal Service, by or for mailers of presorted Media Mail. Payment of the fee allows the mailer to mail at any presorted Media Mail rate.

584 Library Mail Subclass

The mailing fee set forth in Schedule 1000 must be paid once each 12-month period at each office of mailing or office of verification, as specified by the Postal Service, by or for mailers of presorted Library Mail. Payment of the fee allows the mailer to mail at any presorted Library Mail rate.

SPECIAL SERVICES CLASSIFICATION SCHEDULE

910 Addressing

911 ADDRESS CORRECTION SERVICE

911.1 Definition

911.11 Address [c]Correction [s]Service [is a service which provides the mailer with a method of obtaining the correct address, if available to the Postal Service, of the addressee or the reason for nondelivery.] provides a mailer both an addressee's former and current address, if the correct address is known to the Postal Service. If the correct address is not known to the Postal Service, Address Correction Service provides the reason why the Postal Service could not deliver the mailpiece as addressed.

911.2 [Description of Service] Availability

911.21 Address [c]Correction service is available to mailers of postage prepaid mail of all classes[. Periodicals class mail will receive address correction service.], except for mail addressed for delivery by military personnel at any military installation. Address Correction Service is mandatory for Periodicals class mail.

[911.22 Address correction service is not available for items addressed for delivery by military personnel at any military installation.]

911.22 Automated Address Correction Service is available to mailers who can receive computerized address corrections and meet the requirements specified by the Postal Service.

[911.23 Address correction provides the following service to the mailer:

a. If the correct address is known to the Postal Service, the mailer is notified of both the old and the correct address.

b. If the item mailed cannot be delivered, the mailer will be notified of the reason for nondelivery.]

911.3 Mailer Requirements[ of the Mailer]

911.31 Mail, other than Periodicals class mail, sent under this section must bear a request for [a]Address [c]Correction service.

911.4 Other Services

911.41 Address Correction Service serves as a prerequisite for Shipper Paid Forwarding.

911.[4]5 Fees

911.[41]51 [There is no charge for address correction service] The fees for Address Correction Service are set forth in Fee Schedule 911. These fees do not apply when the correction is provided incidental to the return of the mailpiece to the sender.

[911.42 A fee, as set forth in Fee Schedule 911, is charged for all other forms of address correction service.]

912 MAILING LIST SERVICES

912.1 Definition

912.11 Mailing [l]List services [include] enable an eligible mailer to obtain the following services:

a. Correction of [m]Mailing [l]Lists;

b. Change-of-[a]Address [i]Information for [e]Election [b]Boards and [r]Registration [c]Commissions;

c. ZIP [c]Coding of [m]Mailing [l]Lists; and

d. [Arrangement] Sequencing of [a]Address [c]Cards [in the sequence of delivery].

[912.12 Correction of mailing list service provides current information concerning name and address mailing lists or correct information concerning occupant mailing lists.]

[912.13 ZIP coding of mailing lists service is a service identifying ZIP Code addresses in areas served by multi-ZIP coded postal facilities.]

912.2 Description of Services

[912.21 Correction of mailing list service is available only to the following owners of name and address or occupant mailing lists:

a. Members of Congress

b. Federal agencies

c. State government departments

d. Municipalities

e. Religious organizations

f. Fraternal organizations

g. Recognized charitable organizations

h. Concerns or persons who solicit business by mail]

a. Correction of Mailing Lists. This service provides current information concerning name and address mailing lists or correct information concerning occupant mailing lists. New names will not be added to a name and address mailing list, and street address numbers will not be added or changed for an occupant mailing list.

[912.22 The following corrections will be made to name and address lists:]

(1) The Postal Service provides the following corrections to name and address lists:

[a.]i. deletion of [N]names to which mail cannot be delivered or forwarded [will be deleted];

[b.]ii. correction of [I]incorrect house, rural, or post office box numbers [will be corrected;] and

[c.]iii. furnishing of new addresses, including Zip Codes, [W]when permanent forwarding orders are on file for customers who have moved.[, new addresses including ZIP Codes will be furnished;]

This service does not include the addition of new names.

[d. New names will not be added to the list.]

[912.23 The following corrections will be made to occupant lists:]

(2) The Postal Service provides the following corrections to occupant lists:

[a.]i. deletion of [N]numbers representing incorrect or non-existent street addresses[ will be deleted];

[b.]ii. identification of [B]business [or] addresses and rural route addresses [will be distinguished if], to the extent known; and

[c.]iii. grouping of [C]corrected cards or sheets [will be grouped ]by route[;].

[d. Street address numbers will not be added or changed.]

[912.24 Corrected lists will be returned to customers at no additional charge.]

[912.25 Residential change-of-address information is available only to election boards or registration commissions for obtaining, if known to the Postal Service, the current address of an addressee.]

b. Change-of-Address Information for Election Boards and Registration Commissions. This service provides election boards and voter registration commissions with the current address of a resident addressee, if known to the Postal Service.

[912.26 ZIP coding or mailing list service provides that addresses will be sorted to the finest possible ZIP Code sortation.]

c. ZIP Coding of Mailing Lists. This service provides sortation of addresses to the finest possible ZIP Code level.

[912.27 Gummed labels, wrappers, envelopes, Stamped Cards, or postcards indicative of one-time use will not be accepted as mailing lists.]

[912.28 Sequencing of address cards service provides for the removal of incorrect addresses, notation of missing addresses and addition of missing addresses.]

c. Sequencing of Address Cards. This service provides for the removal of incorrect addresses, notation of missing addresses and addition of missing addresses.

912.3 Requirements of Customer

912.31 Correction of Mailing List service is available only to the following owners of name and address or occupant mailing lists:

a. Members of Congress

b. Federal agencies

c. State government departments

d. Municipalities

e. Religious organizations

f. Fraternal organizations

g. Recognized charitable organizations

h. Concerns or persons who solicit business by mail

912.[31]32 A customer desiring correction of a mailing list or arrangement of address cards in sequence of carrier delivery must submit the list or cards as specified by the Postal Service.

912.33 Gummed labels, wrappers, envelopes, Stamped Cards, or postcards indicative of one-time use will not be accepted as mailing lists.

912.4 Fees

912.41 The fees for [m]Mailing [l]List services are set forth in Fee Schedule 912.

920 DELIVERY ALTERNATIVES

921 POST OFFICE BOX AND CALLER SERVICE

[Editorial Note: The order of appearance of old section 921.1 Caller Service and old section 921.2 Post Office Box Service have been reversed.]

921.[2]1 Post Office Box Service

921.[21]11 Definition

921.[211]111 Post [o]Office [b]Box service [is a service which ]provides the customer with a private, locked receptacle for the receipt of mail during the hours [when the lobby of a postal facility is open.]specified by the Postal Service.

921.[22]12 [Description of Service]Limitations

921.[221]121 The Postal Service may limit the number of post office boxes occupied by any one customer.

[921.222 A post office boxholder may ask the Postal Service to deliver to the post office box all mail properly addressed to the holder. If the post office box is located at the post office indicated on the piece, it will be transferred without additional charge, under existing regulations.]

921.[223]122 Post [o]Office [b]Box service [cannot be used when the sole purpose is, by subsequently filing change-of-address orders, to have mail forwarded or transferred to another address by the Postal Service free of charge.]is not available to a customer whose sole purpose for using this service is to obtain free forwarding or transfer of mail by filing change-of-address orders.

921.[23]13 Fees

921.[231]131 Fees for [p]Post [o]Office [b]Box service are set forth in Fee Schedule 921.

921.[232]132 In postal facilities primarily serving academic institutions or the students of such institutions, fees for post office boxes are:

Period of box use | Fee
95 days or less | ½ semiannual fee.
96 to 140 days | ¾ semiannual fee.
141 to 190 days | Full semiannual fee.
191 to 230 days | 1¼ semiannual fee.
231 to 270 days | 1½ semiannual fee.
271 days to full year | [Full ]Twice semiannual fee.

921.[233]133 No refunds will be made for post office box fees paid under section 921.[232]132. [ For purposes of this section, the full annual fee is twice the amount of the semi-annual fee.]

921.134 Two box keys are available upon payment of a refundable deposit, as specified by the Postal Service. Additional keys, including replacement keys, will be provided, as specified by the Postal Service, only upon payment of the key fee set forth in Fee Schedule 921. Changing the lock on a box is available upon request of the primary box customer and payment of the lock replacement fee set forth in Fee Schedule 921.

921.[1]2 Caller Service

921.[11]21 Definition

921.[111]211 Caller service [is a service which permits a customer to obtain mail addressed to the customer's box number through a call window or loading dock.]provides a means for receiving mail, and enables an eligible customer to have properly addressed mail delivered through a call window or loading dock.

921.[12]22 Availability[Description of Service]

[921.121 Caller service uses post office box numbers as the address medium but does not actually use a post office box.]

[921.122 Caller service is not available at certain postal facilities.]

921.[123]221 Caller service is provided to customers at the discretion of the Postal Service, based on [the basis of ]mail volume received and [number]capacity and utilization of post office boxes [used ]at any one facility.

[921.124 A customer may reserve a caller number.]

921.[125]222 Caller service [cannot be used when the sole purpose is, by subsequently filing change-of-address orders, to have mail forwarded or transferred to another address by the Postal Service free of charge.]is not available to a customer whose sole purpose for using this service is to obtain free forwarding or transfer of mail by filing change-of-address orders.

921.[13]23 Fees

921.[131]231 Fees for [c]Caller service are set forth in Fee Schedule 921.

930 PAYMENT ALTERNATIVES

931 BUSINESS REPLY MAIL

931.1 Definitions

931.11 Business [r]Reply [m]Mail [is a service whereby business reply cards, envelopes, cartons and labels may be distributed by or for a business reply distributor for use ]service enables a Business Reply Mail permit holder, or the permit holder's authorized representative, to distribute Business Reply Mail cards, envelopes, cartons and labels, which can then be used by mailers for sending First-Class Mail without prepayment of postage to an address chosen by the distributor. [A distributor is the holder of a business reply license.]The permit holder guarantees payment on delivery of postage and fees for the Business Reply Mail pieces that are returned to the addressee, including any pieces that the addressee refuses.

[931.12 A business reply mail piece is nonletter-size for purposes of this section if it meets addressing and other preparation requirements, but does not meet the machinability requirements specified by the Postal Service for mechanized or automated letter sortation.]

[931.2 Description of Service]

[The distributor guarantees payment on delivery of postage and fees for all returned business reply mail. Any distributor of business reply cards, envelopes, cartons and labels under any one license for return to several addresses guarantees to pay postage and fees on any returns refused by any such addressee.]

931.[3]2 Mailer Requirements[ of the Mailer]

931.[31]21 Business reply cards, envelopes, cartons and labels must [be preaddressed and bear business reply markings.]meet the addressing and preparation requirements specified by the Postal Service. Qualified Business Reply Mail must in addition meet the requirements presented in sections 221.24 or 222.34 for the First-Class Mail Qualified Business Reply Mail rate categories.

931.[32]22 [Handwriting, typewriting or handstamping are not acceptable methods of preaddressing or marking business reply cards, envelopes, cartons, or labels.]To qualify for the advance deposit account per piece fees, the customer must maintain sufficient money in an advance deposit account to cover postage and fees due for returned Business Reply Mail.

931.23 To qualify for the nonletter-size weight-averaging per piece and monthly fees set forth in Fee Schedule 931, the permit holder must be authorized for weight averaging, and receive Business Reply Mail pieces that meet the addressing and other preparation requirements specified by the Postal Service, but do not meet the machinability requirements specified by the Postal Service for mechanized or automation letter sortation.

931.3 Other Services

931.31 Reserved

931.4 Fees

931.41 The fees for [b]Business [r]Reply [m]Mail are set forth in Fee Schedule 931.

[931.42 To qualify as an active business reply mail advance deposit trust account, the account must be used solely for business reply mail and contain sufficient postage and fees due for returned business reply mail.]

931.[43]42 [An accounting fee as set forth in Fee Schedule 931 must be paid each year for each advance deposit business reply account at each facility where the mail is to be returned.]The annual accounting fee set forth in Fee Schedule 1000 must be paid each year for each business reply advance deposit account at each facility where the mail is to be received.

[931.5 Nonletter-Size Weight Averaging Fees]

931.43 [A]The nonletter-size weight averaging monthly fee [as ]set forth in Fee Schedule 931 must be paid each month during any part of which [the distributor's weight averaging account is active.]the permit holder is authorized to use the weight averaging fees.

931.[6]5 Authorizations and Licenses

931.[61]51 In order to distribute business reply cards, envelopes, cartons or labels, the distributor must obtain a license or licenses from the Postal Service and pay the appropriate fee as set forth in Fee Schedule [931]1000.

931.[62]52 Except as provided in section 931.[73]53, the license to distribute business reply cards, envelopes, cartons, or labels must be obtained at each office from which the mail is offered for delivery.

931.[63]53 If the [b]Business [r]Reply [m]Mail is to be distributed from a central office to be returned to branches or dealers in other cities, one license obtained from the post office where the central office is located may be used to cover all [b]Business [r]Reply [m]Mail.

931.[64]54 The license to mail [b]Business [r]Reply [m]Mail may be canceled for failure to pay business reply postage and fees when due, and for distributing business reply cards or envelopes that do not conform to prescribed form, style or size.

931.[65]55 Authorization to pay nonletter-size weight-averaging [b]Business [r]Reply [m]Mail fees as set forth in Fee Schedule 931 may be canceled for failure of a [b]Business [r]Reply [m]Mail advance deposit trust account holder to meet the standards specified by the Postal Service for the weight averaging accounting method.

932 MERCHANDISE RETURN SERVICE

932.1 Definition

932.11 Merchandise [r]Return service [provides a method whereby a shipper may]enables a Merchandise Return service permit holder to authorize its customers to return a parcel with the postage paid by the permit holder.[shipper. A shipper is the holder of a merchandise return permit.]

932.2 [Description of Service]Availability

932.21 Merchandise [r]Return service is available to all [shippers who obtain the necessary permit and]Merchandise Return service permit holders who guarantee payment of postage and fees for all returned parcels.

932.22 Merchandise [r]Return service is available for the return of any parcel under the following classification schedules:

a. First-Class Mail

b. Standard Mail

c. Package Services

932.3 Mailer Requirements[ of the Mailer]

932.31 Merchandise Returnandise return labels must be prepared [at the shipper's expense to specifications set forth] as specified by the Postal Service, and be made available to the permit holder's customers.

[932.32 The shipper must furnish its customer with an appropriate merchandise return label.]

932.4 Other Services

932.41 The following services may be purchased in conjunction with Merchandise Return Service:

Service | Fee Schedule
a. Certificate of [m]Mailing | 947
b. Insurance | 943
c. Registered [m]Mail | 942
d. Special [h]Handling | 952

[932.42 Only the shipper may purchase insurance service for the +erchandise return parcel by indicating the amount of insurance on the merchandise return label before providing it to the customer. The customer who returns a parcel to the shipper under merchandise return service may not purchase insurance.]

932.5 Fees

932.51 [The fee for the merchandise return service is set forth in Fee Schedule 932. This fee is paid by the shipper.]The permit holder must pay the accounting fee specified in Fee Schedule 1000 once each 12-month period for each advance deposit account.

932.6 Authorizations and Licenses

932.61 A permit fee as set forth in Schedule 1000 must be paid once each [calendar year]12-month period by shippers utilizing [m]Merchandise [r]Return service.

932.62 The merchandise return permit may be canceled for failure to maintain sufficient funds in a trust account to cover postage and fees on returned parcels or for distributing merchandise return labels that do not conform to Postal Service specifications.

933 ON-SITE METER [SETTING] SERVICE

933.1 Definition

933.11 On-[s]Site [m]Meter [setting or examination service is a service whereby the Postal Service will service a postage meter ]service enables a mailer or meter manufacturer to obtain the following meter-related services from the Postal Service at the mailer's or meter manufacturer's premises[.]:

a. checking a meter in or out of service; and

b. setting or examining a meter.

933.2 [Description of Service]Availability

933.21 On-[s]Site [m]Meter [setting or examination ]service is available on a scheduled basis, and meter setting may be performed on an emergency basis for those customers enrolled in the scheduled on-site meter setting or examination program.

933.3 Fees

933.31 The fees for [o]On-[s]Site [m]Meter [setting or examination ]service are set forth in Fee Schedule 933. The basic meter service fee is charged whenever a postal employee is available to provide a meter-related service in section 933.11 at the mailer's or meter manufacturer's premises, even if no particular service is provided.

934 Reserved

935 BULK PARCEL RETURN SERVICE

935.1 Definition

935.11 Bulk Parcel Return Service provides a method whereby high-volume parcel mailers may have machinable Standard Mail parcels returned to designated postal facilities for pickup by the mailer at a predetermined frequency specified by the Postal Service or delivered by the Postal Service in bulk in a manner and frequency specified by the Postal Service. Such parcels are being returned because they:

[(1)]a. are undeliverable-as-addressed;

[(2)]b. have been opened, resealed, and redeposited into the mail for return to the mailer using the return label described in section 935.36 below; or

[(3)]c. are found in the mailstream, having been opened, resealed, and redeposited by the recipient for return to the mailer, and it is impracticable or inefficient for the Postal Service to return the mailpiece to the recipient for payment of return postage.

935.2 [Description of Service]Availability

935.21 Bulk Parcel Return Service is available only for the return of machinable parcels, as defined by the Postal Service, initially mailed under the following Standard Mail subclasses: Regular and Nonprofit.

935.3 Mailer Requirements[ of the Mailer]

935.31 Mailers must receive authorization from the Postal Service to use Bulk Parcel Return Service.

935.32 To claim eligibility for Bulk Parcel Return Service at each facility through which the mailer requests Bulk Parcel Return Service, the mailer must demonstrate receipt of 10,000 returned machinable parcels at a given delivery point in the previous postal fiscal year or must demonstrate a high likelihood of receiving 10,000 returned parcels in the postal fiscal year for which the service is requested.

935.33 Payment for Bulk Parcel Return Service is made through advance deposit account, or as otherwise specified by the Postal Service.

935.34 Mail for which Bulk Parcel Return Service is requested must bear endorsements specified by the Postal Service.

935.35 Bulk Parcel Return Service mailers must meet the documentation and audit requirements of the Postal Service.

935.36 Mailers of parcels endorsed for Bulk Parcel Return Service may furnish the recipient a return label, prepared at the mailer's expense to specifications set forth by the Postal Service, to authorize return of opened, machinable parcels at the expense of the original mailer. There is no additional fee for use of the label.

935.4 Other Services

935.41 The following services may be purchased in conjunction with Bulk Parcel Return Service:

Service | Fee schedule
a. Address Correction Service | 911
b. Certificate of Mailing | 947
c. Shipper-Paid Forwarding | 936

935.5 Fees

935.51 The per return fee for Bulk Parcel Return Service is set forth in Fee Schedule 935.

935.52 The permit holder must pay the accounting fee specified in Fee Schedule 1000 once each 12-month period for each advance deposit account.

935.6 Authorizations and Licenses

935.61 A permit fee as set forth in Schedule 1000 must be paid once each [calendar year]12-month period by mailers utilizing Bulk Parcel Return Service.

935.62 The Bulk Parcel Return Service permit may be canceled for failure to maintain sufficient funds in an advance deposit account to cover postage and fees on returned parcels or for failure to meet the specifications of the Postal Service, including distribution of return labels that do not conform to Postal Service specifications.

936 SHIPPER-PAID FORWARDING

936.1 Definition

936.11 Shipper-Paid Forwarding [provides a method whereby mailers may]enables mailers to have undeliverable-as-addressed machinable Standard Mail parcels forwarded at applicable First-Class Mail or Package Services mail rates for up to one year from the date that the addressee filed a change-of-address order. If [the parcel, for which ]Shipper-Paid Forwarding is elected[,] for a parcel that is returned, the mailer will pay the applicable First-Class Mail or Package Services mail rate, or the Bulk Parcel Return Service fee, if that service was elected.

936.2 [Description of Service]Availability

936.21 Shipper-Paid Forwarding is available only for the forwarding of machinable parcels, as defined by the Postal Service, initially mailed under the following Standard Mail subclasses: Regular and Nonprofit.

936.22 Shipper-Paid Forwarding is available only if automated Address Correction Service, as described in section 911, is used.

936.3 Mailer Requirements[ of the Mailer]

[936.31 Shipper-Paid Forwarding is available only in conjunction with automated Address Correction Service in section 911.]

936.[32]31 Mail for which Shipper-Paid Forwarding is purchased must meet the preparation requirements of the Postal Service.

936.[33]32 Payment for Shipper-Paid Forwarding is made through advance deposit account, or as otherwise specified by the Postal Service.

936.[34]33 Mail for which Shipper-Paid Forwarding is requested must bear endorsements specified by the Postal Service.

936.4 Other Services

936.41 The following services may be purchased in conjunction with Shipper-Paid Forwarding:

Service | Fee schedule
a. Certificate of Mailing | 947
b. Bulk Parcel Return Service | 935

936.5 Applicable Rates and Fees

936.51 Except as provided in section 935, single-piece rates under the Letters and Sealed Parcels subclass or the Priority Mail subclass of First-Class Mail, or the Parcel Post subclass of Package Services, as set forth in Rate Schedules 221[ and], 223, 521.2A and 521.2B, apply to pieces forwarded or returned under this section.

936.52 The accounting fee specified in Fee Schedule 1000 must be paid once each 12-month period for each advance deposit account.

940 ACCOUNTABILITY AND RECEIPTS

941 CERTIFIED MAIL

941.1 Definition

941.11 Certified [m]Mail service [is a service that provides a mailing receipt to the sender and a record of delivery at the office of delivery.] provides a mailer with evidence of mailing, and guarantees retention of a record of delivery by the Postal Service for a period specified by the Postal Service.

941.2 [Description of Service] Availability

941.21 Certified [m]Mail service is [provided] available for matter mailed as First-Class Mail.

941.3 Included Services

941.[22]31 If requested by the mailer, the Postal Service will indicate the time of acceptance [by the Postal Service will be indicated] on the mailing receipt.

[941.23 A record of delivery is retained at the office of delivery for a specified period of time.]

941.[24]32 If the initial attempt to deliver the mail is not successful, a notice of attempted delivery is left at the mailing address.

[941.25 A receipt of mailing may be obtained only if the article is mailed at a post office, branch or station, or given to a rural carrier.]

941.[26]33 [Additional copies of the original mailing receipt may be obtained by the mailer.] A mailer may obtain a copy of the mailing receipt on terms specified by the Postal Service.

941.[3]4 [Deposit of Mail]Mailer Requirements

941.[31]41 Certified [m]Mail must be deposited in a manner specified by the Postal Service.

941.42 The mailer must mail the article at a post office, branch, or station, or give the article to a rural carrier, in order to obtain a mailing receipt.

941.[4]5 Other Services

941.[41]51 The following services may be obtained in conjunction with mail sent under this section upon payment of the applicable fees:

Service | Fee Schedule
a. Restricted Delivery | 946
b. Return Receipt | 945

941.[5]6 Fees

941.[51]61 The fee[s] for [c]Certified [m]Mail service [are] is set forth in Fee Schedule 941.

942 REGISTERED MAIL

942.1 Definition

942.11 Registered [m]Mail [is a] service [that] provides added protection to mail sent under this section and indemnity in case of loss or damage. The amount of indemnity depends upon the actual value of the article at the time of mailing, up to a maximum of $25,000, and is not available for articles of no value.

942.2 [Description of Service] Availability

942.21 Registered [m]Mail service is available [to mailers of prepaid mail sent as] for prepaid First-Class Mail [except that registered mail must ] of any value, if the mail meets the minimum requirements for length and width [regardless of thickness.] specified by the Postal Service.

[942.22 Registered mail service provides insurance up to a maximum of $25,000, depending upon the actual value at the time of mailing, except that insurance is not available for articles of no value.]

[942.23 There is no limit on the value of articles sent under this section.]

942.[24]22 Registered [m]Mail service is not available for:

a. All delivery points because of the high security required for [r]Registered [m]Mail; in addition, [not all delivery points will be available for registry and ]liability is limited in some geographic areas[;]

b. Mail of any class sent in combination with First-Class Mail;

c. Two or more articles tied or fastened together, unless the envelopes are enclosed in the same envelope or container.

942.3 Included Services

942.[25]31 The following services are provided as part of [r]Registered [m]Mail service at no additional cost to the mailer:

a. A mailing receipt;

b. A record of delivery, retained by the Postal Service for a specified period of time;

c. A notice of attempted delivery, [will be ] left at the mailing address if the initial delivery attempt is unsuccessful; and

d. A notice of nondelivery, [W]when [r]Registered [m]Mail is undeliverable-as-addressed and cannot be forwarded[, a notice of nondelivery is provided].

942.32 Registered Mail is forwarded and returned without additional registry charge.

942.4 Mailer Requirements

942.41 Registered Mail must be deposited in a manner specified by the Postal Service.

[942.26 A claim for complete loss of insured articles may be filed by the mailer only. A claim for damage or for partial loss of insured articles may be filed by either the mailer or addressee.]

942.[27]42 Indemnity claims for [r]Registered [m]Mail must be filed within a period of time, specified by the Postal Service, from the date the article was mailed. A claim concerning complete loss of registered articles may be filled by the mailer only. A claim concerning damage to or partial loss of registered articles may be filed by either the mailer or addressee.

[942.3 Deposit of Mail]

[942.31 Registered mail must be deposited in a manner specified by the Postal Service.]

[942.4 Service]

[942.41 Registered mail is provided maximum security.]

[942.5 Forwarding and Return]

[942.51 Registered mail is forwarded and returned without additional registry charge.]

942.[6]5 Other Services

942.[61]51 The following services may be obtained in conjunction with mail sent under this section upon payment of applicable fees:

Service | Fee Schedule
a. Collect on [d]Delivery | 944
b. Restricted [d]Delivery | 946
c. Return [r]Receipt | 945
d. Merchandise [r]Return (shippers only) | 932

942.[7]6 Fees

942.[71]61 The fees for [r]Registered [m]Mail are set forth in Fee Schedule 942.

942.62 There are no additional Registered Mail fees for forwarding and return of Registered Mail.

943 INSURANCE

943.1 Express Mail Insurance

943.11 Definition

943.111 Express Mail Insurance [is a service that] provides the mailer with indemnity for loss of, rifling of, or damage to items sent by Express Mail.

943.12 [Description of Service] Availability

943.121 Express Mail Insurance is available only for Express Mail.

943.13 Limitations and Mailer Requirements

943.[122]131 Insurance coverage is provided, for no additional charge, up to $500 per piece for document reconstruction, up to $5,000 per occurrence, regardless of the number of claimants. [Insurance coverage is also provided, for no additional charge, up to $500 per piece for merchandise. Insurance coverage for merchandise valued at more than $500 is available for an additional fee, as set forth in Fee Schedule 943. ] The maximum liability for merchandise is $5,000 per piece. For negotiable items, currency, or bullion, the maximum liability is $15.

943.[123]132 Indemnity claims for Express Mail must be filed within a specified period of time from the date the article was mailed.

943.[124]133 Indemnity will be paid under terms and conditions specified by the Postal Service.

943.[125]134 Among other limitations specified by the Postal Service, indemnity will not be paid by the Postal Service for loss, damage or rifling:

a. Of nonmailable matter;

b. Due to improper packaging;

c. Due to seizure by any agency of government; or

d. Due to war, insurrection or civil disturbances.

913.14 Other Services

943.141 Reserved

943.[13]15 Fees

943.[131]151 The fees for Express Mail Insurance service are set forth in Fee Schedule 943.

943.2 General Insurance

943.21 [Retail Insurance] Definition

943.211 [Retail] General Insurance [is a service that ]provides the mailer with indemnity for loss of, rifling of, or damage to mailed items. General Insurance provides a bulk option for mail meeting the conditions described below and specified further by the Postal Service.

[943.212 The maximum liability of the Postal Service for Retail Insurance is $5000.]

943.22 Availability

943.[213]221 [Retail] General Insurance is available for mail sent under the following classification schedules:

a. First-Class Mail, if containing matter that may be mailed as Standard Mail or Package Services;

b. [Parcel Post, Bound Printed Matter, Special, and Library subclasses of Standard Mail.] Package Services;

c. Regular and Nonprofit subclasses of Standard Mail, for Bulk Insurance only, for mail subject to residual shape surcharge.

943.[214]222 [Retail] General Insurance is not available for matter offered for sale, addressed to prospective purchasers who have not ordered or authorized their sending. If such matter is received in the mail, payment will not be made for loss, rifling, or damage.

943.223 The Bulk Insurance option of General Insurance service is available for mail entered in bulk at designated facilities and in a manner specified by the Postal Service, including the use of electronic manifesting.

943.23 Included Services

943.[215]231 For [Retail] General Insurance, the mailer is issued a receipt for each item mailed. For items insured for more than $50, a [receipt] record of delivery is [obtained] retained by the Postal Service for a specified period.

943.[216]232 For items insured for more than $50, a notice of attempted delivery is left at the mailing address when the first attempt at delivery is unsuccessful.

943.233 Mail undeliverable as addressed will be returned to the sender as specified by the sender or by the Postal Service.

[943.217 Retail insurance provides indemnity for the actual value of the article at the time of mailing.]

943.[22]24 [Bulk Insurance] Limitations and Mailer Requirements

943.241 Mail insured under section 943.2 must be deposited as specified by the Postal Service.

[943.221 Bulk Insurance service is available for mail entered in bulk at designated facilities and in a manner specified by the Postal Service, including the use of electronic manifesting, and sent under the following classification schedules:]

[a. First-Class Mail, if containing matter that may be mailed as Standard Mail;]

[b. Parcel Post, Bound Printed Matter, Special, and Library subclasses of Standard Mail.]

943.[222]242 Bulk Insurance must bear[s] endorsements and identifiers specified by the Postal Service. Bulk Insurance mailers must meet the documentation requirements of the Postal Service.

943.243 By insuring an item, the mailer guarantees forwarding and return postage.

943.[223]244 General Insurance, other than Bulk Insurance, provides indemnity for the actual value of the article at the time of mailing. Bulk Insurance provides indemnity for the lesser of (1) the actual value of the article at the time of mailing, or (2) the wholesale cost of the contents to the sender.

[943.23 Claims]

943.[231]245 For [Retail Insurance,] General insurance, other than Bulk Insurance, a claim for complete loss may be filed by the mailer only, and a claim for damage or for partial loss may be filed by either the mailer or addressee. For Bulk Insurance, all claims must be filed by the mailer.

[943.232 A claim for damage or loss on a parcel sent merchandise return under section 932 may be filed only by the purchaser of the insurance.]

943.[233]246 Indemnity claims must be filed within a specified period of time from the date the article was mailed.

[943.24 Deposit of Mail]

[943.241 Mail insured under section 943.2 must be deposited as specified by the Postal Service.]

[943.25 Forwarding and Return]

[943.251 By insuring an item, the mailer guarantees forwarding and return postage unless instructions on the piece mailed indicate that it not be forwarded or returned.]

[943.252 Mail undeliverable as addressed will be returned to the sender as specified by the sender or by the Postal Service.]

943.[26]25 Other Services

943.[261]251 The following services, if applicable to the subclass of mail, may be obtained in conjunction with mail sent under this section upon payment of the applicable fees:

Service | Fee Schedule
a.Parcel Airlift | 951
b.Restricted [d]Delivery (for items insured for more than $50) | 946
c.Return [r]Receipt (for items insured for more than $50) | 945
d.Special [h]Handling | 952
e.Merchandise [r]Return (shippers only) | 932

943.[27]26 Fees

943.[271]261 The fees for General Insurance are set forth in Fee Schedule 943.

944 COLLECT ON DELIVERY

944.1 Definition

944.11 Collect on Delivery (COD) service [is a service that ]allows a mailer to mail an article for which full or partial payment has not yet been received and have the price, the cost of postage and fees, and anticipated or past due charges collected by the Postal Service from the addressee when the article is delivered.

944.2 [Description of Service] Availability

944.21 COD service is available for collection of [$600] $1,000 or less upon the delivery of postage prepaid mail sent under the following classification schedules:

a. Express Mail

b. First-Class Mail

c. [Parcel Post, Bound Printed Matter, Special, and Library subclasses of Standard Mail] Package Services

944.22 Service under this section is not available for:

a. Collection agency purposes;

b. Return of merchandise about which some dissatisfaction has arisen, unless the new addressee has consented in advance to such return;

c. Sending only bills or statements of indebtedness, even though the sender may establish that the addressee has agreed to collection in this manner; however, when the legitimate COD shipment [consisting] consists of merchandise or bill of lading, [is being mailed,] the balance due on a past or anticipated transaction may be included in the charges on a COD article, provided the addressee has consented in advance to such action;

d. Parcels containing moving-picture films mailed by exhibitors to moving-[ ]picture manufacturers, distributors, or exchanges;

e. Goods that have not been ordered by the addressee.

944.3 Included Services

944.[23]31 COD service provides the mailer with insurance against loss, rifling and damage to the article as well as failure to receive the amount collected from the addressee. This provision insures only the receipt of the instrument issued to the mailer after payment of COD charges, and is not to be construed to make the Postal Service liable upon any such instrument other than a Postal Service money order.

944.[24]32 A receipt is issued to the mailer for each piece of COD mail. Additional copies of the original mailing receipt may be obtained by the mailer.

944.[25]33 Delivery of COD mail will be made in a manner specified by the Postal Service. If a delivery to the mailing address is not attempted or if a delivery attempt is unsuccessful, a notice of attempted delivery will be left at the mailing address.

944.[26]34 The mailer may receive a notice of nondelivery if the piece mailed is endorsed appropriately.

944.[27]35 The mailer may designate a new addressee or alter the COD charges by submitting the appropriate form and by paying the appropriate fee as set forth in Fee Schedule 944.

[944.28 A claim for complete loss may be filed by the mailer only. A claim for damage or for partial loss may be filed by either the mailer or addressee.]

[944.29 COD indemnity claims must be filed within a specified period of time from the date the article was mailed.]

944.[3]4 Limitations and Mailer Requirements[ of the Mailer]

944.[31]41 [COD mail must be identified as COD mail.]The mailer must identify COD mail as COD mail, as specified by the Postal Service.

[944.4 Deposit of Mail]

944.[41]42 COD mail must be deposited in a manner specified by the Postal Service.

[944.5 Forwarding and Return]

944.[51]43 A mailer of COD mail guarantees to pay any return postage, unless otherwise specified on the piece mailed.

944.[52]44 For COD mail sent as [Standard Mail] Package Services mail, postage at the applicable rate will be charged to the addressee:

a. When an addressee, entitled to delivery to the mailing address under Postal Service regulations, requests delivery of COD mail that was refused when first offered for delivery;

b. For each delivery attempt, to an addressee entitled to delivery to the mailing address under Postal Service regulations, after the second such attempt.

944.45 A claim for complete loss may be filed by the mailer only. A claim for damage or for partial loss may be filed by either the mailer or addressee.

944.46 COD indemnity claims must be filed within a specified period of time from the date the article was mailed, and meet the requirements specified by the Postal Service.

944.[6]5 Other Services

944.[61]51 The following services, if applicable to the subclass of mail, may be obtained in conjunction with mail sent under this section upon payment of the applicable fee:

Service | Fee Schedule
a. Registered [m]Mail, if sent as First-Class | 942
b. Restricted [d]Delivery | 946
c. Special [h]Handling | 952

944.[7]6 Fees

944.[71] 61 Fees for COD service are set forth in Fee Schedule 944.

945 RETURN RECEIPT

945.1 Definition

945.11 Return [r]Receipt service [is a service that ]provides evidence to the mailer that an article has been received at the delivery address. Mailers requesting Return Receipt service at the time of mailing will be provided, as appropriate, the signature of the addressee or addressee's agent, the date delivered, and the address of delivery, if different from the address on the mailpiece. Mailers requesting Return Receipt service after mailing will be provided the date of delivery and the name of the person who signed for the article.

945.2 [Description of Service] Availability

945.21 Return [r]Receipt service is available for mail sent under the following sections or classification schedules:

Service | Fee schedule
a. Certified [m]Mail | 941
b. COD [m]Mail | 944
c. Insurance (if insured for more than $50) | 943
d. Registered [m]Mail | 942
[e. Delivery Confirmation | 948]
[f.]e. Express Mail
[g.]f. Priority Mail (merchandise only)
[h.]g. Standard Mail (limited to [merchandise sent by Parcel Post, Bound Printed Matter, Special, and Library subclasses)] merchandise subject to residual shape surcharge and sent by Regular and Nonprofit subclasses)
[i.]h. Package Services

945.22 Return [r]Receipt service is available at the time of mailing or, when purchased in conjunction with [c] Certified [m]Mail, COD, Insurance (if for more than $50), [r]Registered [m]Mail, or Express Mail, after mailing.

[945.23 Mailers requesting return receipt service at the time of mailing will be provided, as appropriate, the signature of the addressee or addressee's agent, the date delivered, and the address of delivery, if different from the address on the mailpiece.]

[945.24 Mailers requesting return receipt service after mailing will be provided the date of delivery and the name of the person who signed for the article.]

945.3 Included Services

945.[25]31 If the mailer does not receive a return receipt within a specified period of time from the date of mailing, the mailer may request [a duplicate return receipt.]evidence of delivery from the delivery record, at no additional fee.[No fee is charged for a duplicate return receipt.]

945.4 Other Services

945.41 Reserved

945.[3]5 Fees

945.[31]51 The fees for [r]Return [r]Receipt service are set forth in Fee Schedule 945.

946 RESTRICTED DELIVERY

946.1 Definition

946.11 Restricted [d]Delivery service [is a service that provides a means by which a mailer may direct that delivery will be made only ]enables a mailer to direct the Postal Service to limit delivery to the addressee or to someone authorized by the addressee to receive such mail.

946.2 [Description of Service] Availability

946.21 This service is available for mail sent under the following sections:

Service | Fee schedule
a. Certified Mail | 941
b. COD Mail | 944
c. Insurance (if insured for more than $50) | 943
d. Registered Mail | 942

946.22 Restricted [d]Delivery is available to the mailer at the time of mailing or after mailing.

946.23 Restricted [d]Delivery service is available for delivery only to natural persons specified by name.

946.3 Included Services

946.[24]31 A record of delivery will be retained by the Postal Service for a period specified [period of time]by the Postal Service.

[946.25 Failure to provide restricted delivery service when requested after mailing, due to prior delivery, is not grounds for refund of the fee or communications charges.]

946.4 Other Services

946.41 Reserved

946.[3]5 Fees

946.[31]51 The fee[s] for [r]Restricted [d]Delivery service [are]is set forth in Fee Schedule 946.

946.52 The fee (or communications charges) will not be refunded for failure to provide restricted delivery service when requested after mailing, due to prior delivery.

947 CERTIFICATE OF MAILING

947.1 Definition

947.11 Certificate of [m]Mailing service [is a service that furnishes evidence of] furnishes evidence that mail has been presented to the Postal Service for mailing.

947.2 [Description of Service] Availability

947.21 Certificate of [m]Mailing service is available [to mailers of matter sent under the classification schedule to] for matter sent using any class of mail.

[947.22 A receipt is not obtained upon delivery of the mail to the addressee. No record of mailing is maintained at the post office.]

[947.23 Additional copies of certificates of mailing may be obtained by the mailer.]

947.3 Included Service

947.31 The mailer may obtain a copy of a Certificate of Mailing on terms specified by the Postal Service.

947.4 Limitations

947.31 The service does not entail retention of a record of mailing by the Postal Service and does not provide evidence of delivery.

947.[3]5 Other Services

947.[31]51 The following services, if applicable to the subclass of mail, may be obtained in conjunction with mail sent under this classification schedule upon payment of the applicable fees:

Service | Fee schedule
a. Parcel [a]Airlift | 951
b. Special [h]Handling | 952

947.[4]6 Fees

947.[41]61 The fees for [c]Certificate of [m]Mailing service are set forth in Fee Schedule 947.

948 DELIVERY CONFIRMATION

948.1 Definition

948.11 Delivery [c]Confirmation service provides electronic confirmation to the mailer that an article was delivered or that a delivery attempt was made.

948.2 [Description of Service] Availability

948.21 Delivery [c]Confirmation service is available for Priority Mail and [the Parcel Post, Bound Printed Matter, Special and Library subclasses of Standard Mail.] Package Services mail, as well as mail subject to the residual shape surcharge in the Regular and Nonprofit subclasses of Standard Mail.

948.3 Mailer Requirements

948.[22]31 Delivery [c]Confirmation service may be requested only at the time of mailing.

948.[23]32 Mail for which [d]Delivery [c]Confirmation service is requested must meet preparation requirements [established] specified by the Postal Service, and bear a Delivery Confirmation barcode specified by the Postal Service.

948.[24]33 Matter for which [d]Delivery [c]Confirmation service is requested must be deposited in a manner specified by the Postal Service.

948.4 Other Services

948.41 Reserved

948.[3]5 Fees

948.[31]51 The fees for Delivery [c]Confirmation service [is subject to the fees ] are set forth in Fee Schedule 948.

949 SIGNATURE CONFIRMATION

949.1 Definition

949.11 Signature Confirmation service provides electronic confirmation to the mailer that an article was delivered or that a delivery attempt was made, and a copy of the signature of the recipient.

949.2 Availability

949.21 Signature Confirmation is available for Priority Mail and Package Services mail.

949.3 Mailer Requirements

949.31 Signature Confirmation service may be requested only at the time of mailing.

949.32 Mail for which Signature Confirmation service is requested must meet preparation requirements specified by the Postal Service, and bear a Delivery Confirmation barcode specified by the Postal Service.

949.33 Matter for which Signature Confirmation is requested must be deposited in a manner specified by the Postal Service.

949.4 Other Services

949.41 Reserved

949.5 Fees

949.51 The fees for Signature Confirmation service are set forth in Fee Schedule 949.

950 Parcel Handling

951 PARCEL AIRLIFT (PAL)

951.1 Definition

951.11 Parcel [a]Airlift service [is a service that] provides for air transportation of parcels on a space available basis to or from military post offices outside the contiguous 48 states.

951.2 [Description of Service] Availability

951.21 Parcel [a]Airlift service is available for mail sent under the [Standard Mail] Package Services Classification Schedule.

951.3 [Physical Limitations] Mailer Requirements

951.31 The minimum physical limitations established for the mail sent under the classification schedule for which postage is paid apply to [p]Parcel [a]Airlift mail. In no instance may the parcel exceed 30 pounds in weight, or 60 inches in length and girth combined.

[951.4 Requirements of the Mailer]

951.[41]32 Mail sent under this section must be endorsed as specified by the Postal Service.

[951.5 Deposit of Mail]

951.[51] 33 [PAL] Parcel Airlift mail must be deposited in a manner specified by the Postal Service.

951.[6]4 Forwarding and Return 951.[61]41[PAL]Parcel Airlift mail sent for delivery outside the contiguous 48 states is forwarded as set forth in section 2030 of the General Definitions, Terms and Conditions. [PAL]Parcel Airlift mail sent for delivery within the contiguous 48 states is forwarded or returned as set forth in section 353 as appropriate.

951.[7]5 Other Services

951.[71]51 The following services, if applicable to the subclass of mail, may be obtained in conjunction with mail sent under this section upon payment of the applicable fees:

Service | Fee Schedule
a. Certificate of [m]Mailing | 947
b. Insurance | 943
c. Restricted [d]Delivery (if insured for more than $50) | 946
d. Return [r]Receipt (if insured for more than $50) | 945
e. Special [h]Handling | 952

951.[8]6 Fees

951.[81]61 The fees for [p]Parcel [a]Airlift service are set forth in Fee Schedule 951.

952 SPECIAL HANDLING

952.1—Definition

952.11—Special [h]Handling service [is a service that] provides preferential handling to the extent practicable during dispatch and transportation.

952.2 [Description of Service]Availability

952.21 Special [h]Handling service is available for mail sent under the following classification schedules:

a. First-Class Mail

b. [Parcel Post, Bound Printed Matter, Special, and Library subclasses of Standard Mail] Package Services

[952.22 Special handling service is mandatory for matter that requires special attention in handling, transportation and delivery.]

952.3 Mailer Requirements [of the Mailer]

Mail sent under this section must be identified as specified by the Postal Service.

[952.4 Deposit of Mail]

952.[41]32 Mail sent under this section must be deposited in a manner specified by the Postal Service.

952.33 Special Handling service is mandatory for matter that requires special attention in handling, transportation and delivery.

952.[5]4 Forwarding and Return 952.[51] 41 If undeliverable as addressed, [s]Special [h]Handling mail that is forwarded to the addressee is given special handling without requiring payment of an additional handling fee. However, additional postage at the applicable Standard Mail rate is collected on delivery.

952.[6]5 Other Services

952.[61]51 The following services, if applicable to the subclass of mail, may be obtained in conjunction with mail sent under this section upon payment of the applicable fees:

Service | Fee Schedule
a. COD [m]Mail | 944
b. Insurance | 943
c. Parcel [a]Airlift | 951
d. Merchandise [r]Return (shippers only) | 932

952.[7]6 Fees

952.[71]61 The fees for [s]Special [h]Handling service are set forth in Fee Schedule 952.

960 STAMPED PAPER

961 STAMPED ENVELOPES

961.1 Definition

961.11 Plain [s]Stamped [e]Envelopes and printed [s]Stamped [e]Envelopes are envelopes with postage thereon offered for sale by the Postal Service.

961.2 [Description of Service]Availability

961.21 Stamped [e]Envelopes are available for:

a. First-Class Mail within the first rate increment.

b. Standard Mail mailed at a minimum per piece rate as specified by the Postal Service.

961.22 Printed [s]Stamped [e]Envelopes may be obtained by special request.

961.3 Fees

961.31 The fees for [s]Stamped [e]Envelopes are set forth in Fee Schedule 961.

962 STAMPED CARDS

962.1 Definition

962.11 [Stamped Cards.

]Stamped Cards are cards with postage imprinted or impressed on them[and], and supplied by the Postal Service for the transmission of messages.[

962.12 Double Stamped Cards.]

Double Stamped Cards consist of two attached cards, one of which may be detached by the receiver and returned by mail as a single Stamped Card.

962.2 Availability

962.[2]21 [Description of Service.

]Stamped Cards are available for First-Class Mail.

962.3 Fees

962.[3]31 [Fees

]The fees for Stamped Cards are set forth in Fee Schedule 962.

970 POSTAL MONEY ORDERS

971 [DOMESTIC POSTAL]MONEY ORDER[S] SERVICE

971.1 Definition

971.11 Money [o]Order service [is a service that ]provides the customer with an instrument for payment of a specified sum of money.

971.2 [Description of Service]Limitations

971.21 The maximum value for which a domestic postal money order may be purchased is $700. Other restrictions on the number or dollar value of postal money order sales, or both, may be imposed by law or under regulations prescribed by the Postal Service.

971.3 Included Services

971.[22]31 A receipt of purchase is provided at no additional cost.

971.[23]32 The Postal Service will replace money orders that are spoiled or incorrectly prepared, regardless of who caused the error, without charge if replaced on the date originally issued.

971.[24]33 If a replacement money order is issued after the date of original issue because the original was spoiled or incorrectly prepared, the applicable money order fee may be collected from the customer.

971.[25]34 Inquiries or claims may be filed by the purchaser, payee, or endorsee.

971.4 Other Services

971.41 Reserved

971.[3]5 Fees

971.[31]51 The fees for [domestic postal m]Money [o]Order[s] service are set forth in Fee Schedule 971.

980 ACCEPTANCE ALTERNATIVES

981 MAILING ONLINE

981.1 Definition

Mailing Online is a service that allows mailers to submit electronic documents, with address lists, for subsequent conversion into hard copy form, entry as mail, and delivery.

981.2 Availability

981.21 Mailing Online is available for documents submitted in an electronic form, along with an address list, to be entered under the following classification schedules:

a. Express Mail;

b. First-Class Mail;

c. Regular and Nonprofit subclasses of Standard Mail.

981.22 Except as provided in section 981.23, documents presented through Mailing Online are eligible for only the following rate categories:

a. Express Mail Next Day Service and Second Day Service

b. First-Class Mail Letters and Sealed Parcels Automation Letters Basic

c. First-Class Mail Letters and Sealed Parcels Automation Flats Basic

d. First-Class Mail Cards Automation Basic

e. First-Class Mail Single-Piece Priority Mail

f. Standard Mail Regular Automation Basic Letters

g. Standard Mail Regular Automation Basic Flats

h. Standard Mail Nonprofit Automation Basic (starting on a date to be specified by the Postal Service)

i. Standard Mail Nonprofit Automation Basic Flats (starting on a date to be specified by the Postal Service)

981.23 That portion of a Mailing Online mailing consisting of pieces with addresses that cannot be made to meet Postal Service addressing requirements is not eligible for any Automation Basic rate categories, but instead may be sent, at the option of the Mailing Online customer, at the applicable single-piece rates for First-Class Mail Letters and Sealed Parcels, First-Class Mail Cards, or Priority Mail.

981.3 Mailer Requirements[ of the Mailer]

981.31 Documents and address lists must be presented in electronic form, as specified by the Postal Service, through the Internet site specified by the Postal Service. Documents must be prepared using application software approved by the Postal Service.

981.4 Other Special Services

Other special services that are available in conjunction with the subclass of mail chosen by the Mailing Online customer are available for Mailing Online pieces only as specified by the Postal Service.

981.5 Fees

981.51 The fees for Mailing Online are described in Fee Schedule 981.

981.6 Functionally Equivalent Systems

981.61 General.

Mailpieces created by a system certified by the Postal Service to be functionally equivalent to Mailing Online are eligible for the same rate categories as Mailing Online mailpieces. Mailpieces created by a certified, functionally equivalent service are in no case eligible for rate categories providing larger discount than Mailing Online mailpieces would receive.

981.62 Definition.

A functionally equivalent system is one which is capable of all of the following, comparable to Mailing Online, as specified by the Postal Service:

a. accepting documents and mailing lists from remote users in electronic form, such as via the Internet or converting documents and mailing lists to electronic form;

b. using the electronic documents, mailing lists, and other software including sortation software certified by the Postal Service that sorts to the finest level of sortation possible, to create barcoded mailpieces meeting the requirements for automation category mail, with 100 percent standardized addresses on all pieces claiming discounted rates;

c. commingling mailpieces from all sources without diversion to any other system and batching them according to geographic destination prior to printing and mailing; and

d. generating volumes that exceed on average any otherwise applicable volume minimums.

981.63 Certification

981.631 General.

Functionally equivalent systems must meet the requirements for certification specified by the Postal Service.

981.632 Fee.

Functionally equivalent systems are subject to the annual certification fee set forth in Fee Schedule 1000.

981.633 Cancellation.

Certification can be cancelled by the Postal Service for failure to continue to meet the requirements of this section and those specified by the Postal Service.

981.7 Duration of Experimental Service Period

981.71 The provisions of section 981 expire the later of:

a. three years after the implementation date specified by the Postal Service Board of Governors, or

b. if, by the expiration date specified in (a), a proposal to make Mailing Online permanent is pending before the Postal Rate Commission, the later of:

1. three months after the Commission takes action on such proposal under section 3624 of Title 39, or

2. —if applicable on the implementation date for a permanent Mailing Online.

General Definitions, Terms and Conditions

1000 General Definitions

As used in this Domestic Mail Classification Schedule, the following terms have the meanings set forth below.

1001 Advertising

Advertising includes all material for the publication of which a valuable consideration is paid, accepted, or promised, that calls attention to something for the purpose of getting people to buy it, sell it, seek it, or support it. If an advertising rate is charged for the publication of reading matter or other material, such material shall be deemed to be advertising. Articles, items, and notices in the form of reading matter inserted in accordance with a custom or understanding that textual matter is to be inserted for the advertiser or his products in the publication in which a display advertisement appears are deemed to be advertising. If a publisher advertises his own services or publications, or any other business of the publisher, whether in the form of display advertising or editorial or reading matter, this is deemed to be advertising.

1002 Aspect Ratio

Aspect ratio is the ratio of width to length.

1003 Bills and Statements of Account

1003.1 A bill is a request for payment of a definite sum of money claimed to be owing by the addressee either to the sender or to a third party. The mere assertion of an indebtedness in a definite sum combined with a demand for payment is sufficient to make the message a bill.

1003.2 A statement of account is the assertion of the existence of a debt in a definite amount but which does not necessarily contain a request or a demand for payment. The amount may be immediately due or may become due after a certain time or upon demand or billing at a later date.

1003.3 A bill or statement of account must present the particulars of an indebtedness with sufficient definiteness to inform the debtor of the amount he is required for acquittal of the debt. However, neither a bill nor a statement of account need state the precise amount if it contains sufficient information to enable the debtor to determine the exact amount of the claim asserted.

1003.4 A bill or statement of account is not the less a bill or statement of account merely because the amount claimed is not in fact owing or may not be legally collectible.

1004 Girth

Girth is the measurement around a piece of mail at its thickest part.

1005 Invoice

An invoice is a writing showing the nature, quantity, and cost or price of items shipped or sent to a purchaser or consignor.

1006 Permit Imprints

Permit imprints are printed indicia indicating postage has been paid by the sender under the permit number shown.

1007 Preferred Rates

Preferred rates are the reduced rates established pursuant to 39 U.S.C. 3626.

1008 ZIP Code

The ZIP Code is a numeric code that facilitates the sortation, routing, and delivery of mail.

1009 Nonprofit Organizations and Associations

Nonprofit organizations or associations are organizations or associations not organized for profit, none of the net income of which benefits any private stockholder or individual, and which meet the qualifications set forth below for each type of organization or association. The standard of primary purpose applies to each type of organization or association, except veterans' and fraternal. The standard of primary purpose requires that each type of organization or association be both organized and operated for the primary purpose. The following are the types of organizations or associations that may qualify as authorized nonprofit organizations or associations.

a. Religious. A nonprofit organization whose primary purpose is one of the following:

i. To conduct religious worship;

ii. To support the religious activities of nonprofit organizations whose primary purpose is to conduct religious worship;

iii. To perform instruction in, to disseminate information about, or otherwise to further the teaching of particular religious faiths or tenets.

b. Educational. A nonprofit organization whose primary purpose is one of the following:

i. The instruction or training of the individual for the purpose of improving or developing his capabilities;

ii. The instruction of the public on subjects beneficial to the community.

An organization may be educational even though it advocates a particular position or viewpoint so long as it presents a sufficiently full and fair exposition of the pertinent facts to permit an individual or the public to form an independent opinion or conclusion. On the other hand, an organization is not educational if its principal function is the mere presentation of unsupported opinion.

c. Scientific. A nonprofit organization whose primary purpose is one of the following:

i. To conduct research in the applied, pure or natural sciences;

ii. To disseminate systematized technical information dealing with applied, pure or natural sciences.

d. Philanthropic. A nonprofit organization primarily organized and operated for purposes beneficial to the public. Philanthropic organizations include, but are not limited to, organizations that are organized for:

i. Relief of the poor and distressed or of the underprivileged;

ii. Advancement of religion;

iii. Advancement of education or science;

iv. Erection or maintenance of public buildings, monuments, or works;

v. Lessening of the burdens of government;

vi. Promotion of social welfare by organizations designed to accomplish any of the above purposes or:

(A) To lessen neighborhood tensions;

(B) To eliminate prejudice and discrimination;

(C) To defend human and civil rights secured by law; or

(D) To combat community deterioration and juvenile delinquency.

e. Agricultural. A nonprofit organization whose primary purpose is the betterment of the conditions of those engaged in agriculture pursuits, the improvement of the grade of their products, and the development of a higher degree of efficiency in agriculture. The organization may advance agricultural interests through educational activities; the holding of agricultural fairs; the collection and dissemination of information concerning cultivation of the soil and its fruits or the harvesting of marine resources; the rearing, feeding, and management of livestock, poultry, and bees, or other activities relating to agricultural interests. The term agricultural nonprofit organization also includes any nonprofit organization whose primary purpose is the collection and dissemination of information or materials relating to agricultural pursuits.

f. Labor. A nonprofit organization whose primary purpose is the betterment of the conditions of workers. Labor organizations include, but are not limited to, organizations in which employees or workmen participate, whose primary purpose is to deal with employers concerning grievances, labor disputes, wages, hours of employment and working conditions.

g. Veterans'. A nonprofit organization of veterans of the armed services of the United States, or an auxiliary unit or society of, or a trust or foundation for, any such post or organization.

h. Fraternal. A nonprofit organization that meets all the following criteria:

i. Has as its primary purpose the fostering of brotherhood and mutual benefits among its members;

ii. Is organized under a lodge or chapter system with a representative form of government;

iii. Follows a ritualistic format; and

iv. Is comprised of members who are elected to membership by vote of the members.

2000 Delivery of Mail

2010 Delivery Services

The Postal Service provides the following modes of delivery:

a. Caller service. The fees for caller service are set forth in Fee Schedule 921.

b. Carrier delivery service.

c. General delivery.

d. Post office box service. The fees for post office box service are set forth in Fee Schedule 921.

2020 Conditions of Delivery

2021 General

Except as provided in section 2022, 2030, and 3030, mail will be delivered as addressed unless the Postal Service is instructed otherwise by the addressee in writing.

2022 Refusal of Delivery

The addressee may control delivery of his mail. The addressee may refuse to accept a piece of mail that does not require a delivery receipt at the time it is offered for delivery or after delivery by returning it unopened to the Postal Service. For mail that requires a delivery receipt, the addressee or his representative may read and copy the name of the sender of registered, insured, certified, COD, return receipt, and Express Mail prior to accepting delivery. Upon signing the delivery receipt the piece may not be returned to the Postal Service without the applicable postage and fees affixed.

2023 Receipt

If a signed receipt is required, mail will be delivered to the addressee (or competent member of his family), to persons who customarily receive his mail or to one authorized in writing to receive the addressee's mail.

2024 Jointly Addressed Mail

Mail addressed to several persons may be delivered to any one of them. When two or more persons make conflicting orders for delivery for the same mail, the mail shall be delivered as determined by the Postal Service.

2025 Commercial Mail Receiving Agents

Mail may be delivered to a commercial mail receiving agency on behalf of another person. In consideration of delivery of mail to the commercial agent, the addressee and the agent are considered to agree that:

a. No change-of-address order will be filed with the post office when the agency relationship is terminated;

b. When remailed by the commercial agency, the mail is subject to payment of new postage.

2026 Mail Addressed To Organizations

Mail addressed to governmental units, private organizations, corporations, unincorporated firms or partnerships, persons at institutions (including but not limited to hospitals and prisons), or persons in the military is delivered as addressed or to an authorized agent.

2027 Held Mail

Mail will be held for a specified period of time at the office of delivery upon request of the addressee, unless the mail:

a. Has contrary retention instructions;

b. Is perishable; or

c. Is registered, COD, insured, return receipt, certified, or Express Mail for which the normal retention period expires before the end of the specified holding period.

2030 Forwarding and Return

2031 Forwarding

Forwarding is the transfer of undeliverable-as-addressed mail to an address other than the one originally placed on the mailpiece. All post offices will honor change-of-address orders for a period of time specified by the Postal Service.

2032 Return

Return is the delivery of undeliverable-as-addressed mail to the sender.

2033 Applicable Provisions

The provisions of sections 150, 250, 350, 450, 550, 935 and 936 apply to forwarding and return.

2034 Forwarding for Postal Service Adjustments

When mail is forwarded due to Postal Service adjustments (such as, but not limited to, the discontinuance of the post office of original address, establishment of rural carrier service, conversion to city delivery service from rural, readjustment of delivery districts, or renumbering of houses and renaming of streets), it is forwarded without charge for a period of time specified by the Postal Service.

3000 POSTAGE AND PREPARATION

3010 Packaging

Mail must be packaged so that:

a. The contents will be protected against deterioration or degradation;

b. The contents will not be likely to damage other mail, Postal Service employees or property, or to become loose in transit;

c. The package surface must be able to retain postage indicia and address markings;

d. It is marked by the mailer with a material that is neither readily water soluble nor easily rubbed off or smeared, and the marking will be sharp and clear.

3020 Envelopes

Paper used in the preparation of envelopes may not be of a brilliant color. Envelopes must be prepared with paper strong enough to withstand normal handling.

3030 Payment of Postage and Fees

Postage must be fully prepaid on all mail at the time of mailing, except as authorized by law or this Schedule. Except as authorized by law or this Schedule, mail deposited without prepayment of sufficient postage shall be delivered to the addressee subject to payment of deficient postage, returned to the sender, or otherwise disposed of as specified by the Postal Service. Mail deposited without any postage affixed will be returned to the sender without any attempt at delivery.

3040 Methods for Paying Postage and Fees

Postage for all mail may be prepaid with postage meter indicia, adhesive stamps, [or] permit imprint, or other payment methods [unless otherwise limited or] specified by the Postal Service. [The following methods of paying postage and fees require p]Prior authorization for use of certain payment methods may be required, as specified by [from] the Postal Service[:]. A fee is charged for authorization to use a permit imprint, as set forth in Schedule 1000.

[a. Permit imprint,

b. Postage meter,

c. Precanceled stamps, precanceled envelopes, and mailer's precanceled postmarks.]

[3050 Authorization Fees]

[Fees for authorization to use a permit imprint are set forth in Schedule 1000. No fee is charged for authorization to use a postage meter. Fees for setting postage meters are set forth in Fee Schedule 933. No fee is charged for authorization to use precanceled stamps, precanceled envelopes or mailer's precanceled postmark.]

3050 Reserved

3060 Special Service Fees

Fees for special services may be prepaid in any manner appropriate for the class of mail indicated or as otherwise specified by the Postal Service.

3070 Marking of Unpaid Mail

Matter authorized for mailing without prepayment of postage must bear markings identifying the class of mail service. Matter so marked will be billed at the applicable rate of postage set forth in this Schedule. Matter not so marked will be billed at the applicable First-Class rate of postage.

3080 Refund of Postage

When postage and special service fees have been paid on mail for which no service is rendered for the postage or fees paid, or collected in excess of the lawful rate, a refund may be made. There shall be no refund for registered, COD, general insurance, and Express Mail Insurance fees when the article is withdrawn by the mailer after acceptance. In cases involving returned articles improperly accepted because of excess size or weight, a refund may be made.

3090 Calculation of Postage

When a rate schedule contains per piece and per pound rates, the postage shall be the sum of the charges produced by those rates. When a rate schedule contains a minimum per piece rate and a pound rate, the postage shall be the greater of the two. When the computation of postage yields a fraction of a cent in the charge, the next higher whole cent must be paid.

4000 POSTAL ZONES

4010 Geographic Units of Area

In the determination of postal zones, the earth is considered to be divided into units of area thirty minutes square, identical with a quarter of the area formed by the intersecting parallels of latitude and meridians of longitude. The distance between these units of area is the basis of the postal zones.

4020 Measurement of Zone Distances

The distance upon which zones are based shall be measured from the center of the unit of area containing the dispatching sectional center facility or multi-ZIP coded post office not serviced by a sectional center facility. A post office of mailing and a post office of delivery shall have the same zone relationship as their respective sectional center facilities or multi-ZIP coded post offices, but this shall not cause two post offices to be regarded as within the same local zone.

4030 Definition of Zones

4031 Local Zone

The local zone applies to mail mailed at any post office for delivery at that office; at any city letter carrier office or at any point within its delivery limits for delivery by carriers from that office; at any office from which a rural route starts for delivery on the same route; and on a rural route for delivery at the office from which the route starts or on any rural route starting from that office.

4032 First Zone

The first zone includes all territory within the quadrangle of entry in conjunction with every contiguous quadrangle, representing an area having a mean radial distance of approximately 50 miles from the center of a given unit of area. The first zone also applies to mail between two post offices in the same sectional center.

4033 Second Zone

The second zone includes all units of area outside the first zone lying in whole or in part within a radius of approximately 150 miles from the center of a given unit of area.

4034 Third Zone

The third zone includes all units of area outside the second zone lying in whole or in part within a radius of approximately 300 miles from the center of a given unit of area.

4035 Fourth Zone

The fourth zone includes all units of area outside the third zone lying in whole or in part within a radius approximately 600 miles from the center of a given unit of area.

4036 Fifth Zone

The fifth zone includes all units of area outside the fourth zone lying in whole or in part within a radius of approximately 1,000 miles from the center of a given unit of area.

4037 Sixth Zone

The sixth zone includes all units of area outside the fifth zone lying in whole or in part within a radius of approximately 1,400 miles from the center of a given unit of area.

4038 Seventh Zone

The seventh zone includes all units of area outside the sixth zone lying in whole or in part within a radius of approximately 1,800 miles from the center of a given unit of area.

4039 Eighth Zone

The eighth zone includes all units of area outside the seventh zone.

4040 Zoned Rates

Except as provided in section 4050, rates according to zone apply for zone-rated mail sent between Postal Service facilities including armed forces post offices, wherever located.

4050 APO/FPO Mail

4051 General

Except as provided in section 4052, the rates of postage for zone-rated mail transported between the United States, or the possessions or territories of the United States, on the one hand, and Army, Air Force and Fleet Post Offices on the other, or among the latter, shall be the applicable zone rates for mail between the place of mailing or delivery and the city of the postmaster serving the Army, Air Force or Fleet Post Office concerned.

4052 Transit Mail

The rates of postage for zone-rated mail that is mailed at or addressed to an Armed Forces post office and is transported directly to or from Armed Forces post offices at the expense of the Department of Defense, without transiting any of the 48 contiguous states (including the District of Columbia), shall be the applicable local zone rate; provided, however, that if the distance from the place of mailing to the embarkation point or the distance from the point of debarkation to the place of delivery is greater than the local zone for such mail, postage shall be assessed on the basis of the distance from the place of mailing to the embarkation point or the distance from the point of debarkation to the place of delivery of such mail, as the case may be. The word “transiting” does not include enroute transfers at coastal gateway cities which are necessary to transport military mail directly between military post offices.

5000 PRIVACY OF MAIL

5010 First-Class and Express Mail

Matter mailed as First-Class Mail or Express Mail shall be treated as mail which is sealed against postal inspection and shall not be opened except as authorized by law.

5020 All Other Mail

Matter not paid at First-Class Mail or Express Mail rates must be wrapped or secured in the manner specified by the Postal Service so that the contents may be examined. Mailing of sealed items as other than First-Class Mail or Express Mail is considered consent by the sender to the postal inspection of the contents.

6000 Mailable Matter

6010 General

Mailable matter is any matter which:

a. Is not mailed in contravention of 39 U.S.C. Chapter 30, or of 17 U.S.C. 109;

b. While in the custody of the Postal Service is not likely to become damaged itself, to damage other pieces of mail, to cause injury to Postal Service employees or to damage Postal Service property; and

c. Is not mailed contrary to any special conditions or limitations placed on transportation or movement of certain articles, when imposed under law by the U.S. Department of the Treasury; U.S. Department of Agriculture; U.S. Department of Commerce; U.S. Department of Health and Human Services, U.S. Department of Transportation; and any other Federal department or agency having legal jurisdiction.

6020 Minimum Size Standards

The following minimum size standards apply to all mailable matter:

a. All items must be at least 0.007 inch[es] thick, and

b. all items, other than keys and identification devices, which are 0.25 inch thick or less must be

i. rectangular in shape,

ii. at least 3.5 inches in width, and

iii. at least 5 inches in length.

6030 Maximum Size and Weight Standards

Where applicable, the maximum size and weight standards for each class or subclass of mail are set forth in sections 130, 230, [322.16,] 330, [and]430, 521.6, and 530. Additional limitations may be applicable to specific subclasses, and rate and discount categories as provided in the eligibility provisions for each subclass or category.

Stanley F. Mires,
Chief Counsel, Legislative.

[FR Doc. 00-32319 Filed 12-22-00; 8:45 am]

BILLING CODE 7710-12-P